ENVIRONMENTAL PROTECTION AGENCY

40 CFR Part 63

[EPA-HQ-OAR-2018-0074; FRL-10006-88-OAR]

RIN 2060-AT86

National Emission Standards for Hazardous Air Pollutants: Organic Liquids Distribution (Non-Gasoline) Residual Risk and Technology Review

AGENCY: Environmental Protection Agency (EPA).

ACTION: Final rule.

SUMMARY: This action finalizes the residual risk and technology review (RTR) conducted for the Organic Liquids Distribution (Non-Gasoline) (OLD) source category regulated under National Emission Standards for Hazardous Air Pollutants (NESHAP). The U.S. Environmental Protection Agency (EPA) is finalizing amendments to the storage tank requirements as a result of the RTR. In addition, we are taking final action to correct and clarify regulatory provisions related to emissions during periods of startup, shutdown, and malfunction (SSM); add requirements for electronic reporting of performance test results and reports, performance evaluation reports, compliance reports, and Notification of Compliance Status (NOCS) reports; add operational requirements for flares; and make other minor technical improvements. We estimate that these amendments will reduce emissions of hazardous air pollutants (HAP) from this source category by 186 tons per year (tpy), which represents an approximate 8 percent reduction of HAP emissions from the source category.

DATES: This final rule is effective on July 7, 2020. The incorporation by reference (IBR) of certain publications listed in the rule is approved by the Director of the Federal Register as of July 7, 2020.

ADDRESSES: The EPA has established a docket for this action under Docket ID No. EPA-HQ-OAR-2018-0074. All documents in the docket are listed on the https://www.regulations.gov/ website. Although listed, some information is not publicly available, e.g., Confidential Business Information or other information whose disclosure is restricted by statute. Certain other material, such as copyrighted material, is not placed on the internet and will be publicly available only in hard copy form. Publicly available docket materials are available either electronically through https://www.regulations.gov/, or in hard copy at the EPA Docket Center, WJC West Building, Room Number 3334, 1301 Constitution Ave. NW, Washington, DC. The Public Reading Room hours of operation are 8:30 a.m. to 4:30 p.m., Eastern Standard Time (EST), Monday through Friday. The telephone number for the Public Reading Room is (202) 566-1744, and the telephone number for the EPA Docket Center is (202) 566-1742.

FOR FURTHER INFORMATION CONTACT: For questions about this final action, contact Mr. Neil Feinberg, Sector Policies and Programs Division (E143-01), Office of Air Quality Planning and Standards, U.S. Environmental Protection Agency, Research Triangle Park, North Carolina 27711; telephone number: (919) 541-2214; fax number: (919) 541-0516; and email address: feinberg.stephen@epa.gov. For specific information regarding the risk assessment, contact Ms. Darcie Smith, Health and Environmental Impacts Division (C539-02), Office of Air Quality Planning and Standards, U.S. Environmental Protection Agency, Research Triangle Park, North Carolina 27711; telephone number: (919) 541-2076; fax number: (919) 541-0840; and email address: smith.darcie@epa.gov. For information about the applicability of the NESHAP to a particular entity, contact Mr. Jon Cox, Office of Enforcement and Compliance Assurance, U.S. Environmental Protection Agency, WJC South Building, 1200 Pennsylvania Ave. NW, Washington, DC 20460; telephone number: (202) 564-1395; and email address: cox.john@epa.gov.

SUPPLEMENTARY INFORMATION:

Preamble acronyms and abbreviations. We use multiple acronyms and terms in this preamble. While this list may not be exhaustive, to ease the reading of this preamble and for reference purposes, the EPA defines the following terms and acronyms here:

ANSI American National Standards Institute

APCD air pollution control device

ASTM American Society for Testing and Materials

CAA Clean Air Act

CARB California Air Resources Board

CBI Confidential Business Information

CDX Central Data Exchange

CEDRI Compliance and Emissions Data Reporting Interface

CF Code of Federal Regulations

CMS continuous monitoring systems

CRA Congressional Review Act

EPA Environmental Protection Agency

ERT Electronic Reporting Tool

FTIR Fourier Transform Infrared (FTIR) Spectroscopy

HAP hazardous air pollutant(s)

HON National Emission Standards for Organic Hazardous Air Pollutants from the Synthetic Organic Chemical Manufacturing Industry, also known as the Hazardous Organic NESHAP

HQ hazard quotient

IBR incorporation by reference

ICR Information Collection Request

km kilometer

LEL lower explosive limit

LDAR leak detection and repair

MACT maximum achievable control technology

MDL method detection limit

MIR maximum individual risk

NESHAP national emission standards for hazardous air pollutants

NHVcz net heating value in the combustion zone gas

NHVvg net heating value of the flare vent gas

NOCS Notification of Compliance Status

NTTAA National Technology Transfer and Advancement Act

OAQPS Office of Air Quality Planning and Standards

OLD Organic Liquids Distribution (Non-Gasoline)

OMB Office of Management and Budget

PDF portable document format

POM polycyclic organic matter

ppm parts per million

ppmv parts per million by volume

PRA Paperwork Reduction Act

PRD pressure relief device

psia pounds per square inch absolute

REL reference exposure level

RFA Regulatory Flexibility Act

RTR residual risk and technology review

SCAQMD South Coast Air Quality Management District

SDS safety data sheet(s)

SOCMI synthetic organic chemical manufacturing industry

SSM startup, shutdown, and malfunction

TAC Texas Administrative Code

The Court United States Court of Appeals for the District of Columbia Circuit

TOSHI target organ-specific hazard index

tpy tons per year

UMRA Unfunded Mandates Reform Act

URE unit risk estimate

VCS voluntary consensus standard

VOC volatile organic compound(s)

VPX vapor pressure

Background information. On October 21, 2019, the EPA proposed revisions to the OLD NESHAP based on our RTR. In this action, we are finalizing decisions and revisions for the rule. We summarize some of the more significant comments we timely received regarding the proposed rule and provide our responses in this preamble. A summary of all other public comments on the proposal and the EPA's responses to those comments is available in the Summary of Public Comments and Responses for Risk and Technology Review for Organic Liquids Distribution (Non-Gasoline), Docket ID No. EPA-HQ-OAR-2018-0074. A “track changes” version of the regulatory language that incorporates the changes in this action is available in the docket.

Organization of this document. The information in this preamble is organized as follows:

I. General Information

A. Does this action apply to me?

B. Where can I get a copy of this document and other related information?

C. Judicial Review and Administrative Reconsideration

II. Background

A. What is the statutory authority for this action?

B. What is the OLD source category and how does the NESHAP regulate HAP emissions from the source category?

C. What changes did we propose for the OLD source category in our October 21, 2019, RTR proposal?

III. What is included in this final rule?

A. What are the significant changes since proposal?

B. What are the final rule amendments based on the risk review for the OLD source category?

C. What are the final rule amendments based on the technology review for the OLD source category?

D. What are the final rule amendments pursuant to CAA Section 112(d)(2) and (3) for the OLD source category?

E. What are the final rule amendments addressing emissions during periods of SSM?

F. What other changes have been made to the NESHAP?

G. What are the effective and compliance dates of the standards?

IV. What is the rationale for our final decisions and amendments for the OLD source category?

A. Residual Risk Review for the OLD Source Category

B. Technology Review for the OLD Source Category

C. Amendments Pursuant to CAA Section 112(d)(2) and (3) for the OLD Source Category

D. Amendments Addressing Emissions During Periods of SSM

E. Technical Amendments to the MACT Standards

V. Summary of Cost, Environmental, and Economic Impacts and Additional Analyses Conducted

A. What are the affected facilities?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR Part 51

K. Executive Order 12898: Federal Actions to Address Environmental Justice in Minority Populations and Low-Income Populations

L. Congressional Review Act (CRA)

I. General Information

A. Does this action apply to me?

Regulated entities. Categories and entities potentially regulated by this action are shown in Table 1 of this preamble.

Table 1—Neshap and Industrial Source Categories Affected by This Final Action
NESHAP and source category | NAICS ¹ code(s)
Organic Liquids Distribution (Non-Gasoline) | 3222, 3241, 3251, 3252, 3259, 3261, 3361, 3362, 3399, 4247, 4861, 4869, 4931, 5622.
¹ North American Industry Classification System.

Table 1 of this preamble is not intended to be exhaustive, but rather to provide a guide for readers regarding entities likely to be affected by the final action for the source category listed. The final standards are directly applicable to the affected sources. Federal, state, local, and tribal government entities are not affected by this final action. As defined in the Initial List of Categories of Sources Under Section 112(c)(1) of the Clean Air Act Amendments of 1990 (see 57 FR 31576, July 16, 1992) and Documentation for Developing the Initial Source Category List, Final Report (see EPA-450/3-91-030, July 1992), the OLD source category includes, but is not limited to, those activities associated with the storage and distribution of organic liquids other than gasoline, at sites which serve as distribution points from which organic liquids may be obtained for further use and processing.

The OLD source category involves the distribution of organic liquids into, out of, or within a source. The distribution activities include the storage of organic liquids in storage tanks not subject to other 40 CFR part 63 standards and transfers into or out of the tanks from or to cargo tanks, containers, and pipelines. The types of organic liquids and emission sources covered by the OLD NESHAP are frequently found at many types of facilities that are already subject to other NESHAP. If equipment is in OLD service and is subject to another 40 CFR part 63 NESHAP, then that equipment is not subject to the corresponding requirements in the OLD NESHAP.

To determine whether your facility is affected, you should examine the applicability criteria in the appropriate NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/organic-liquids-distribution-national-emission-standards-hazardous. Following publication in the Federal Register, the EPA will post the Federal Register version and key technical documents at this same website.

Additional information is available on the RTR website at https://www.epa.gov/stationary-sources-air-pollution/risk-and-technology-review-national-emissions-standards-hazardous. This information includes an overview of the RTR program, and links to project websites for the RTR source categories.

C. Judicial Review and Administrative Reconsideration

Under the Clean Air Act (CAA) section 307(b)(1), judicial review of this final action is available only by filing a petition for review in the United States Court of Appeals for the District of Columbia Circuit (the Court) by September 8, 2020. Under CAA section 307(b)(2), the requirements established by this final rule may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of HAP from stationary sources. In the first stage, we must identify categories of sources emitting one or more of the HAP listed in CAA section 112(b) and then promulgate technology-based NESHAP for those sources. “Major sources” are those that emit, or have the potential to emit, any single HAP at a rate of 10 tpy or more, or 25 tpy or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that reduce the volume of or eliminate HAP emissions through process changes, substitution of materials, or other modifications; enclose systems or processes to eliminate emissions; collect, capture, or treat HAP when released from a process, stack, storage, or fugitive emissions point; are design, equipment, work practice, or operational standards; or any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT standards for existing sources can be less stringent than floors for new sources, but they cannot be less stringent than the average emission limitation achieved by the best-performing 12 percent of existing sources in the category or subcategory (or the best-performing five sources for categories or subcategories with fewer than 30 sources). In developing MACT standards, we must also consider control options that are more stringent than the floor under CAA section 112(d)(2). We may establish standards more stringent than the floor, based on the consideration of the cost of achieving the emissions reductions, any non-air quality health and environmental impacts, and energy requirements.

In the second stage of the regulatory process, the CAA requires the EPA to undertake two different analyses, which we refer to as the technology review and the residual risk review. Under the technology review, we must review the technology-based standards and revise them “as necessary (taking into account developments in practices, processes, and control technologies)” no less frequently than every 8 years, pursuant to CAA section 112(d)(6). Under the residual risk review, we must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f).¹ For more information on the statutory authority for this rule, see 84 FR 56288, October 21, 2019.

¹ The Court has affirmed this approach of implementing CAA section 112(f)(2)(A): NRDC v. EPA, 529 F.3d 1077, 1083 (D.C. Cir. 2008) (“If EPA determines that the existing technology-based standards provide an ‘ample margin of safety,’ then the Agency is free to readopt those standards during the residual risk rulemaking.”).

B. What is the OLD source category and how does the NESHAP regulate HAP emissions from the source category?

The EPA promulgated the OLD NESHAP on February 3, 2004 (69 FR 5038). The standards are codified at 40 CFR part 63, subpart EEEE. The OLD industry consists of facilities that store and distribute organic liquids. The source category covered by this MACT standard currently includes 177 facilities. As defined in the Initial List of Categories of Sources Under Section 112(c)(1) of the Clean Air Act Amendments of 1990 (see 57 FR 31576, July 16, 1992) and Documentation for Developing the Initial Source Category List, Final Report (see EPA-450/3-91-030, July, 1992), the OLD source category includes, but is not limited to, those activities associated with the storage and distribution of organic liquids other than gasoline, at sites that serve as distribution points from which organic liquids may be obtained for further use and processing.

The OLD source category involves the distribution of organic liquids into, out of, or within a source. The distribution activities include the storage of organic liquids in storage tanks and transfers into or out of the tanks from or to cargo tanks, containers, and pipelines that are not subject to other 40 CFR part 63 standards. Organic liquids are any crude oils downstream of the first point of custody transfer and any non-crude oil liquid that contains at least 5 percent by weight of any combination of the 98 HAP listed in Table 1 to 40 CFR part 63, subpart EEEE. For the purposes of the OLD NESHAP, organic liquids do not include gasoline, kerosene (No. 1 distillate oil), diesel (No. 2 distillate oil), asphalt, and heavier distillate oil and fuel oil, fuel that is consumed or dispensed on the plant site, hazardous waste, wastewater, ballast water, or any non-crude liquid with an annual average true vapor pressure less than 0.7 kilopascals (0.1 psia). The OLD NESHAP applies only to major sources of HAP (i.e., sources that have the potential to emit 10 tpy of any single HAP or 25 tpy of combined HAP). Facilities subject to this NESHAP fall into two types, either (1) petrochemical terminals primarily in the business of storing and distributing organic liquids or (2) chemical production facilities or other manufacturing facilities that either have a distribution terminal not subject to another major source NESHAP or have a few miscellaneous storage tanks or transfer racks that are not otherwise subject to another major source NESHAP.

Equipment controlled by the OLD NESHAP are storage tanks, transfer operations, transport vehicles while being loaded, and equipment leak components that have the potential to leak such as valves, pumps, and sampling connections. Table 2 to subpart EEEE of 40 CFR part 63 contains the criteria for control of storage tanks and transfer racks. If a storage tank of a certain threshold capacity stores crude oil or a non-crude organic liquid having a threshold sum of partial pressures of HAP, then compliance options are either to (1) route emissions through a closed vent system to a control device that achieves a 95-percent control efficiency or (2) comply with work practice standards of 40 CFR part 63, subpart WW (i.e., operate the tank with a compliant internal floating roof or a compliant external floating roof), route emissions through a closed vent system to a fuel gas system of a process, or route emissions through a vapor balancing system that meets requirements specified in 40 CFR 63.2346(a)(4). Storage tanks storing non-crude organic liquids having a sum of partial pressures of HAP of at least 11.1 psia do not have the option to comply using an internal or external floating roof tank. Table 2 to subpart EEEE of 40 CFR part 63 contains the criteria for control of transfer racks, which are based on the facility-wide organic liquid loading volume for organic liquids having threshold HAP content expressed in percent HAP by weight of the organic liquid. For transfer racks required to control HAP emissions, the standards are either to (1) route emissions through a closed vent system to a control device that achieves 98-percent control efficiency or (2) operate a compliant vapor balancing system. Transfer rack systems that fill containers of 55 gallons or greater are required to comply with specific provisions of 40 CFR part 63, subpart PP or operate a vapor balancing system.

The NESHAP requires leak detection and repair for certain equipment components associated with storage tanks and transfer racks subject to this subpart and for certain equipment components associated with pipelines between such storage tanks and transfer racks. The components are specified in the definition of “Equipment leak components” at 40 CFR 63.2406 and include pumps, valves, and sampling connection systems in organic liquid service. The owner or operator is required to comply with the requirements for pumps, valves, and sampling connections in 40 CFR part 63, subpart TT (control level 1), subpart UU (control level 2), or subpart H. This requires the use of EPA Method 21 of appendix A-7 to 40 CFR part 60 (“EPA Method 21”) to determine the concentration of any detected leaks and to repair the component if the measured concentration exceeds the definition of a leak within the applicable subpart.

Pressure relief devices (PRDs) on vapor balancing systems are required to be monitored quarterly for leaks. An instrument reading of 500 parts per million (ppm) or greater defines a leak. Leaks must be repaired within 5 days.

The types of organic liquids and emission sources covered by the OLD NESHAP are frequently found at many types of facilities that are already subject to other NESHAP. If equipment is in OLD service and is subject to another 40 CFR part 63 NESHAP, then that equipment is not subject to the corresponding requirements in the OLD NESHAP.

C. What changes did we propose for the OLD source category in our October 21, 2019, RTR proposal?

On October 21, 2019, the EPA published a proposed rule in the Federal Register for the OLD NESHAP, 40 CFR part 63, subpart EEEE, that took into consideration the RTR analyses. We proposed to find that the risks from the source category are acceptable, the current standards provide an ample margin of safety to protect public health, and more stringent standards are not necessary to prevent an adverse environmental effect. In the proposed rule, we proposed under CAA section 112(d)(6) to amend the requirements for storage tanks and equipment leaks and also provided an alternative fenceline monitoring program in the OLD source category as follows:

• Revise the average true vapor pressure thresholds of the OLD storage tanks for existing sources requiring control to align with those of the Petroleum Refineries NESHAP (40 CFR part 63, subpart CC) and National Emission Standards for Organic Hazardous Air Pollutants from the Synthetic Organic Chemical Manufacturing Industry (“HON,” 40 CFR part 63, subpart G) where the thresholds are lower;

• add a requirement for leak detection and repair (LDAR), using EPA Method 21 with a 500 ppm leak definition for fittings on fixed roof storage tanks (e.g., access hatches) that are not subject to the 95 percent by weight control requirements;

• revise the equipment leak requirements to add connectors to the monitored equipment component types at a leak definition of 500 ppm (i.e., requiring connectors to be compliant with either 40 CFR part 63, subparts UU or H); and

• add an optional implementation of a fenceline monitoring program in lieu of the proposed technology review amendments for storage tanks and equipment leaks discussed above.

In the proposed rule, we proposed under CAA section 112(d)(2) and (3) to amend the operating and monitoring requirements for flares used as air pollution control devices (APCDs) in the OLD source category as follows:

• We proposed to add requirements at 40 CFR 63.2380 to directly apply the Petroleum Refinery Sector Rule (PRSR) flare definitions and requirements in 40 CFR part 63, subpart CC to flares in the OLD source category, with certain clarifications and exemptions;

• we proposed to amend requirements that flares used as APCDs in the OLD source category operate pilot flame systems continuously when organic HAP emissions are routed to the flare. Specifically, we proposed to remove the cross-reference to the General Provisions and instead cross-reference 40 CFR part 63, subpart CC to include in the OLD NESHAP the existing provisions that flares operate with a pilot flame at all times and be continuously monitored for a pilot flame using a thermocouple or any other equivalent device. We also proposed to add a continuous compliance measure that would consider each 15-minute block when there is at least 1 minute where no pilot flame is present when regulated material is routed to the flare as a deviation from the standard;

• we proposed to amend requirements that flares used as APCDs in the OLD source category operate with no visible emissions (except for periods not to exceed a total of 5 minutes during any 2 consecutive hours) when organic HAP emissions are routed to the flare. Specifically, we proposed to remove the cross-reference to the General Provisions and instead cross-reference 40 CFR part 63, subpart CC to include the limitation on visible emissions. We also proposed to clarify that the initial 2-hour visible emissions demonstration should be conducted the first time regulated materials are routed to the flare. With regard to continuous compliance with the visible emissions limitation, we proposed daily visible emissions monitoring for whenever regulated material is routed to the flare. On days the flare receives regulated material, we proposed that owners or operators of flares monitor visible emissions at a minimum of once per day using an observation period of 5 minutes and EPA Method 22. Additionally, whenever regulated material is routed to the flare and there are visible emissions from the flare, we proposed that another 5-minute visible emissions observation period be performed using EPA Method 22, even if the required daily visible emissions monitoring has already been performed. If an employee observes visible emissions, then the owner or operator of the flare would perform a 5-minute EPA Method 22 observation to check for compliance upon initial observation or notification of such event. In addition, in lieu of daily visible emissions observations performed using EPA Method 22, we proposed that owners or operators be allowed to use video surveillance cameras. We also proposed to extend the observation period for a flare to 2 hours whenever visible emissions are observed for greater than 1 continuous minute during any of the required 5-minute observation periods;

• we proposed the consolidation of provisions related to flare tip velocity. Specifically, we proposed to remove the cross-reference to the General Provisions and instead cross-reference 40 CFR part 63, subpart CC to consolidate the specification of maximum flare tip velocity into the OLD NESHAP as a single equation, irrespective of flare type (i.e., steam-assisted, air-assisted, or non-assisted). We also proposed not to include the special flare tip velocity equation in the General Provisions at 40 CFR 63.11(b)(6)(i)(A) for non-assisted flares with hydrogen content greater than 8 percent;

• in lieu of requiring compliance with the operating limits for net heating value of the flare vent gas in the General Provisions, we proposed to cross-reference 40 CFR part 63, subpart CC to include in the OLD NESHAP a single minimum operating limit for the net heating value in the combustion zone gas (NHVcz) of 270 British thermal units per standard cubic foot during any 15-minute period for steam-assisted, air-assisted, and non-assisted flares used as APCDs in the OLD source category. We also proposed to allow engineering estimates to characterize the amount of gas flared and the amount of assist gas (if applicable) introduced into the system. Finally, we proposed that owners or operators of flares in the OLD source category that use grab sampling and engineering calculations to determine compliance must still assess compliance with the NHVcz operating limit on a 15-minute block average using the equation at 40 CFR 63.670(m)(1) and cumulative volumetric flows of flare vent gas, assist steam, and premix assist air; and

• except for the visible emissions operating limits, we proposed to use a 15-minute block averaging period for each proposed flare operating parameter (i.e., presence of a pilot flame, flare tip velocity, and NHVcz) to ensure that the flare is operated within the appropriate operating conditions.

In addition to the amendments proposed for flares used as APCDs, the EPA proposed to clarify that PRDs on vapor return lines of a vapor balancing system are also subject to the vapor balancing system requirements of 40 CFR 63.2346(a)(4)(iv).

We also proposed to:

• Revise the SSM provisions of the MACT rule in order to ensure that they are consistent with the Court decision in Sierra Club v. EPA, 551 F. 3d 1019 (D.C. Cir. 2008);

• add the requirement that owners or operators of OLD facilities submit electronic copies of required performance test reports, performance evaluation reports, compliance reports, NOCS reports, and fenceline monitoring reports through the EPA's Central Data Exchange (CDX) using the Compliance and Emissions Data Reporting Interface (CEDRI);

• add requirements for testing and recordkeeping to confirm the annual average true vapor pressure at least every 5 years, or with a change of commodity in the tank's contents, whichever occurs first, to ensure the tank's applicability and confirm that it should not be subject to the 95-percent control requirements of the regulation;

• add requirements that the contents of tanks that are claimed to be not subject to the OLD NESHAP because they contain less than 5-percent HAP (and, therefore, do not meet the definition of “Organic liquids” within the OLD NESHAP) should be tested every 5 years, or with a change of commodity in the tank's contents, whichever occurs first, to confirm that the tank is not storing “Organic liquids” and, therefore, is not subject to the rule;

• amend the definition of the term “Annual average true vapor pressure” at 40 CFR 63.2406 by replacing one of the acceptable methods for the determination of vapor pressure. We proposed to replace the method, ASTM D2879, “Standard Test Method for Vapor Pressure-Temperature Relationship and Initial Decomposition Temperature of Liquids by Isoteniscope,” with the method, ASTM D6378-18a, “Standard Test Method for Determination of Vapor Pressure (VPX) of Petroleum Products, Hydrocarbons, and Hydrocarbon-Oxygenate Mixtures (Triple Expansion Method).” Other monitoring method clarifications and incorporations by references were also proposed; and

• add a definition of the term “Condensate” and to specify its regulation in this rule in the same way crude oil is regulated at the definition of the term “Organic liquid” and at Tables 2 and 2b to 40 CFR part 63, subpart EEEE.

In addition to the revisions proposed above, we also proposed several editorial clarification and minor corrections to 40 CFR part 63, subpart EEEE.

III. What is included in this final rule?

This action finalizes the EPA's determinations pursuant to the RTR provisions of CAA section 112 for the OLD source category and amends the OLD NESHAP based on those determinations. This action also finalizes other changes to the NESHAP, including adding requirements and clarifications for periods of SSM and bypasses, revising the operating and monitoring requirements for flares used as APCDs; adding provisions for electronic reporting of performance test results and reports, performance evaluation reports, compliance reports, and NOCS reports; and other minor editorial and technical changes. This action also reflects several changes to the October 21, 2019, RTR proposal in consideration of comments received during the public comment period as described in section IV of this preamble.

A. What are the significant changes since proposal?

This section introduces the significant changes to the OLD NESHAP amendments made since proposal being promulgated. These changes are discussed in further detail in section IV of this preamble.

• We are not finalizing the proposed requirements for LDAR using EPA Method 21 with a 500 ppm leak definition for fittings on fixed roof storage tanks (e.g., access hatches) that are not subject to the 95 percent by weight control requirements in the final rule;

• we are not finalizing the proposal to add connectors to the monitored equipment component types at a leak definition of 500 ppm (i.e., requiring connectors to be compliant with either 40 CFR part 63, subparts UU or H);

• we are not finalizing the option of allowing for a fenceline monitoring program in lieu of other requirements;

• we are finalizing standards for storage tank degassing emission points during periods of SSM to ensure a CAA section 112 standard applies “at all times;” and

• we are not finalizing the proposed required testing and recordkeeping for emission sources not requiring control to confirm the annual average true vapor pressure at least every 5 years, or with a change of commodity in the tank's contents, whichever occurs first, to ensure the tank's applicability and confirm that it should not be subject to the 95 percent control requirements of the regulation. Further, we are not finalizing, as proposed, a requirement that the contents of tanks that are claimed to be not subject to the OLD NESHAP because they contain less than 5 percent HAP (and, therefore, do not meet the definition of “Organic liquids” within the OLD NESHAP) should be tested every 5 years, or with a change of commodity in the tank's contents, whichever occurs first, to confirm that the tank is not storing “organic liquids” and, therefore, is not subject to the rule.

B. What are the final rule amendments based on the risk review for the OLD source category?

This section introduces the final amendments to the OLD NESHAP being promulgated pursuant to CAA section 112(f). The EPA proposed no changes to the MACT standards based on the risk review conducted pursuant to CAA section 112(f). In this action, we are finalizing our proposed determination that risks from this source category are acceptable, the standards provide an ample margin of safety to protect public health, and that more stringent standards are not necessary to prevent an adverse environmental effect. See section 3 of the Summary of Public Comments and Responses for the Risk and Technology Review for Organic Liquids Distribution (Non-Gasoline), available in the docket for this action for comments we received regarding risk review and our responses.

C. What are the final rule amendments based on the technology review for the OLD source category?

We determined that there are developments in practices, processes, and control technologies that warrant revisions to the MACT standards for this source category. Therefore, to satisfy the requirements of CAA section 112(d)(6), we are revising the MACT standards to include revised average true vapor pressure thresholds of the OLD storage tanks for existing sources, requiring control to align with those of the Petroleum Refineries NESHAP (40 CFR part 63, subpart CC) and HON (40 CFR part 63, subpart G) where the thresholds are lower.

Section IV.B.3 of this preamble provides a summary of key comments we received on the technology review and our responses.

D. What are the final rule amendments pursuant to CAA Section 112(d)(2) and (3) for the OLD source category?

The EPA is finalizing the changes proposed pursuant to CAA section 112(d)(2) and (3). Consistent with the October 21, 2019, RTR proposal, we are revising monitoring and operational requirements for flares to ensure that OLD facilities that use flares as APCDs meet the MACT standards at all times when controlling HAP emissions. In addition, we are adding provisions and clarifications for periods of SSM and bypasses, including PRD releases, bypass lines on closed vent systems, maintenance activities, and certain gaseous streams routed to a fuel gas system to ensure that CAA section 112 standards apply continuously, consistent with Sierra Club v. EPA 551 F. 3d 1019 (D.C. Cir. 2008). Based on comments received on the proposed rulemaking, we are also adding a standard for storage tank degassing for storage tanks subject to the control requirements in Tables 2 and 2b to 40 CFR part 63, subpart EEEE.

Detailed changes and associated rationale regarding flares and PRDs are set forth in the proposed rule. See 84 FR 56302 through 56306, October 21, 2019. Section IV.C.3 of this preamble provides a summary of key comments we received on the CAA section 112(d)(2) and (3) provisions and our responses.

E. What are the final rule amendments addressing emissions during periods of SSM?

We are finalizing the proposed amendments to the OLD NESHAP to remove and revise provisions related to SSM. In its 2008 decision in Sierra Club v. EPA, 551 F.3d 1019 (D.C. Cir. 2008), the Court vacated portions of two provisions in the EPA's CAA section 112 regulations governing the emissions of HAP during periods of SSM. Specifically, the Court vacated the SSM exemption contained in 40 CFR 63.6(f)(1) and (h)(1), holding that under section 302(k) of the CAA, emissions standards or limitations must be continuous in nature and that the SSM exemption violates the CAA's requirement that some CAA section 112 standards apply continuously. As detailed in section IV.E.1 of the proposal preamble (84 FR 56318, October 21, 2019), the OLD NESHAP requires that the standards apply at all times (see 40 CFR 63.2350(a)), consistent with the Court decision in Sierra Club v. EPA, 551 F. 3d 1019 (D.C. Cir. 2008). We determined that facilities in this source category can generally meet the applicable OLD NESHAP standards at all times, including periods of startup and shutdown. Where appropriate, and as discussed in section III.C of this preamble, we are also finalizing alternative standards in this preamble for storage tank degassing emission points during periods of SSM to ensure a CAA section 112 standard applies “at all times.” Other than the storage tank degassing emission point discussed in section III.C of this preamble, the EPA determined that no additional standards are needed to address emissions during these periods.

Further, the EPA is not finalizing standards for malfunctions. As discussed in the proposal preamble (84 FR 56318, October 21, 2019), the EPA interprets CAA section 112 as not requiring emissions that occur during periods of malfunction to be factored into development of CAA section 112 standards, although the EPA has the discretion to set standards for malfunctions where feasible. Refer to section IV.E.1 of the proposal preamble (84 FR 56318, October 21, 2019) for further discussion of the EPA's rationale for the decision not to set standards for malfunctions, as well as a discussion of the actions a source could take in the unlikely event that a source fails to comply with the applicable CAA section 112(d) standards as a result of a malfunction event, given that administrative and judicial procedures for addressing exceedances of the standards fully recognize that violations may occur despite good faith efforts to comply and can accommodate those situations.

As is explained in more detail below, we are finalizing revisions to the General Provisions table to 40 CFR part 63, subpart EEEE, to eliminate requirements that include rule language providing an exemption for periods of SSM. Additionally, we are finalizing our proposal to eliminate language related to SSM that treats periods of startup and shutdown the same as periods of malfunction, as explained further below. As discussed in the proposal preamble, these revisions are consistent with the requirement in 40 CFR 63.2350(a) that the standards apply at all times.

Also, based on comments received during the public comment period, we are revising the proposed requirements of 40 CFR 63.2378(e) for periods of planned routine maintenance of the control device to allow tank breathing losses to be consistent with our intent at proposal (see 84 FR 56323, October 21, 2019), and we are revising 40 CFR 63.2346(l) to sufficiently address the SSM exemption provisions from subparts referenced by the OLD NESHAP standards (such as 40 CFR part 63, subparts SS, TT, and UU) that are no longer applicable. Finally, we are extending the compliance date of removing the portion of the “deviation” definition in 40 CFR 63.2406 that addresses SSM periods as being applicable to 3 years after publication of the final rule instead of 180 days after publication of the final rule in the Federal Register to provide a consistent compliance date for all final rule SSM provisions due to the addition of the tank degassing requirements discussed in section IV.C of this preamble. See section 10.1 of the Summary of Public Comments and Responses for the Risk and Technology Review for Organic Liquids Distribution (Non-Gasoline), available in the docket for this action, for a summary of the significant comments we received on the SSM provisions and our responses.

F. What other changes have been made to the NESHAP?

This rule also finalizes, as proposed, revisions to several other NESHAP requirements. To increase the ease and efficiency of data submittal and data accessibility, we are finalizing a requirement that owners or operators of facilities in the OLD source category submit electronic copies of required performance test reports, performance evaluation reports, compliance reports, and NOCS reports through the EPA's CDX using CEDRI. A description of the electronic data submission process is provided in the memorandum, Electronic Reporting Requirements for New Source Performance Standards (NSPS) and National Emission Standards for Hazardous Air Pollutants (NESHAP) Rules, available in the docket for this action. The final rule requires that performance test results collected using test methods that are supported by the EPA's Electronic Reporting Tool (ERT) as listed on the ERT website ² at the time of the test be submitted in the format generated through the use of the ERT and that other performance test results be submitted in portable document format (PDF) using the attachment module of the ERT. Similarly, performance evaluation results of continuous emissions monitoring systems (CEMS) measuring relative accuracy test audit pollutants that are supported by the ERT at the time of the test must be submitted in the format generated through the use of the ERT and other performance evaluation results be submitted in PDF using the attachment module of the ERT. The final rule requires that NOCS reports be submitted as a PDF upload in CEDRI. For compliance reports, the final rule requires that owners or operators use the appropriate spreadsheet template to submit information to CEDRI. The final version of the template for these reports will be located on the CEDRI website.³

² https://www.epa.gov/electronic-reporting-air-emissions/electronic-reporting-tool-ert.

³ https://www.epa.gov/electronic-reporting-air-emissions/compliance-and-emissions-data-reporting-interface-cedri.

We also are finalizing, as proposed, provisions that allow facility operators the ability to seek extensions for submitting electronic reports for circumstances beyond the control of the facility, i.e., for a possible outage in the CDX or CEDRI or for a force majeure event in the time just prior to a report's due date, as well as the process to assert such a claim.

We are finalizing the revision of 40 CFR 63.2354(c) to add ASTM D6886-18, “Standard Test Method for Determination of the Weight Percent Individual Volatile Organic Compounds in Waterborne Air-Dry Coatings by Gas Chromatography,” as another acceptable method for the determination of HAP content of an organic liquid. We are also finalizing the replacement of method ASTM D2879 with method ASTM D6378-18a as an acceptable method for determination of whether a total vapor pressure (and, therefore, the sum total of Table 1 to 40 CFR part 63, subpart EEEE HAP) is below the threshold level requiring control for a storage tank.

Finally, we are finalizing all of the revisions that we proposed for clarifying text or correcting typographical errors, grammatical errors, and cross-reference errors. These editorial corrections and clarifications are summarized in 84 FR 56323 through 56324 and Table 9 of the proposal. Section IV.E.3 of this preamble provides a summary of key comments we received on these provisions and our responses.

G. What are the effective and compliance dates of the standards?

The revisions to the OLD NESHAP standards being promulgated in this action are effective on July 7, 2020. From our assessment of the timeframe needed for implementing the entirety of the revised requirements (see 84 FR 56324 and 56325, October 21, 2019), the EPA proposed a period of 3 years to be the most expeditious compliance period practicable. No opposing comments were received during the public comment period on the length of the compliance period and we are finalizing the 3-year period as proposed. Thus, the compliance date of the final amendments for all existing affected sources and all new affected sources that commence construction or reconstruction on or before October 21, 2019, is no later than 3 years after the effective date of the final rule. Furthermore, as discussed in sections III.C and D of this preamble, we are adding a standard for storage tank degassing for storage tanks subject to the control requirements in Tables 2 and 2b to 40 CFR part 63, subpart EEEE since degassing is considered a SSM event for storage tanks. The provisions being finalized are similar to the requirements promulgated in the Petroleum Refineries NESHAP. As we discovered during the Petroleum Refineries NESHAP rulemaking, the challenges faced by affected sources in complying with these requirements necessitated additional compliance time from what was promulgated, eventually having to move the original compliance date of these provisions from February 1, 2016, to August 1, 2018, an additional 2 and a half years.⁴ Therefore, the 3-year compliance date that was proposed for the OLD NESHAP provides a consistent time allowance to OLD sources as was needed for petroleum refineries to fully implement the final amendments to this rule. We have also revised the effective date of removing the portion of the “deviation” definition in 40 CFR 63.2406 that addresses SSM periods as being applicable 3 years after publication of the final rule in the Federal Register to provide a consistent compliance date due to the addition of the tank degassing requirements. For all new affected sources that commenced construction or reconstruction after October 21, 2019, the effective date is July 7, 2020, or upon initial startup, whichever is later.

⁴ See https://www.epa.gov/sites/production/files/2018-07/documents/petrefinery_compliance_ext_factsheet.pdf.

IV. What is the rationale for our final decisions and amendments for the OLD source category?

For each issue, this section provides a description of what we proposed and what we are finalizing for the issue, the EPA's rationale for the final decisions and amendments, and a summary of key comments and responses. For all comments not discussed in this preamble, comment summaries and the EPA's responses can be found in the comment summary and response document available in the docket.

A. Residual Risk Review for the OLD Source Category

1. What did we propose pursuant to CAA section 112(f) for the OLD source category?

Pursuant to CAA section 112(f), the EPA conducted a residual risk review and presented the results of this review, along with our proposed decisions regarding risk acceptability and ample margin of safety, in the October 21, 2019, proposed rule for 40 CFR part 63, subpart EEEE (84 FR 56288). The results of the risk assessment for the proposal are presented briefly below and in more detail in the document, Residual Risk Assessment for the Organic Liquids Distribution (Non-Gasoline) Source Category in Support of the 2020 Risk and Technology Review Final Rule, which is available in the docket for this rulemaking.

Table 2—Organic Liquids Distribution (Non-Gasoline) Inhalation Risk Assessment Results as Proposed
Number of facilities ¹ | Maximum individual cancer risk (in 1 million) ² | Population at increased risk of cancer ≥1-in-1 million | Annual cancer incidence (cases per year) | Maximum chronic noncancer TOSHI ³ | Maximum screening acute noncancer HQ ⁴
157 | 20 | 350,000 | 0.03 | 0.4 | HQREL = 1 (toluene, formaldehyde, and chloroform).
¹ Number of facilities evaluated in the risk analysis. This number is less than the 173 existing facilities identified in the source category because OLD emission points could not be identified at all facilities. This is explained in the Data Quality memorandum. For this category, allowable emissions are assumed to equal actual emissions.
² Maximum individual excess lifetime cancer risk due to HAP emissions from the source category.
³ Maximum target organ-specific hazard index (TOSHI). The target organ system with the highest TOSHI for the source category is respiratory.
⁴ The maximum estimated acute exposure concentration was divided by available short-term threshold values to develop an array of hazard quotient (HQ) values. HQ values shown use the lowest available acute threshold value, which in most cases is the reference exposure level (REL). When an HQ exceeds 1, we also show the HQ using the next lowest available acute dose-response value.

The results of the proposed inhalation risk assessment, as shown in Table 2 of this preamble, indicate the estimated cancer maximum individual risk (MIR) is 20-in-1 million, with 1,3-butadiene from equipment leaks as the major contributor to the risk. At proposal, the total estimated cancer incidence from this source category was estimated to be 0.03 excess cancer cases per year, or one excess case every 33 years. Approximately 350,000 people were estimated to face an increased cancer risk at or above 1-in-1 million due to inhalation exposure to actual HAP emissions from this source category. At proposal, the estimated maximum chronic noncancer TOSHI from inhalation exposure for this source category was 0.4. The screening assessment of worst-case inhalation impacts indicated a worst-case maximum acute HQ of 1 for toluene, formaldehyde, and chloroform based on the 1-hour REL for each pollutant.

At proposal, potential multipathway human health risks were estimated using a three-tier screening assessment of the HAP known to be persistent and bio-accumulative in the environment emitted by facilities in this source category. The only pollutants with elevated Tier 1 and Tier 2 screening values were polycyclic organic matter (POM) (cancer). The Tier 2 screening value for POM was 6, which means that we were confident that the cancer risk is lower than 6-in-1 million. For noncancer, the Tier 2 screening value for both cadmium and mercury was less than 1. There were no exceedances of the lead National Ambient Air Quality Standards (NAAQS).

The ecological risk screening assessment indicated all modeled points were below the Tier 1 screening thresholds based on actual and allowable emissions of arsenic, cadmium, mercury, hydrochloric acid, and hydrofluoric acid. For POM emissions, one facility did have a Tier 1 exceedance for a sediment community no-effect level by a maximum screening value of 6. There were no exceedances of the secondary lead NAAQS.

The EPA considered all health risk factors, including those shown in Table 2 of this preamble, in our risk acceptability determination and proposed that the risks posed by the OLD source category are acceptable (section IV.C.1 of proposal preamble, 84 FR 56309, October 21, 2019).

We then considered whether the existing MACT standards provide an ample margin of safety to protect public health and whether, taking into consideration costs, energy, safety, and other relevant factors, standards are required to prevent an adverse environmental effect. In considering whether the standards are required to provide an ample margin of safety to protect public health, we used the same risk factors that we considered for our acceptability determination and also considered the costs, technological feasibility, and other relevant factors related to emissions control options that might reduce risk associated with emissions from the source category. We proposed that additional emissions controls for the OLD source category are not necessary to provide an ample margin of safety to protect public health (section IV.C.2 of proposal preamble, 84 FR 56310, October 21, 2019).

At proposal, we also evaluated the risk from whole facility emissions in order to put the risks from the source category in context. The maximum lifetime individual cancer risk based on whole facility emissions was estimated to be 2,000-in-1 million at proposal, with ethylene oxide from a non-category source driving the risk. At proposal, the maximum chronic noncancer hazard index based on whole facility emissions was estimated to be 10 (for the kidney) driven by emissions of trichloroethylene from equipment leaks in the solvent recovery operations at a plastic parts manufacturing facility, which are non-category sources.

2. How did the risk review change for the OLD source category?

We have not changed any aspect of the risk assessment since the October 21, 2019 RTR proposal (84 FR 56288) for the OLD source category.⁵

⁵ We note that, due to comments, there are four fewer existing OLD affected sources now than at proposal (i.e., four sources we identified as subject to the OLD NESHAP are not in fact subject to that rule). However, this change does not warrant an update to this analysis since proposal and has, therefore, not been updated.

3. What key comments did we receive on the risk review, and what are our responses?

We received comments in support of and against the proposed residual risk review and our determination that no revisions were necessary under CAA section 112(f)(2) for the OLD source category. Generally, the comments that were not supportive of the determination from the risk reviews suggested changes to the underlying risk assessment methodology. For example, some commenters stated that the EPA should lower the acceptability benchmark so that risks below 100-in-1 million are unacceptable, include emissions outside of the source categories in question in the risk assessment and assume that HAP without dose-response values should be included in the risk assessment. After review of all the comments received, we determined that no changes were necessary. The comments and our specific responses can be found in the document, Summary of Public Comments and Responses for the Risk and Technology Review for Organic Liquids Distribution (Non-Gasoline), available in the docket for this action.

4. What is the rationale for our final approach and final decisions for the risk review?

As noted in our proposal, the EPA sets standards under CAA section 112(f)(2) using “a two-step standard-setting approach, with an analytical first step to determine an `acceptable risk' that considers all health information, including risk estimation uncertainty, and includes a presumptive limit on MIR of approximately 1-in-10 thousand” (see 54 FR 38045, September 14, 1989). We weigh all health risk factors in our risk acceptability determination, including the cancer MIR, cancer incidence, the maximum cancer TOSHI, the maximum acute noncancer HQ, the extent of noncancer risks, the distribution of cancer and noncancer risks in the exposed population, and the risk estimation uncertainties.

Since proposal, neither the risk assessment nor our determinations regarding risk acceptability, ample margin of safety, or adverse environmental effects have changed. For the reasons explained in the proposed rule, we determined that the risks from the OLD source category are acceptable, the current standards provide an ample margin of safety to protect public health, and more stringent standards are not necessary to prevent an adverse environmental effect. Therefore, we are not making any revisions to the existing standards under CAA section 112(f)(2).

B. Technology Review for the OLD Source Category

1. What did we propose pursuant to CAA section 112(d)(6) for the OLD source category?

We proposed, as part of our technology review for storage tanks, the following emission reduction options: (1) Revising the average true vapor pressure thresholds of the OLD storage tanks for existing sources requiring control to align with those of the Petroleum Refineries NESHAP (40 CFR part 63, subpart CC) and HON (40 CFR part 63, subpart G) where the thresholds are lower; and (2) in addition to requirements specified in option 1, requiring LDAR using EPA Method 21 with a 500 ppm leak definition for fittings on fixed roof storage tanks (e.g., access hatches) that are not subject to the 95 percent by weight control requirements.

We proposed option 1 (lower average vapor pressure thresholds for control) as a development in practices, processes, and control technologies for storage tanks because it reflects requirements and applicability thresholds that are widely applicable to existing tanks that are often collocated with OLD sources and that have been found to be cost effective for organic liquid storage tanks. We did not propose revisions to the OLD NESHAP applicability thresholds for new sources, as they were already more stringent than other similar rules. Table 3 of this preamble lists the proposed capacity and average true vapor pressure thresholds for control. As shown in Table 3 of this preamble, we also proposed to clarify that condensate and crude oil are considered to be the same material with respect to OLD applicability (see section IV.E.3 of the October 21, 2019, proposal (84 FR 56288) for more details on this clarification).

Table 3—NESHAP Storage Tank Capacity and Annual Average True Vapor Pressure Thresholds for Control Under Proposed Control Option 1
Existing/new source and tank capacity | Tank contents and average true vapor pressure of total Table 1 to subpart EEEE of 40 CFR part 63 organic HAP
Existing affected source with a capacity ≥18.9 cubic meters (5,000 gallons) and <75.7 cubic meters (20,000 gallons) | Not crude oil or condensate and if the annual average true vapor pressure of the stored organic liquid is ≥27.6 kilopascals (4.0 psia) and <76.6 kilopascals (11.1 psia).
| The stored organic liquid is crude oil or condensate.
Existing affected source with a capacity ≥75.7 cubic meters (20,000 gallons) and <151.4 cubic meters (40,000 gallons) | Not crude oil or condensate and if the annual average true vapor pressure of the stored organic liquid is ≥13.1 kilopascals (1.9 psia) and <76.6 kilopascals (11.1 psia). The stored organic liquid is crude oil or condensate.
Existing affected source with a capacity ≥151.4 cubic meters (40,000 gallons) and <189.3 cubic meters (50,000 gallons) | Not crude oil or condensate and if the annual average true vapor pressure of the stored organic liquid is ≥5.2 kilopascals (0.75 psia) and <76.6 kilopascals (11.1 psia). The stored organic liquid is crude oil or condensate.
Existing affected source with a capacity ≥189.3 cubic meters (50,000 gallons) | Not crude oil or condensate and if the annual average true vapor pressure of the stored organic liquid is <76.6 kilopascals (11.1 psia).
| The stored organic liquid is crude oil or condensate.
Reconstructed or new affected source with a capacity ≥18.9 cubic meters (5,000 gallons) and <37.9 cubic meters (10,000 gallons) | Not crude oil and if the annual average true vapor pressure of the stored organic liquid is ≥27.6 kilopascals (4.0 psia) and <76.6 kilopascals (11.1 psia).
| The stored organic liquid is crude oil or condensate.
Reconstructed or new affected source with a capacity ≥37.9 cubic meters (10,000 gallons) and <189.3 cubic meters (50,000 gallons) | Not crude oil and if the annual average true vapor pressure of the stored organic liquid is ≥0.7 kilopascals (0.1 psia) and <76.6 kilopascals (11.1 psia).
| The stored organic liquid is crude oil or condensate.
Reconstructed or new affected source with a capacity ≥189.3 cubic meters (50,000 gallons) | Not crude oil and if the annual average true vapor pressure of the stored organic liquid is <76.6 kilopascals (11.1 psia).
| The stored organic liquid is crude oil or condensate
Existing, reconstructed, or new affected source meeting any of the capacity criteria specified above | Not crude oil or condensate and if the annual average true vapor pressure of the stored organic liquid is ≥76.6 kilopascals (11.1 psia).

We further proposed option 2 (LDAR) as an improvement in practices for storage tanks because these monitoring methods have been required by other regulatory agencies since promulgation of the OLD NESHAP to confirm the vapor tightness of tank seals and gaskets to ensure compliance with the standards. As we noted at proposal, we have observed leaks on roof deck fittings through monitoring with EPA Method 21 that could not be found with visual observation techniques (see 84 FR 56311, October 21, 2019).

Proposed option 2 applied to any fixed roof storage tank that is part of an OLD affected source that is not subject to the 95 percent by weight and equivalent controls according to the proposed thresholds above. The proposed requirements of option 2 applied to new and existing sources for storage tanks having a capacity of 3.8 cubic meters (1,000 gallons) or greater that store organic liquids with an annual average true vapor pressure of 10.3 kilopascals (1.5 psia) or greater.

Based on our review of the costs and emission reductions for each of the storage tank options, we proposed that control options 1 and 2 were cost-effective strategies for further reducing emissions from storage tanks at OLD facilities and proposed to revise the OLD NESHAP requirements for storage tanks pursuant to CAA section 112(d)(6). Other storage tank control options beyond these two, including installation of geodesic domes on external floating roof tanks, were considered during our technology review but were not found to be generally cost effective were not proposed. Details on the assumptions and methodologies for all options evaluated at proposal are provided in the memorandum, Clean Air Act Section 112(d)(6) Technology Review for Storage Tanks Located in the Organic Liquids Distribution Source Category, available in the docket to this action.

At proposal, our technology review for equipment leaks identified two potential developments in LDAR practices and processes: (1) Adding connectors to the monitored equipment component types at a leak definition of 500 ppm (i.e., requiring connectors to be compliant with either 40 CFR part 63, subparts UU or H); and (2) eliminating the option of 40 CFR part 63, subpart TT for valves, pumps, and sampling connection systems, essentially requiring compliance with 40 CFR part 63, subpart UU or H. These two practices and processes were already in effect at sources that are often collocated with OLD NESHAP sources, such as in the National Emission Standards for Organic Hazardous Air Pollutants for Equipment Leaks (40 CFR part 63, subpart H). Further, we found that several OLD sources were permitted using various state LDAR regulations that incorporate equipment leak provisions at the 40 CFR part 63, subpart UU requirement level or above and that also require connector monitoring as part of the facility's air permit requirements.

For equipment leaks control option 1, we considered that the baseline was that connectors were not controlled using a LDAR program, since the current OLD NESHAP does not include them as equipment to be monitored. For equipment leaks control option 2, we considered lowering the leak definitions for valves and pumps to account for the differences in 40 CFR part 63, subpart UU from the requirements of 40 CFR part 63, subpart TT. That is, valves in light liquid service would drop from a leak definition of 10,000 parts per million by volume (ppmv) to 500 ppmv, and pumps would drop from 10,000 ppmv to 1,000 ppmv.

Based on our review of the costs and emission reductions for each of the equipment leak options, we proposed that control option 1 was a cost-effective strategy for further reducing emissions from equipment leaks at OLD facilities, especially when evaluated based on the expected reductions attributed to the emission inventory for fugitive HAP emissions, and we determined that option 2 was not cost effective for this source category. We proposed, pursuant to CAA section 112(d)(6), revising the OLD NESHAP for equipment leaks to reflect option 1. Details on the assumptions and methodologies for all options that were evaluated at proposal are provided in the memorandum, Clean Air Act Section 112(d)(6) Technology Review for Equipment Leaks Located in the Organic Liquids Distribution Source Category, available in the docket to this action.

As part of the technology review, we also considered options to reduce emissions from transfer racks. We evaluated the thresholds for control in the current rule against the 2012 proposed uniform standards for storage tanks and transfer operations (see Docket ID No. EPA-HQ-2010-0871) and found that the current thresholds for controls are equivalent to or more stringent than those proposed in 2012. We also considered an option that would apply 98 percent control requirements for transfer racks to large throughput transfer racks transferring organic liquid materials that are 5 percent or less by weight HAP. Considering the costs of control and the HAP emissions for these racks, this option was not found to be cost effective. Therefore, we did not propose any changes to the emission standard for transfer racks. For more information, see the Clean Air Act Section 112(d)(6) Technology Review for Transfer Racks Located in the Organic Liquids Distribution Source Category memorandum in the docket for this action.

Also, as part of the technology review, we evaluated developments in processes, practices, and control technologies for measuring and controlling fugitive emissions from individual emission points at OLD sources. We proposed a fenceline monitoring program, available to existing and new OLD facilities, in lieu of implementing the proposed technology review requirements discussed above for storage tanks and equipment leaks. Provisions of the proposed fenceline monitoring program compliance alternative were described in detail in section IV.D.4 of the proposal preamble (see 84 FR 56313 through 56318, October 21, 2019).

The EPA proposed this option for fenceline monitoring for several reasons: (1) There was concern that because of the uncertainty surrounding estimated fugitive emissions from OLD operations, sources may be underestimating actual fugitive emissions from OLD operations; (2) the proposed fenceline monitoring program would provide owners or operators a flexible alternative to appropriately manage fugitive emissions of HAP from OLD operations if they were significantly greater than estimated values; and (3) the proposed frequency of monitoring time-integrated samples on a 2-week basis would provide an opportunity for owners or operators to detect and manage any spikes in fugitive emissions sooner than they might have been detected from equipment subject to annual or quarterly monitoring in the proposed amendments or from equipment that was not subject to equipment leak monitoring in the proposed rule.

The EPA proposed the fenceline monitoring alternative and considered it to be equivalent to the proposed technology review revisions it would replace. Therefore, we proposed the fenceline monitoring alternative under CAA section 112(d)(6) as an alternative equivalent requirement to address fugitive emissions from OLD sources.

2. How did the technology review change for the OLD source category?

After consideration of comments and reevaluation of our analyses at proposal, we are not finalizing the following: Requiring LDAR using EPA Method 21 with a 500 ppm leak definition for fittings on fixed roof storage tanks (e.g., access hatches) that are not subject to the 95 percent by weight control requirements in the final rule; adding connectors to the monitored equipment component types at a leak definition of 500 ppm (i.e., requiring connectors to be compliant with either 40 CFR part 63, subparts UU or H); or allowing the option for a fenceline monitoring program. Summaries of comments on these proposed provisions and our responses are provided below in section IV.B.3 of this preamble.

3. What key comments did we receive on the technology review, and what are our responses?

Comment: Multiple commenters opposed the proposed LDAR requirements for storage tanks that are not required to have emissions controls and are not currently subject to equipment standards that require they be enclosed and leak tight. Several commenters asserted that the EPA's estimated emission reductions for the proposed storage tank leak detection monitoring requirements overestimate emission reductions that may be attributed to these requirements. Many commenters observed that the EPA's estimated volatile organic compound (VOC) reduction of 1.1 tpy includes emissions from the conservation vent, emergency pressure relief vent, and other valves/instruments that were estimated using equipment leak emission factors from the synthetic organic chemical manufacturing industry (SOCMI) from the EPA's Protocol for Equipment Leak Emission Estimates. The commenters stated that the SOCMI emission factors were developed for process equipment containing material at pressures several times greater than an atmospheric storage tank, making their application to such tanks invalid. Commenters also stated that the costs for the proposed tank leak detection monitoring requirements are underestimated. These commenters argued that the EPA did not consider operational and safety issues that these requirements present. Several commenters noted that the language effectively requires a technician to climb up to the roof of a tank and check the entire surface, stressing that these small tanks were not built with the intention of regular roof inspections and do not have the same structural integrity as tanks that were designed with the intention of applying emission controls. One commenter generally supported the proposed revisions related to storage tanks to incorporate developments that the EPA has deemed cost effective and advocated that the EPA require further revisions to satisfy 42 U.S.C. 7412(d)(6).

Response: We have reviewed commenters' concerns and reevaluated the analyses for developing the proposed fixed roof tank LDAR requirements and agree that the emission reduction estimates serving as the basis for the proposed LDAR requirements were likely inaccurate for the smaller volume tanks and provide an overestimate of emission reductions for this control option. Coupled with concerns about additional costs that may be incurred to address safety and operational concerns, the EPA has determined that the proposed LDAR for fixed roof tanks not requiring control does not appear to be a cost-effective control option for this source category. Without appropriate data to better assess the emissions reductions and costs of this option, and given the fact that uncontrolled fixed roof tanks are allowed to breathe and would not necessarily be vapor-tight, we now recognize that the proposed requirements could potentially trigger leak protocols that we did not intend when we proposed the change. Therefore, we are not finalizing the proposed requirements that require LDAR for tanks that are currently beneath the volumetric and vapor pressure thresholds for controlling emissions under the OLD standards.

Comment: Several commenters contended that the EPA cost-effectiveness analysis for connectors was flawed, and based on the EPA's backup document, connector monitoring is not cost effective for OLD facilities and should not be finalized. The commenters stated that the backup document for the EPA's equipment leak analysis does not support the preamble conclusions. One commenter contended that the EPA overestimated the emission reductions achievable from connector monitoring by applying emissions from all equipment leaks to connectors and, thus, overestimating the emission reductions achievable. The commenter also alleged an error in the modeling file for one facility that accounted for half of the equipment leak emissions yet submitted a correction that stated there is no OLD-affected equipment at the facility. Commenters also claimed the EPA underestimated the compliance costs for connector monitoring. One commenter stated that the EPA's cost estimates failed to take into account that connectors at OLD sources tend to be more difficult to access than at refineries or other sources. The commenter further stated that for OLD facilities, for a high percentage of connectors, equipment such as a wheeled scissor-lift or hydraulic scaffold is required for monitoring access as well as a second technician for safety reasons; and additional time is required to move the equipment. Some commenters asserted that the EPA also underestimated costs by underestimating the monitoring frequency allowed under 40 CFR part 63, subpart UU, stating that the frequency should be every 4 years instead of 8 years that were used in the cost estimates. One commenter further contended that the EPA underestimated the administrative costs (e.g., training and reporting costs) for the program by incorrectly assuming no additional administrative costs for OLD facilities that are collocated with processes that already have an LDAR regulatory program. A couple of commenters also added that the industry finds and repairs leaks based on sensory methods, so requiring EPA Method 21 may not result in the level of emissions reductions that the EPA estimates.

Response: We revised our cost and emission reduction estimates and are not finalizing connector monitoring because we no longer find it to be as cost effective for this source category as originally determined. We reviewed commenters' concerns and reevaluated the analyses of emission reductions and cost for connector LDAR requirements and agree that the estimates of emission reductions that were not based on the model plant analysis that served as the basis for this proposed requirement were likely inaccurate and underestimated the cost per ton removed for this control option. Using the model plant emission reductions and costs (see EPA-HQ-OAR-2018-0074-0015), as well as updating measurement frequency, we estimate a cost effectiveness of $10,063/ton HAP. Coupled with unquantified additional costs that may be incurred to address safety concerns specific to OLD facilities, the EPA has determined that connector monitoring is not a cost-effective option for OLD sources. This determination also considers additional uncertainty, such as with the HAP content of the liquid. As a result, we are not finalizing the proposed requirements that require LDAR for connectors.

Comment: No commenters supported the fenceline provisions as proposed. Two commenters advocated that the fenceline monitoring option not be adopted in the rule. These commenters stated that because public health risks are not reduced due to the proposed enhancements to the control requirements for storage tanks and equipment leaks, the fenceline monitoring measures are unnecessary. The commenters also objected to the EPA's characterization of the fenceline monitoring program being an alternative standard since, as the commenters argued, the analytes and action levels are set based on the proposed, more stringent, control requirements and, therefore, facilities would have to install the proposed new controls anyway. These commenters also advocated that a refinery with collocated OLD sources should be allowed to incorporate OLD sources into their Petroleum Refineries NESHAP (40 CFR part 63, subpart CC) fenceline program, because the benzene fenceline monitoring is also appropriate for collocated OLD sources. These commenters also objected to many of the provisions for implementing the monitoring, including that the compliance timeline for commencing fenceline monitoring could be difficult to meet, that the timeline for approving and monitoring new analytes is too short, that OLD sources should be able to use analyte uptake rates that are published by national and international scientific organizations rather than going through EPA validation methods, that the action level determination be revised from 5 times the method detection limit (MDL) to 3 times the MDL to be consistent with previous EPA actions, that the EPA's modeling guidance for OLD sources contains some inconsistencies with the Human Exposure Model (HEM-3) User's Guide, and that a 45-day timeline for corrective action is too short in some cases.

From an alternate perspective, a public health advocate stated that fenceline monitoring should be required in addition to the proposed new emission control requirements for storage tanks and equipment leaks. The commenter stated that because fenceline monitors are a technological development that can reduce emissions, then the CAA requires that both the enhanced emission controls and fenceline monitoring requirements must be adopted. The commenter also advocated for the EPA to require real-time monitoring, like Fourier transform infrared spectroscopy, which has been demonstrated to be technically feasible and has been implemented in the South Coast Air Quality Management District's Rule 1180.

Response: We are not finalizing the fenceline monitoring alternative. The fenceline monitoring alternative was proposed as an optional control requirement to complying with the proposed control requirements for storage tanks and equipment leaks that we are not finalizing as explained above. Without the final requirements for which fenceline monitoring was an alternative compliance approach, fenceline monitoring is no longer necessary.

4. What is the rationale for our final approach for the technology review?

Based on our review and consideration of information provided in comments, the proposed requirement for revising the average true vapor pressure thresholds of the OLD storage tanks for existing sources requiring control to align with those of the Petroleum Refineries NESHAP (40 CFR part 63, subpart CC) and HON (40 CFR part 63, subpart G) where the thresholds are lower is generally acknowledged to be cost effective. However, the other proposed technology review requirements of fixed roof tank LDAR and adding connectors to the LDAR program at OLD sources have been reevaluated in light of commenters' concerns and have not been found to be cost-effective options for the OLD source category at this time. Since the pool of emission reduction requirements is smaller in the final rule than proposed, we find it highly unlikely that OLD sources would have opted to utilize the proposed fenceline monitoring program. Therefore, we are also not finalizing the fenceline monitoring alternative in the final rule.

C. Amendments Pursuant to CAA Sections 112(d)(2) and (3) for the OLD Source Category

1. What did we propose pursuant to CAA sections 112(d)(2) and (3) for the OLD source category?

Under CAA section 112(d)(2) and (3), we proposed to amend the operating and monitoring requirements for flares used as APCDs in the OLD source category to ensure that OLD facilities that use flares as APCDs meet the MACT standards at all times when controlling HAP emissions. We proposed at 40 CFR 63.2380 to directly apply the petroleum refinery flare rule requirements in 40 CFR part 63, subpart CC to flares in the OLD source category with certain clarifications and exemptions. We proposed to retain the General Provisions requirements of 40 CFR 63.11(b) that flares used as APCDs in the OLD source category operate pilot flame systems continuously and that flares operate with no visible emissions (except for periods not to exceed a total of 5 minutes during any 2 consecutive hours) when organic HAP emissions are routed to the flare. We also proposed to consolidate measures related to flare tip velocity and new operational and monitoring requirements related to the combustion zone gas. We proposed to eliminate the cross-references to the General Provisions and instead cross-reference 40 CFR part 63, subpart CC.

The EPA also proposed to clarify that PRDs on vapor return lines of a vapor balancing system are also subject to the vapor balancing system requirements of 40 CFR 63.2346(a)(4)(iv). We requested comment on several issues related to PRDs, including whether work practices should be adopted for PRDs that are not part of a vapor balancing system, whether work practices similar to those promulgated for petroleum refineries in 40 CFR part 63, subpart CC are necessary and appropriate for OLD operations, information on the nature of non-vapor balancing system PRDs, and whether monitoring devices should be required to be installed and operated to ensure continuous compliance with the standard at 40 CFR 63.2346(a)(4)(iv) that no PRD shall open during loading or as a result of diurnal temperature changes.

More information regarding our proposal to address CAA sections 112(d)(2) and (3) can be found in the proposed rule (84 FR 56302, October 21, 2019). Further details regarding comments received and the EPA's responses are discussed below.

2. How did the revisions pursuant to CAA sections 112(d)(2) and (3) change since proposal?

We are finalizing some clarifying edits to the overlap provisions of 40 CFR 63, subpart EEEE to address commenter concerns with overlap for flare provisions in the OLD source category with other regulations. Further, commenters noted some clarifying edits to the simplified requirements allowed in 40 CFR 63.670(j). We have revised the proposed requirements to address these concerns, which are discussed in section 8.0 of the Summary of Public Comments and Responses for Risk and Technology Review for Organic Liquids Distribution (Non-Gasoline), available in the docket for this action.

We received comments that owners or operators have historically considered degassing emissions from shutdown of storage tanks to be covered by their SSM plans per the definition of “Shutdown” included at 40 CFR 63.2406 and that there are several OLD affected sources that are subject to standards for tank degassing in their air permits. We assessed the MACT floor level of control and, as a result, are adding a standard for storage tank degassing for storage tanks subject to the control requirements in Tables 2 and 2b to 40 CFR part 63, subpart EEEE.

We are also finalizing the PRD provisions as proposed. Comments on the PRD provisions and our responses are discussed in section 9.0 of the Summary of Public Comments and Responses for Risk and Technology Review for Organic Liquids Distribution (Non-Gasoline), available in the docket for this action.

3. What key comments did we receive on the proposal revisions pursuant to CAA sections 112(d)(2) and (3), and what are our responses?

Comment: Commenters stated that the proposal to eliminate the SSM provisions makes it unclear as to what the OLD NESHAP compliance obligations are related to fixed roof tank degassing. The commenters added that because tank degassing is included in the shutdown definition, facilities have historically considered fixed roof tank degassing activities to be covered by their SSM plan, which includes procedures for minimizing emissions during shutdown activities. The commenters stated that the EPA is proposing to remove the requirement to implement and follow an SSM plan and adding a new general duty clause at 40 CFR 63.2350(d) that would require facilities to operate and maintain any affected source, including air pollution control device and monitoring equipment, at all times to minimize emissions. Commenters further asserted that at some point it is no longer reasonable or even technically feasible to continue to try to control the dilute vapors using the normal control device or by routing to a fuel gas system or to a process. The commenters noted that some facilities are subject to standards for fixed roof tank degassing in their permits. The commenters supported the Texas requirements for fixed roof tank degassing to represent what the average of the best performers are doing to minimize emissions from fixed roof tank degassing. The commenters concluded that these requirements state that fixed roof storage tanks otherwise required to be controlled must be degassed to a control device or controlled recovery system until the VOC concentration is less than 10,000 ppmv or 10 percent of the lower explosive level (LEL). One commenter also requested that the EPA clarify that once the atmospheric release criterion is met, vapors may also be released after tank entry. The commenter stated that for many tanks, there are sludges in the bottom of the tank or on the walls that may release some hydrocarbon vapors as they are shoveled or hydroblasted off the tank floor and/or walls.

Response: We agree that a standard is reasonable for tank degassing and have included it in the final rule. With the removal of SSM requirements, a standard specific to storage tank degassing did not exist. We agree with the commenters that storage tank degassing is similar to maintenance vents (e.g., equipment openings) found in other rules, and that there must be a point in time when the storage tank can be opened and any emissions vented to the atmosphere. As such, we reviewed available data to determine how the best performers are controlling storage tank degassing emissions.

We, and commenters, are aware of three state or air quality management district provisions regarding storage tank degassing, two in the state of Texas and the third for the South Coast Air Quality Management District (SCAQMD) in California. Texas has degassing provisions in the Texas Administrative Code (TAC) (30 TAC Chapter 115, Subchapter F, Division 3) and through permit conditions (as noted by commenters), and SCAQMD has provisions in Rule 1149. The TAC requirements are the least stringent (35,000 ppmv as methane or 50 percent of the LEL), and the Texas permit conditions (10,000 ppmv or 10-percent LEL) and SCAQMD Rule 1149 (5,000 ppmv as methane) are equivalent. The Texas permit conditions and SCAQMD Rule 1149 are considered equivalent because 5,000 ppmv as methane equals 10 percent of the LEL for methane. OLD facilities located in Texas are subject to the permit conditions, and 3 OLD facilities are subject to the SCAQMD rule. Of the 173 currently operating (i.e., existing) OLD facilities, 44 are in Texas. The Texas and California requirements are the most stringent we are aware of and; therefore, we conclude that those requirements reflect what the best performers in the OLD source category have implemented for storage tank degassing. Commenters also confirm this conclusion.

We reviewed the Texas permit conditions for key information that could be implemented into the form of a standard for storage tank degassing. The conditions require control of degassing emissions until the VOC concentration of the vapor is less than 10,000 ppmv or 10 percent of the LEL. We have used the 10 percent of the LEL in similar requirements in the Petroleum Refineries NESHAP (see 40 CFR 63.643(c) for example) and have, therefore, finalized these 10-percent LEL requirements for tanks requiring control at 40 CFR 63.2346(a)(6).

We calculated the impacts due to controlling storage tank degassing emissions by evaluating the population of estimated storage tanks subject to control according to the requirements in Tables 2 and 2b of 40 CFR part 63, subpart EEEE that are not located in Texas or in SCAQMD. Storage tanks in the OLD source category in Texas and SCAQMD would already be subject to the degassing requirements being finalized, and there would not be additional costs or emissions reductions for these facilities. Based on commenter statements, tanks are degassed for inspection typically every 10 years. Based on this average and the population of storage tanks that are not in Texas or in SCAQMD, we estimate 89 storage tank degassing events would be subject to control each year. Controlling storage tank degassing would reduce HAP emissions by 74 tpy, with a total national annual cost of $418,656. See the technical memorandum titled Tank Degassing Analysis for the Organic Liquids Distribution (Non-Gasoline) Source Category Final Rule, which is available in Docket ID No. EPA-HQ-OAR-2018-0074 for details on the assumptions and methodologies used in this analysis.

We considered whether there are technically feasible options more stringent than the MACT floor requirements but are not aware of storage tank degassing provisions beyond those discussed above for Texas and SCAQMD. Therefore, no options more stringent than the MACT floor were evaluated. We also confirm that once the 10-percent LEL criterion is met, tank vapors may be vented to the atmosphere even after tank entry.

Comment: Several commenters contended that the assumptions the EPA used in developing the flare control cost and emission reduction estimates are not realistic. The commenters indicated that several of the EPA's assumptions laid out in the proposal preamble are incorrect for most OLD NESHAP flares. The commenters argued that the EPA's basis for the flare cost estimates is that OLD NESHAP operations are steady enough that compositions and flow rates do not change, so continuous instrumentation is not needed for compliance (except for continuous temperature and pressure monitoring), and that composition sampling and engineering estimates are sufficient. The commenters insisted this basis is incorrect. One commenter made the following points:

• Although some organic liquids have relatively constant composition as the EPA states, most OLD NESHAP flares will be receiving vapors from multiple OLD sources simultaneously, including tank vapors, loading vapors and likely small amounts from equipment leak vapors. The commenter asserted that in order to estimate the composition of the flare waste gas and the net heating value of the flare vent gas (NHVvg), facilities would need accurate flow information on each stream and composition information for those streams that have variable compositions;

• transfer operations generate vapors from tank cars, trucks, or containers loading (unloading emissions show up as tank emissions and barge and ship loading are not regulated by the OLD NESHAP though these may be routed to the same flare as OLD regulated emissions). The commenter noted the composition of those vapors will vary if the tank car, truck, or container is filled with vapors of another type (e.g., air, nitrogen, other organics);

• storage tank emission rates vary significantly as a function of stored liquid temperature and changes in tank levels. The commenter pointed out that if the tank level is increasing due to material entering the tank, the emission rate will be much higher than the rate due to temperature changes; if the stored material temperature or level is dropping, air or inert gas will be drawn into the tank;

• loading emission rates vary as the backpressure varies as the receiving volume fills with liquid and/or the backpressure from the vapor collection system changes;

• the commenter urged that reasonably good flow measurements for each of these flows would be needed to estimate the total waste gas flow to an OLD NESHAP flare and would be required for every source going to that flare, not just the OLD NESHAP sources. The commenter noted that because of the impossibility of obtaining all the required individual flow information, the Petroleum Refineries NESHAP provisions focus only on measuring the total flow at the flare. The commenter insisted that because of the range of flows, this requires a sophisticated wide range meter such as a sonic flow meter; and

• the commenter stressed that assist steam and supplemental fuel demands vary widely as flare conditions change, and, thus, would not be amenable to estimation or using engineering estimates even though the gas molecular weight is known.

The commenter stated that due to the above, facilities must have at least continuous flow rate monitoring of the waste gas, supplemental fuel, and assist steam in order to allow control on a 15-minute basis, and stressed that, in most cases, continuous monitoring of waste gas composition is also needed. The commenter also urged that due to the broad range of potential flow rates, additional controls (typically split range controllers) would be needed to rapidly adjust assist gas and supplemental fuel to meet the NHVcz requirements on a 15-minute basis. The commenter contended that the EPA's engineering estimate approach using temperature and pressure is, therefore, untenable, and flare cost basis must consider that OLD flares will have to install the full range of continuous monitoring and control instrumentation that was required for the Petroleum Refineries NESHAP flares, with perhaps a few limited exceptions. One commenter also affirmed that although the compositional variability of flared gas streams is less than that of refineries, facilities will opt to conduct continuous monitoring to reduce incremental supplemental fuel costs, and are likely to install flow meters instead of relying on pressure and temperature monitoring systems and engineering calculations.

One commenter added that because of the typically remote location of OLD NESHAP-only flares, there are likely to be large additional costs compared to Petroleum Refineries NESHAP to add new utilities, analyzer houses, data systems, and control room instrumentation. The commenter, therefore, concluded that even if the EPA's assumption of only continuous temperature and pressure monitoring were correct, a $190,000 investment would unlikely be enough to instrument one flare, much less 27. The commenter remarked that use of the Petroleum Refineries NESHAP cost estimate prorated to the EPA's estimated 27 OLD NESHAP flares would yield an annualized OLD cost of $2.4 million and a cost effectiveness of $3,673/ton of VOC reduced and $37,182/ton of HAP reduced.

Another commenter provided a summary of information collected from member facilities on approximately 80 flares on the estimated cost impacts of flare requirements in the EPA's proposed revisions to the Ethylene MACT standards, which the commenter contended are essentially the same as the proposed revisions in the OLD NESHAP. The commenter asserted that for the Ethylene MACT, member companies indicated they would need to install at least two new flares due to the potential for existing flares to exceed the number of visible emissions events allowed by the emergency flaring provisions during upset conditions; at least one gas chromatograph in order to comply with the proposed monitoring requirements; upgraded natural gas controls for at least 23 flares (to meet the more stringent minimum flare gas net heating value) and flow monitoring; and additional costs based on the estimated amount of supplemental fuel firing. The commenter estimated that, based on this information, the average capital and annual costs to implement the changes applicable to OLD flares (i.e., excluding the emergency flaring management work practices) are $509,000 and $725,000 per flare, with an estimated annual average cost of incremental supplemental fuel of $655,000 per flare. The commenter concluded that with their estimated costs and the EPA's estimate of 64 tpy of HAP reductions, the cost effectiveness of the proposed amendments would be approximately $306,000/ton of HAP reduced. The commenter also questioned the validity of the EPA's proposed HAP reductions, stating that the EPA's basis for its 64 tpy estimate of reduced HAP emissions is simply an assumption that all OLD flares are operating with a 90-percent combustion efficiency, and that the Agency has not provided data to support this assumption.

One commenter estimated that the cost to install all required instrumentation is in the $600,000 to $800,000 range for a single flare.

Several commenters stated that, because costs for the OLD NESHAP flare instrumentation and controls will likely greatly exceed the proposed costs, the proposed revised flare requirements are not cost effective and should not be finalized.

Response: We do not agree with the comments that the proposed revisions to the flare requirements should not be finalized. We proposed the flare amendments under the authority of CAA sections 112(d)(2) and (3) to ensure that flares used to control OLD emission sources are meeting the combustion efficiency requirements that are the basis for our original rule. In proposing these amendments, we did not use the authority of CAA 112(d)(6) and did not consider costs. Since the revisions ensure continuous compliance with the MACT standard under CAA sections 112(d)(2) and (3), costs are not a factor considered for these revisions. We determined the flare operating and monitoring requirements were not adequate to ensure that 98-percent control efficiency can be met for a flare at all times. Regarding the commenter's arguments that the emission reductions assumed to be a result of the proposed flaring provisions are overstated, the 90-percent assumption was illustrative of potential emissions in worst case situations, but since cost and, thus, cost effectiveness are not considerations when determining the MACT floor, we did not rely on estimated HAP emission reductions in making our decision to propose or finalize these requirements. We did estimate costs in order to provide the resulting impacts, but we are not revising the costs as a result of this comment, especially as the costs presented by the commenter appear to have been developed with Ethylene MACT flares in mind. As acknowledged by several commenters, OLD flare operation and monitoring are likely simpler than ethylene flares, and some commenters' three 1-hour test run suggestion for demonstrating compliance are essentially equivalent to the grab sampling requirements in 40 CFR 63.670(j)(6) and they could be further refined to facilitate easier use of simplified monitoring provisions. We have revised those requirements to address concerns of petitioning to use the grab sample approach, which further streamlines these requirements. If, as the commenter suggests, their facilities opt to use more sophisticated continuous monitoring instrumentation instead of the proposed grab sample/worst case approach, they have the flexibility to do so. However, we disagree that cost estimates based on Ethylene Production source category flares are appropriate for OLD. We also note that the commenter applies a supplemental natural gas cost approximately 18 times higher than our estimate (if supplemental natural gas is needed to meet NHVcz limits for the flare) for their OLD flare cost assessment. This natural gas cost seems excessive, especially considering that commenters did not discuss adjusting other flare parameters instead of using such a large amount of natural gas.

4. What is the rationale for our final approach and final decisions pursuant to CAA sections 112(d)(2) and (3)?

As we discussed above, we proposed the flare amendments under the authority of CAA sections 112(d)(2) and (3) to ensure flares used to control OLD emission sources are meeting the combustion efficiency requirements that are the basis for our original rule and necessary to ensure sources are complying with the MACT level of control. For this reason, we did not consider costs in proposing these requirements and are generally finalizing these amendments as proposed. We did, however, make some revisions to the proposed requirements at 40 CFR 63.2380 to further streamline the requirements of 40 CFR 63.670(j) to facilitate the ability of sources to use the grab sample approach for determining net heating value. In addition, and as discussed earlier, we also amended the overlap provisions of 40 CFR 63.2396 to clarify applicability for flares subject to the requirements of the OLD NESHAP and to other NESHAP requirements.

Tank degassing is considered a shutdown activity and historically has been considered by OLD sources to be covered under their SSM plan and permit conditions. With the removal of SSM provisions that are not consistent with the requirement that the standards apply at all times, the EPA assessed the level of control the best performing OLD sources are using for tank degassing events. During this assessment and based on comments, air permit requirements for OLD sources in Texas require degassing to a 10-percent LEL or 10,000 ppm prior to opening the tank to the atmosphere, and these requirements represent the best level of control for tank degassing events for OLD sources and those in California and Texas are already complying with.

In this action, we are including provisions at 40 CFR 63.2346(a)(6) that require tanks that are subject to control to continue to route degassing vapors to a device equivalent to the control (i.e., 95-percent organic HAP reduction, back to process or fuel gas system) until the vapor within the storage tank has reached 10 percent of the LEL.

The PRD definition and provisions that were proposed are being finalized. No additional work practice provisions or requirements are being added to the PRD requirements as a result of commenter suggestions, and the clarifications proposed in 40 CFR 63.2346(a)(iv) and the definition in 40 CFR 63.2406 are being made final. We note that we received several comments on these provisions and clarification on what constitutes a deviation for these types of devices within the OLD NESHAP. We have responded to these comments in section 9.0 of the Summary of Public Comments and Responses for Risk and Technology Review for Organic Liquids Distribution (Non-Gasoline), available in the docket for this action.

D. Amendments Addressing Emissions During Periods of SSM

1. What amendments did we propose to address emissions during periods of SSM?

We proposed amendments to the OLD NESHAP to remove and revise provisions related to SSM that are not consistent with the requirement that the standards apply at all times. More information concerning the elimination of SSM provisions is in the preamble to the proposed rule (84 FR 56318-56322, October 21, 2019).

2. How did the SSM provisions change since proposal?

We are finalizing the SSM provisions proposed (84 FR 56318, October 21, 2019) with some modifications, including: Revisions to the proposed provisions of 40 CFR 63.2378(e) for periods of planned routine maintenance of the control device to allow tank breathing losses to be consistent with our intent at proposal (see 84 FR 56323, October 21, 2019); revisions to 40 CFR 63.2346(l) to further clarify the SSM requirements in referenced subparts (such as 40 CFR part 63, subparts SS, TT, and UU) that are no longer applicable; and we have extended the effective date of removing the portion of the “deviation” definition in 40 CFR 63.2406 that addresses SSM periods as being applicable 3 years after publication of the final rule in the Federal Register to provide a consistent compliance date due to the addition of the tank degassing requirements discussed in section IV.C of this preamble.

3. What key comments did we receive on the SSM revisions and what are our responses?

We received several comments related to our proposed revisions to the SSM provisions. Commenters discussed issues related to the removal of the 240-hour exemption for planned maintenance of control devices, the need for tank degassing requirements with the revision of SSM provisions (as discussed in more detail in section IV.C of this preamble), and other miscellaneous issues pertaining to the SSM provisions of 40 CFR part 63, subparts SS, TT, and UU requirements referred to within 40 CFR part 63, subpart EEEE. These comments and our responses are available in section 10.1 of the Summary of Public Comments and Responses for Risk and Technology Review for Organic Liquids Distribution (Non-Gasoline), available in the docket for this action. As discussed above, we have made some changes to the revisions to the SSM requirements in the final rule to address the significant issues brought forth by commenters.

4. What is the rationale for our final approach and final decisions to address emissions during periods of SSM?

We evaluated all comments on the EPA's proposed amendments to the SSM provisions. For the reasons explained in the proposed rule, we determined that these amendments remove and revise provisions related to SSM that are not consistent with the requirement that the standards apply at all times. More information concerning the amendments we are finalizing for SSM is in the preamble to the proposed rule (84 FR 56318-56322, October 21, 2019). Additional revisions to these amendments based on comments received are discussed in further detail in section 10.1 of the Summary of Public Comments and Responses for Risk and Technology Review for Organic Liquids Distribution (Non-Gasoline), available in the docket for this action.

E. Technical Amendments to the MACT Standards

1. What other amendments did we propose for the OLD source category?

We proposed that owners or operators of OLD facilities submit electronic copies of required performance test reports, performance evaluation reports, compliance reports, NOCS reports, and fenceline monitoring reports through the EPA's CDX using CEDRI. Performance test results must be collected using test methods that are supported by the EPA's ERT as listed on the ERT website ⁶ at the time of the test be submitted in the format generated through the use of the ERT and that other performance test results be submitted in PDF using the attachment module of the ERT. Similarly, performance evaluation results of CEMS measuring relative accuracy test audit pollutants that are supported by the ERT at the time of the test must be submitted in the format generated through the use of the ERT and other performance evaluation results be submitted in PDF using the attachment module of the ERT. We also proposed that NOCS reports must be submitted as a PDF upload in CEDRI.

⁶ https://www.epa.gov/electronic-reporting-air-emissions/electronic-reporting-tool-ert.

For compliance reports and fenceline monitoring reports, we proposed that owners or operators use the appropriate spreadsheet template to submit information to CEDRI.

Additionally, we proposed two broad circumstances in which we may provide extension to these requirements. We proposed that an extension may be warranted due to outages of the EPA's CDX or CEDRI that precludes an owner or operator from accessing the system and submitting required reports. We also proposed that an extension may be warranted due to a force majeure event, such as an act of nature, act of war or terrorism, or equipment failure or safety hazards beyond the control of the facility.

Additionally, we proposed required testing and recordkeeping for emission sources not requiring control to confirm the annual average true vapor pressure at least every 5 years, or with a change of commodity in the tank's contents, whichever occurs first, to ensure the tank's applicability and confirm that it should not be subject to the 95-percent control requirements of the regulation. Further, we proposed a requirement that the contents of tanks that are claimed to be not subject to the OLD NESHAP because they contain less than 5-percent HAP (and, therefore, do not meet the definition of “Organic liquids” within the OLD NESHAP) should be tested every 5 years, or with a change of commodity in the tank's contents, whichever occurs first, to confirm that the tank is not storing “organic liquids” and, therefore, is not subject to the rule. We proposed the revision of 40 CFR 63.2354(c) to add the voluntary consensus standard (VCS), ATSM D6886-18, “Standard Test Method for Determination of the Weight Percent Individual Volatile Organic Compounds in Waterborne Air-Dry Coatings by Gas Chromatography,” as another acceptable method for the determination of HAP content of an organic liquid. We are also finalizing the replacement of method ASTM D2879 with method ASTM D6378-18a as one of the acceptable methods for the determination of vapor pressure.

Finally, we proposed several revisions to clarify text or correct typographical errors, grammatical errors, and cross-reference errors in 84 FR 56323 through 56324 and Table 9 of the proposal.

2. How did the other amendments for the OLD source category change since proposal?

We are not finalizing the proposed requirements for periodic testing and recordkeeping for the annual average true vapor pressure for those tanks not subject to the 95 percent control requirements of the regulation. Further, we are not finalizing, as proposed, a requirement that the contents of tanks that are claimed to be not subject to the OLD NESHAP because they contain less than 5 percent HAP (and, therefore, do not meet the definition of “Organic liquids” within the OLD NESHAP) should be tested every 5 years, or with a change of commodity in the tank's contents, whichever occurs first, to confirm that the tank is not storing “organic liquids” and, therefore, is not subject to the rule. We are, however, finalizing the revision of 40 CFR 63.2354(c) to add ASTM D6886-18, “Standard Test Method for Determination of the Weight Percent Individual Volatile Organic Compounds in Waterborne Air-Dry Coatings by Gas Chromatography,” as another acceptable method for the determination of HAP content of an organic liquid. We are also finalizing the replacement of method ASTM D2879 with method ASTM D6378-18a as an acceptable method for determination of whether a total vapor pressure (and, therefore, the sum total of Table 1 to 40 CFR part 63, subpart EEEE HAP) is below the threshold level requiring control for a storage tank.

The proposed electronic reporting requirements and the technical and editorial corrections in Table 9 of the proposal (see 84 FR 56324, October 21, 2019) have not changed, aside from some additional editorial changes based on comments and the removal of the fenceline monitoring alternative electronic reporting. Aside from these noted differences from proposal, we are finalizing the electronic reporting requirements and technical and editorial corrections.

3. What key comments did we receive on the other amendments for the OLD source category and what are our responses?

Comment: Several commenters objected to the proposed requirement in 40 CFR 63.2343(b)(5) and (6) that facilities conduct periodic vapor pressure testing or obtain vapor pressure data from the organic liquid supplier to demonstrate that the annual average true vapor pressure of the organic liquid in each storage tank is below control thresholds. Commenters argued that the addition of these two testing requirements is burdensome and unnecessary, results in no HAP emissions reductions, goes beyond what other NESHAP require for storage tanks, and should not be finalized. Several commenters further objected to the proposed requirement to use test method ASTM D6378-18a for storage tank vapor pressure analyses. Commenters stated that the requirement that test method ASTM D6378-18a must be used is impracticable and conflicts with the wording of the control thresholds that are based on the annual average true vapor pressure of the total Table 1 HAP, not the total annual average true vapor pressure of the liquid, which is the measured result of ASTM D6378-18a. One commenter stated that periodic testing is not needed, since inbound organic liquids HAP contents, and, thus, calculated HAP partial pressures, are available from vendor and in-house analyses and outbound materials are tested in developing the required safety data sheet (SDS) for that material. Several commenters also noted that other NESHAP have storage tank vapor pressure thresholds for control but do not require regular testing to confirm vapor pressure (e.g., 40 CFR part 63, subparts YY, GGG, and OOO). Another commenter further argued that the requirement to conduct periodic negative applicability determinations is precedent setting and is not warranted. The commenter stated that the EPA has not provided justification for the added requirement or provided an indication with supporting data of the “problem” the Agency is trying to resolve. The commenter further argued that facilities already have general obligations under title V 5-year renewals to ensure permits include all requirements applicable to a facility.

Response: The EPA acknowledges ASTM D6378-18a measures total vapor pressure and not HAP vapor pressure, therefore, we are not finalizing the periodic vapor pressure testing requirements due to lack of an appropriate method to measure only HAP vapor pressure. However, facilities may still use ASTM D6378-18a as a method for excluding tanks from control due to the fact that if the total vapor pressure of the liquid is less than the threshold for control, then the HAP vapor pressure (which is a subset of the total vapor pressure) would also be under the threshold. The EPA also acknowledges that the periodic 5-percent HAP content testing requirement creates a potential scenario of requiring sources to perform regular non-applicability determinations for all tanks at major sources that could be duplicative, considering the provisions of the OLD NESHAP are applied through a title V permit requirement, and that there are 5-year renewal obligations for title V permits. To be in compliance with their title V permit, OLD affected sources have an ongoing obligation to ensure that tanks storing organic liquids with greater than 5 percent HAP are meeting the OLD NESHAP requirements. Therefore, we are not finalizing periodic HAP content testing. Facilities will still be able to use Method 311, voluntary consensus standards, SDS, and certified product data sheets, and calculations as a means of determining applicability.

4. What is the rationale for our final approach and final decisions for the other amendments for the OLD source category?

After evaluating the comments on the proposed periodic HAP and vapor pressure testing requirements that were proposed, we are not finalizing these requirements. As discussed above, we agree that there are not any methods suitable to determine the organic HAP partial pressure of a liquid, and that these requirements could create a duplicative requirement scenario requiring sources to establish non-applicability although a similar obligation already exists in their title V permit. As we also explain, we have included ASTM 6378-18a in the final rule as a method suitable for use for excluding tanks from control. If the total vapor pressure of the liquid measured using ASTM 6378-18a is less than the vapor pressure threshold for control, then the liquid being stored would, therefore, also be below the threshold for control.

V. Summary of Cost, Environmental, and Economic Impacts and Additional Analyses Conducted

A. What are the affected facilities?

There are 173 facilities currently operating OLD equipment subject to the OLD NESHAP and four new facilities under construction. A complete list of facilities that are currently subject to the OLD NESHAP is available in appendix A of the memorandum, National Impacts of the 2020 Risk and Technology Review Final Rule for the Organic Liquids Distribution (Non-Gasoline) Source Category, which is available in the docket for this action.

The EPA projects four new liquids terminals and one major terminal expansion that would be subject to the OLD NESHAP. These new sources are not included in the risk assessment modeling effort but are included in the impacts analysis.

B. What are the air quality impacts?

The risk assessment model input file identifies approximately 2,400 tons of HAP emitted per year from equipment regulated by the OLD NESHAP. The predominant HAP compounds include toluene, hexane, methanol, xylenes (mixture of o, m, and p isomers), benzene, styrene, methyl isobutyl ketone, methylene chloride, methyl tert-butyl ether, and ethyl benzene. More information about the baseline emissions in the risk assessment model input file can be found in appendix 1 of the memorandum, Residual Risk Assessment for the Organic Liquids Distribution (Non-Gasoline) Source Category in Support of the 2020 Risk and Technology Review Final Rule, which is available in the docket for this action. This final action would reduce HAP emissions from OLD NESHAP sources. The EPA estimates HAP emission reductions of approximately 186 tpy based on our analysis of the actions described in sections IV.B and C of this preamble. More information about the estimated emission reductions of this final action can be found in the document, National Impacts of the 2020 Risk and Technology Review Final Rule for the Organic Liquids Distribution (Non-Gasoline) Source Category, which is available in the docket for this action.

C. What are the cost impacts?

We estimate the total capital costs of these final amendments to be approximately $2.5 million and the total annualized costs (including recovery credits) to be $1.8 million per year (2016$). We also estimate the present value of the costs is $8.5 million at a discount rate of 3 percent and $7.1 million at 7 percent (2016$). Calculated as an equivalent annualized value, which is consistent with the present value of the costs, the costs are $1.1 million at a discount rate of 3 percent and $0.9 million at a discount rate of 7 percent (2016$). The annualized costs include those for operating and maintenance, and recovery credits of approximately $170,000 per year from the reduction in evaporative emissions from storage tanks. To estimate savings in chemicals not being emitted (i.e., lost) due to the reduction in evaporative emissions, we applied a recovery credit of $900 per ton of VOC to the VOC emission reductions in the analyses. The $900 per ton recovery credit has historically been used by the EPA to represent the variety of chemicals that are used as reactants and produced at synthetic organic chemical manufacturing facilities.⁷ At proposal, we solicited comment on the availability of more recent information to potentially update the value used in this analysis to estimate the recovery credits, but received none. We used an interest rate of 5 percent to annualize the total capital costs. These estimated costs are associated with amendments of the requirements for storage tanks, LDAR, flares, and transfer racks. Table 4 of this preamble shows the estimated costs for each of the equipment types. Detailed information about how we estimated these costs are described in the following documents available in the docket for this action: National Impacts of the 2020 Risk and Technology Review Final Rule for the Organic Liquids Distribution (Non-Gasoline) Source Category, and Economic Impact and Small Business Analysis for the Final Organic Liquids Distribution (Non-Gasoline) (OLD) Risk and Technology Review (RTR) NESHAP.

⁷ U.S. EPA. 2007. Standards of Performance for Equipment Leaks of VOC in the Synthetic Organic Chemicals Manufacturing Industry; Standards of Performance for Equipment Leaks of VOC in Petroleum Refineries (https://www.federalregister.gov/documents/2007/07/09/E7-13203/standards-of-performance-for-equipment-leaks-of-voc-in-the-synthetic-organic-chemicals-manufacturing). Docket ID No. EPA-HQ-OAR-2006-0699.

Table 4—Summary of Costs of Final Amendments by Equipment Type, in Millions
[2016$]
Equipment type | Capital cost | Total annualized cost (without annual recovery credits) | Annual recovery credits | Total annualized cost (with annual recovery credits)
Storage tanks | 2.28 | 0.29 | 0.17 | 0.12
Tank Degassing | 0.00 | 0.42 | N/A | 0.42
Flares | 0.19 | 0.36 | N/A | 0.36
Deletion of 240-hr exemption for control device maintenance during transfers (Transfer racks) | 0.00 | 0.88 | N/A | 0.88
Total | 2.47 | 1.95 | 0.17 | 1.78

D. What are the economic impacts?

The EPA conducted economic impact analyses for the amendments to the final rule, as detailed in the memorandum titled Economic Impact and Small Business Analysis for the Final Organic Liquids Distribution (Non-Gasoline) (OLD) Risk and Technology Review (RTR) NESHAP, which is available in the docket for this action. The economic impacts of the amendments to the final rule are calculated as the percentage of total annualized costs incurred by affected parent owners to their annual revenues. This ratio provides a measure of the direct economic impact to ultimate parent owners of OLD facilities while presuming no impact on consumers. We estimate that none of the ultimate parent owners affected by this final action will incur total annualized costs of 0.4 percent or greater of their revenues. This estimate reflects the total annualized costs without product recovery as a credit. Thus, these economic impacts are low for affected companies and the industries impacted by this final action, and there will not be substantial impacts on the markets for affected products. The costs are not expected to result in a significant market impact, regardless of whether they are passed on to the purchaser or absorbed by the firms.

E. What are the benefits?

The EPA did not monetize the benefits from the estimated emission reductions of 186 tpy of HAP associated with this action. However, we expect this action will result in benefits associated with HAP emission reductions and lower risk of adverse health effects in communities near OLD sources.

While not explicitly calculated, we expect reductions in MIR, population exposed to a cancer risk of greater than or equal to 1-in-1 million, and in other risks metrics such as incidence, acute risk, multipathway risks, and ecological risks from the estimated emission reductions.

F. What analysis of environmental justice did we conduct?

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

To examine the potential for any environmental justice issues that might be associated with the source category, we performed a demographic analysis, which is an assessment of risks to individual demographic groups of the populations living within 5 kilometers (km) and within 50 km of the facilities. In the analysis, we evaluated the distribution of HAP-related cancer and noncancer risks from the OLD source category across different demographic groups within the populations living near facilities.

At proposal, we noted that our analysis of the demographics of the population with estimated risks greater than 1-in-1 million indicates potential disparities in risks between demographic groups, including the African American, Hispanic or Latino, Over 25 Without a High School Diploma, and Below the Poverty Level groups. In addition, the population living within 50 km of OLD facilities has a higher percentage of minority, lower income, and lower education people when compared to the nationwide percentages of those groups. However, acknowledging these potential disparities, the risks for the source category were determined to be acceptable, and emissions reductions from the final rule revisions will benefit these groups the most.

The methodology and the results of the demographic analysis ⁸ are presented in a technical report, Risk and Technology Review—Analysis of Demographic Factors for Populations Living Near Organic Liquids Distribution (Non-Gasoline) Source Category Operations, that is available in the docket for this action.

⁸ We note that, based on public comments, there are four fewer existing OLD affected sources now than at proposal. However, this change does not warrant an update to this analysis since proposal and has, therefore, not been updated.

G. What analysis of children's environmental health did we conduct?

The EPA does not believe the environmental health or safety risks addressed by this action present a disproportionate risk to children. This action's health and risk assessments are summarized in section IV.A of this preamble and are further documented in the risk report, Residual Risk Assessment for the Organic Liquids Distribution (Non-Gasoline) Source Category in Support of the 2020 Risk and Technology Review Final Rule, available in the docket for this action.

VI. Statutory and Executive Order Reviews

Additional information about these statutes and Executive Orders can be found at https://www.epa.gov/laws-regulations/laws-and-executive-orders.

A. Executive Orders 12866: Regulatory Planning and Review and Executive Order 13563: Improving Regulation and Regulatory Review

This action is not a significant regulatory action and was, therefore, not submitted to the Office of Management and Budget (OMB) for review.

B. Executive Order 13771: Reducing Regulations and Controlling Regulatory Costs

This action is not an Executive Order 13771 regulatory action because this action is not significant under Executive Order 12866.

C. Paperwork Reduction Act (PRA)

The information collection activities in this rule have been submitted for approval to OMB under the PRA. The Information Collection Request (ICR) document that the EPA prepared has been assigned EPA ICR number 1963.09. You can find a copy of the ICR in the docket for this rule, and it is briefly summarized here. The information collection requirements are not enforceable until OMB approves them.

We are finalizing amendments that change the reporting and recordkeeping requirements for OLD operations. The amendments also require electronic reporting of performance test results and reports and compliance reports. The information will be collected to ensure compliance with 40 CFR part 63, subpart EEEE. The total estimated burden and cost for reporting and recordkeeping due to these amendments are presented below and are not intended to be cumulative estimates that include the burden associated with the requirements of the existing 40 CFR part 63, subpart EEEE.

Respondents/affected entities: Owners or operators of OLD operations at major sources of HAP are affected by these amendments. These respondents include, but are not limited to, facilities having NAICS codes: 4247 (Petroleum and Petroleum Products Merchant Wholesalers), 4861 (Pipeline Transportation of Crude Oil), and 4931 (Warehousing and Storage).

Respondent's obligation to respond: Mandatory under sections 112 and 114 of the CAA.

Estimated number of respondents: 177 facilities.

Frequency of response: Once or twice per year.

Total estimated burden: 4,111 hours (per year). Burden is defined at 5 CFR 1320.3(b).

Total estimated cost: $570,132 (per year), which includes $154,000 annualized capital or operation and maintenance costs.

An agency may not conduct or sponsor, and a person is not required to respond to, a collection of information unless it displays a currently valid OMB control number. The OMB control numbers for the EPA's regulations in 40 CFR are listed in 40 CFR part 9. When OMB approves this ICR, the Agency will announce that approval in the Federal Register and publish a technical amendment to 40 CFR part 9 to display the OMB control number for the approved information collection activities contained in this final rule.

D. Regulatory Flexibility Act (RFA)

I certify that this action will not have a significant economic impact on a substantial number of small entities under the RFA. Of the 90 ultimate parent companies that are subject to this action, ten of them are small according to the Small Business Administration's small business size standards. None of the affected small parent companies are expected to have compliance costs of more than 0.4 percent of their sales. For more information on the analysis, see the Economic Impact and Small Business Analysis for the Final Organic Liquids Distribution (Non-Gasoline) (OLD) Risk and Technology Review (RTR) NESHAP, available in the docket for this action.

E. Unfunded Mandates Reform Act (UMRA)

This action does not contain an unfunded mandate of $100 million or more as described in UMRA, 2 U.S.C. 1531-1538, and does not significantly or uniquely affect small governments. The action imposes no enforceable duty on any state, local, or tribal governments or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. None of the OLD facilities that have been identified as being affected by this final action are owned or operated by tribal governments or located within tribal lands. Thus, Executive Order 13175 does not apply to this action.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are contained in sections IV.A of this preamble.

I. Executive Order 13211: Actions Concerning Regulations That Significantly Affect Energy Supply, Distribution, or Use

This action is not subject to Executive Order 13211, because it is not a significant regulatory action under Executive Order 12866.

J. National Technology Transfer and Advancement Act (NTTAA) and 1 CFR Part 51

This rulemaking involves technical standards. As discussed in the preamble of the proposal, the EPA conducted searches for the OLD NESHAP through the Enhanced National Standards Systems Network Database managed by the American National Standards Institute (ANSI). We also contacted VCS organizations and accessed and searched their databases. We conducted searches for EPA Methods 1, 1A, 2, 2A, 2C, 2D, 2F, 2G, 3, 3A, 3B, 4, 18, 21, 22, 25, 25A, 26, 26A, and 27 of 40 CFR part 60, appendix A and EPA Methods 301, 311, 316, 320, 325A, and 325B of 40 CFR part 63, appendix A. During the EPA's VCS search, if the title or abstract (if provided) of the VCS described technical sampling and analytical procedures that are similar to the EPA's reference method, the EPA reviewed it as a potential equivalent method. We reviewed all potential standards to determine the practicality of the VCS for this rule. This review requires significant method validation data that meet the requirements of EPA Method 301 of appendix A to 40 CFR part 63 for accepting alternative methods or scientific, engineering, and policy equivalence to procedures in the EPA reference methods.

The EPA may reconsider determinations of impracticality when additional information is available for particular VCS.

No applicable VCSs were identified for EPA Methods 1A, 2A, 2D, 2F, 2G, 21, 22, 27, and 316.

Seven VCSs were identified as an acceptable alternative to EPA test methods for the purposes of this rule:

(1) The VCS ANSI/ASME PTC 19.10-1981 Part 10, “Flue and Exhaust Gas Analyses,” is an acceptable alternative to EPA Method 3B manual portion only and not the instrumental portion. Therefore, we are adding this standard as a footnote to item 1.a.i.(3) of Table 5 to 40 CFR part 63, subpart EEEE and incorporate this standard by reference at 40 CFR 63.14(e)(1). ANSI/ASME PTC 19.10-1981 Part 10 specifies methods, apparatus, and calculations that are used in conjunction with Performance Test Codes to quantify the gaseous constituents of exhausts from stationary combustion sources. The gases covered include oxygen, carbon dioxide, carbon monoxide, nitrogen, sulfur dioxide, sulfur trioxide, nitric oxide, nitrogen dioxide, hydrogen sulfide, and hydrocarbons.

(2) The VCS ASTM D6420-18, “Test Method for Determination of Gaseous Organic Compounds by Direct Interface Gas Chromatography/Mass Spectrometry.” This ASTM procedure has been approved by the EPA as an alternative to EPA Method 18 only when the target compounds are all known, and the target compounds are all listed in ASTM D6420 as measurable. ASTM D6420-18 uses a direct interface gas chromatograph/mass spectrometer to identify and quantify 36 VOC (or a subset of these compounds), however, ASTM D6420-18 should not be specified as a total VOC method. Therefore, we are adding this standard as a footnote to Table 5 to 40 CFR part 63, subpart EEEE and incorporate this standard by reference at 40 CFR 63.14(e)(93). We are also updating reference to the older version of this standard (i.e., ASTM D6420-99 (Reapproved 2004) at 40 CFR 63.2354(b)(3) to the new 2018 version and are removing reference to the old version of this standard at 40 CFR 63.14(e)(90) for use in the OLD NESHAP.

(3) The VCS ASTM D6735-01(2009), “Standard Test Method for Measurement of Gaseous Chlorides and Fluorides from Mineral Calcining Exhaust Sources Impinger Method,” is an acceptable alternative to EPA Method 26 or EPA Method 26A from Mineral Calcining Exhaust Sources, which is specified at 40 CFR part 63, subpart SS, which is cited in the OLD NESHAP. For further information about the EPA's decision to allow the use of this VCS in 40 CFR part 63, subpart SS, see the EPA's Ethylene Production RTR proposed amendments in Docket ID No. EPA-HQ-OAR-2017-0357. This standard is not being incorporated by reference.

(4) The VCS California Air Resources Board (CARB) Method 310, “Determination of Volatile Organic Compounds in Consumer Products and Reactive Organic Compounds in Aerosol Coating Products,” is an acceptable alternative to EPA Method 311. However, we are not specifying use of this method in the OLD NESHAP because CARB Method 310 is designed to measure the contents of aerosol cans and would not be well suited for organic liquid samples regulated under the OLD NESHAP. This standard is not being incorporated by reference.

(5) The VCS ASTM D6348-12e1, “Determination of Gaseous Compounds by Extractive Direct Interface Fourier Transform (FTIR) Spectroscopy,” is an acceptable alternative to EPA Method 320. In the September 22, 2008, NTTAA summary, ASTM D6348-03(2010) was determined equivalent to EPA Method 320 with caveats. ASTM D6348-12e1 is a revised version of ASTM D6348-03(2010) and includes a new section on accepting the results from direct measurement of a certified spike gas cylinder, but still lacks the caveats we placed on the ASTM D6348-03(2010) version. The VCS ASTM D6348-12e1, “Determination of Gaseous Compounds by Extractive Direct Interface Fourier Transform (FTIR) Spectroscopy,” is an acceptable alternative to EPA Method 320 at this time with caveats requiring inclusion of selected annexes to the standard as mandatory. This field test method uses an extractive sampling system to direct stationary source effluent to an FTIR spectrometer to identify and quantify gaseous compounds with results as a concentration. We are allowing the use of this VCS as an alternative to EPA Method 320 at 40 CFR 63.2354(b)(3)and(4) and at Table 5 to 40 CFR part 63, subpart EEEE under conditions that the test plan preparation and implementation in the Annexes to ASTM D6348-12e1, sections A1 through A8 are mandatory; the percent (%)R must be determined for each target analyte (Equation A5.5); %R must be 70% ≥ R ≤ 130%; if the %R value does not meet this criterion for a target compound, then the test data is not acceptable for that compound and the test must be repeated for that analyte (i.e., the sampling and/or analytical procedure should be adjusted before a retest); and the %R value for each compound must be reported in the test report and all field measurements must be corrected with the calculated %R value for that compound by using the following equation:

Reported Results = ((Measured Concentration in Stack))/(%R) × 100.

We are incorporating this method at 40 CFR 63.14(e)(85) for use in the OLD NESHAP.

(6) The VCS ISO 16017-2:2003 (R2014), “Indoor, Ambient and Workplace Air Sampling and Analysis of Volatile Organic Compounds by Sorbent Tube/Thermal Desorption/Capillary Gas Chromatography—Part 2: Diffusive Sampling,” is an acceptable alternative to EPA Method 325B. This VCS is already incorporated by reference in EPA Method 325B.

(7) The VCS ASTM D6196-03(2009), “Standard Practice for Selection of Sorbents, Sampling and Thermal Desorption Analysis Procedures for Volatile Organic Compounds in Air,” is an acceptable alternative to EPA Methods 325A and 325B. This VCS is already incorporated by reference in EPA Method 325B.

Additionally, the EPA is using ASTM D6886-18, “Standard Test Method for Determination of the Weight Percent Individual Volatile Organic Compounds in Waterborne Air-Dry Coatings by Gas Chromatography.” ASTM D6886-18 is to be used as one acceptable method to determine the percent weight of HAP in organic liquid, especially for liquids that contain a significant amount of carbon tetrachloride or formaldehyde, which are not detected using the Flame Ionization Detector-based standard in the governing method currently cited in the OLD NESHAP (i.e., EPA Method 311).

The ASTM standards newly incorporated by reference in this rule are available to the public for free viewing online in the Reading Room section on ASTM's website at https://www.astm.org/READINGLIBRARY/. In addition to this free online viewing availability on ASTM's website, hard copies and printable versions are available for purchase from ASTM.

K. Executive Order 12898: Federal Actions To Address Environmental Justice in Minority Populations and Low-Income Populations

The EPA believes that this action does not have disproportionately high and adverse human health or environmental effects on minority populations, low-income populations, and/or indigenous peoples, as specified in Executive Order 12898 (59 FR 7629, February 16, 1994).

The documentation for this decision is contained in section IV.A of this preamble and in the technical report, Risk and Technology Review—Analysis of Demographic Factors for Populations Living Near Organic Liquids Distribution (Non-Gasoline) Source Category Operations, available in the docket for this action.

L. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Incorporation by reference, Intergovernmental relations, Reporting and recordkeeping requirements.

Dated: March 12, 2020.
Andrew R. Wheeler,
Administrator.

For the reasons set forth in the preamble, the EPA amends 40 CFR part 63 as follows:

PART 63—NATIONAL EMISSION STANDARDS FOR HAZARDOUS AIR POLLUTANTS FOR SOURCE CATEGORIES

1. The authority citation for part 63 continues to read as follows:

Authority: 42 U.S.C. 7401, et seq.

Subpart A—General Provisions

2. Section 63.14 is amended:

a. By revising paragraphs (a) and (e)(1);

b. In paragraphs (h)(31) and (32), by removing “63.2406,”;

c. By revising paragraphs (h)(83) and (85);

d. By redesignating paragraphs (h)(101) through (113) as paragraphs (h)(104) through (115), respectively;

e. By revising newly redesignated paragraphs (h)(91) and (93); and

f. By adding new paragraph (h)(103).

The revisions and additions read as follows:

§ 63.14 September 5, 2020 Incorporations by reference.

(a) Certain material is incorporated by reference into this part with the approval of the Director of the Federal Register under 5 U.S.C. 552(a) and 1 CFR part 51. To enforce any edition other than that specified in this section, the EPA must publish notice of change in the Federal Register and the material must be available to the public. All approved material is available for inspection at the EPA Docket Center Reading Room, WJC West Building, Room 3334, 1301 Constitution Avenue NW, Washington, DC, telephone number 202-566-1744, and is available from the sources listed below. It is also available for inspection at the National Archives and Records Administration (NARA). For information on the availability of this material at NARA, email fedreg.legal@nara.gov or go to www.archives.gov/federal-register/cfr/ibr-locations.html.

* * * * *

(e) * * *

(1) ANSI/ASME PTC 19.10-1981, Flue and Exhaust Gas Analyses [Part 10, Instruments and Apparatus], issued August 31, 1981, IBR approved for §§ 63.309(k), 63.457(k), 63.772(e) and (h), 63.865(b), 63.997(e), 63.1282(d) and (g), 63.1625(b), table 5 to subpart EEEE, 63.3166(a), 63.3360(e), 63.3545(a), 63.3555(a), 63.4166(a), 63.4362(a), 63.4766(a), 63.4965(a), 63.5160(d), table 4 to subpart UUUU, table 3 to subpart YYYY, 63.9307(c), 63.9323(a), 63.11148(e), 63.11155(e), 63.11162(f), 63.11163(g), 63.11410(j), 63.11551(a), 63.11646(a), and 63.11945, table 5 to subpart DDDDD, table 4 to subpart JJJJJ, table 4 to subpart KKKKK, tables 4 and 5 of subpart UUUUU, table 1 to subpart ZZZZZ, and table 4 to subpart JJJJJJ.

* * * * *

(h) * * *

(31) ASTM D2879-83, Standard Method for Vapor Pressure-Temperature Relationship and Initial Decomposition Temperature of Liquids by Isoteniscope, Approved 1983, IBR approved for §§ 63.111, 63.1402, and 63.12005.

(32) ASTM D2879-96, Test Method for Vapor Pressure-Temperature Relationship and Initial Decomposition Temperature of Liquids by Isoteniscope, Approved 1996, IBR approved for §§ 63.111, and 63.12005.

* * * * *

(83) ASTM D6348-03, Standard Test Method for Determination of Gaseous Compounds by Extractive Direct Interface Fourier Transform Infrared (FTIR) Spectroscopy, including Annexes A1 through A8, Approved October 1, 2003, IBR approved for §§ 63.457(b), 63.997(e), and 63.1349, table 4 to subpart DDDD, table 5 to subpart EEEE, table 4 to subpart UUUU, table 4 subpart ZZZZ, and table 8 to subpart HHHHHHH.

* * * * *

(85) ASTM D6348-12e1, Standard Test Method for Determination of Gaseous Compounds by Extractive Direct Interface Fourier Transform Infrared (FTIR) Spectroscopy, Approved February 1, 2012, IBR approved for §§ 63.997(e), 63.1571(a), 63.2354(b), table 5 to subpart EEEE, and table 4 to subpart UUUU.

* * * * *

(91) ASTM D6420-99 (Reapproved 2004), Standard Test Method for Determination of Gaseous Organic Compounds by Direct Interface Gas Chromatography-Mass Spectrometry, (Approved October 1, 2004), IBR approved for §§ 63.457(b), 63.772(a), 63.772(e), 63.1282(a) and (d), and table 8 to subpart HHHHHHH.

* * * * *

(93) ASTM D6420-18, Test Method for Determination of Gaseous Organic Compounds by Direct Interface Gas Chromatography/Mass Spectrometry, (Approved November 1, 2018), IBR approved for §§ 63.987(b), 63.997(e), 63.2354(b), and table 5 to subpart EEEE.

* * * * *

(103) ASTM D6886-18, Standard Test Method for Determination of the Weight Percent Individual Volatile Organic Compounds in Waterborne Air-Dry Coatings by Gas Chromatography, approved October 1, 2018, IBR approved for § 63.2354(c).

* * * * *

Subpart EEEE—National Emission Standards for Hazardous Air Pollutants: Organic Liquids Distribution (Non-Gasoline)

3. Section 63.2338 is amended by revising paragraph (c) introductory text to read as follows:

§ 63.2338 What parts of my plant does this subpart cover?

* * * * *

(c) The equipment listed in paragraphs (c)(1) through (3) of this section and used in the identified operations is excluded from the affected source.

* * * * *

4. Section 63.2342 is amended by revising paragraph (a) introductory text, adding paragraph (b) introductory text, revising paragraph (d), and adding paragraph (e) to read as follows:

§ 63.2342 When do I have to comply with this subpart?

(a) Except as specified in paragraph (e) of this section, if you have a new or reconstructed affected source, you must comply with this subpart according to the schedule identified in paragraph (a)(1), (2), or (3) of this section, as applicable.

* * * * *

(b) Except as specified in paragraph (e) of this section, if you have an existing affected source, you must comply with this subpart according to the schedule identified in paragraph (b)(1), (2), or (3) of this section, as applicable.

* * * * *

(d) You must meet the notification requirements in §§ 63.2343 and 63.2382(a), as applicable, according to the schedules in § 63.2382(a) and (b)(1) through (2) and in subpart A of this part. Some of these notifications must be submitted before the compliance dates for the emission limitations, operating limits, and work practice standards in this subpart.

(e) An affected source that commenced construction or reconstruction on or before October 21, 2019, must be in compliance with the requirements listed in paragraphs (e)(1) through (5) of this section upon initial startup or July 7, 2023, whichever is later. An affected source that commenced construction or reconstruction after October 21, 2019, must be in compliance with the requirements listed in paragraphs (e)(1) through (5) of this section upon initial startup or July 7, 2020, whichever is later.

(1) The requirements for storage tanks not requiring control specified in § 63.2343(b)(4).

(2) The requirements for storage tanks at an existing affected source specified in §§ 63.2346(a)(5) and (6), 63.2386(d)(3)(iii), 63.2396(a)(4), footnote (2) to Table 2 to this subpart, and Table 2b to this subpart.

(3) The flare requirements specified in §§ 63.2346(k), 63.2382(d)(2)(ix), 63.2386(d)(5), 63.2390(h), footnote (1) to Table 2 to this subpart, item 7.d, to Table 3 to this subpart, items 1.a.iii and 2.a.iii of Table 8 to this subpart, and item 7.e of Table 9 to this subpart.

(4) The requirements specified in §§ 63.2346(l), 63.2350(d), 63.2366(c), 63.2390(f) and (g), 63.2386(c)(11) and (12), 63.2386(d)(1)(xiii) and (f) through (j), 63.2378(e), footnote (1) to Table 9 to this subpart, and items 1.a.i and 2.a.ii of Table 10 to this subpart.

(5) The performance testing requirements specified in § 63.2354(b)(6).

5. Section 63.2343 is amended by:

a. Revising the introductory text, paragraph (a), and paragraph (b) introductory text;

b. Adding paragraph (b)(4); and

c. Revising paragraph (c)(1)(iii).

The revisions and additions read as follows:

§ 63.2343 What are my requirements for emission sources not requiring control?

This section establishes the notification, recordkeeping, and reporting requirements for emission sources identified in § 63.2338 that do not require control under this subpart (i.e., under § 63.2346(a) through (e)). Such emission sources are not subject to any other notification, recordkeeping, or reporting sections in this subpart, including § 63.2350(c), except as indicated in paragraphs (a) through (d) of this section.

(a) For each storage tank subject to this subpart having a capacity of less than 18.9 cubic meters (5,000 gallons) and for each transfer rack subject to this subpart that only unloads organic liquids (i.e., no organic liquids are loaded at any of the transfer racks), you must keep documentation that verifies that each storage tank and transfer rack identified in this paragraph (a) is not required to be controlled. The documentation must be kept up-to-date (i.e., all such emission sources at a facility are identified in the documentation regardless of when the documentation was last compiled) and must be in a form suitable and readily available for expeditious inspection and review according to § 63.10(b)(1), including records stored in electronic form in a separate location. The documentation may consist of identification of the tanks and transfer racks identified in this paragraph (a) on a plant site plan or process and instrumentation diagram (P&ID).

(b) Except as specified in paragraph (b)(4) of this section, for each storage tank subject to this subpart having a capacity of 18.9 cubic meters (5,000 gallons) or more that is not subject to control based on the criteria specified in Table 2 to this subpart, items 1 through 6, you must comply with the requirements specified in paragraphs (b)(1) through (3) of this section.

* * * * *

(4) Beginning no later than the compliance dates specified in § 63.2342(e), the requirements specified in paragraphs (b)(1) through (3) of this section apply to the following storage tanks:

(i) Storage tanks at an existing affected source subject to this subpart having a capacity of 18.9 cubic meters (5,000 gallons) or more that are not subject to control based on the criteria specified in Table 2b to this subpart, items 1 through 3.

(ii) Storage tanks at a reconstructed or new affected source subject to this subpart having a capacity of 18.9 cubic meters (5,000 gallons) or more that are not subject to control based on the criteria specified in Table 2 to this subpart, items 3 through 6.

(c) * * *

(1) * * *

(iii) If you are already submitting a Notification of Compliance Status or a first Compliance report under § 63.2386(c), you do not need to submit a separate Notification of Compliance Status or first Compliance report for each transfer rack that meets the conditions identified in this paragraph (c) (i.e., a single Notification of Compliance Status or first Compliance report should be submitted).

* * * * *

6. Section 63.2346 is amended by:

a. Revising paragraphs (a) introductory text, (a)(1) and (2), (a)(4)(ii) and (iv), (a)(4)(v) introductory text, and (a)(4)(v)(A);

b. Adding paragraph (a)(5) and (6);

c. Revising paragraphs (b)(1) and (2), (c), (d)(2), (e), (f), and (i); and

b. Adding paragraphs (k) and (l).

The revisions and additions read as follows:

§ 63.2346 What emission limitations, operating limits, and work practice standards must I meet?

(a) Storage tanks. Except as specified in paragraphs (a)(5) and (6) and (l) of this section, for each storage tank storing organic liquids that meets the tank capacity and liquid vapor pressure criteria for control in Table 2 to this subpart, items 1 through 5, you must comply with paragraph (a)(1), (2), (3), or (4) of this section. For each storage tank storing organic liquids that meets the tank capacity and liquid vapor pressure criteria for control in Table 2 to this subpart, item 6, you must comply with paragraph (a)(1), (2), or (4) of this section.

(1) Meet the emission limits specified in Table 2 or 2b to this subpart and comply with paragraph (l) of this section and the applicable requirements specified in subpart SS of this part, for meeting emission limits, except substitute the term “storage tank” at each occurrence of the term “storage vessel” in subpart SS.

(2) Route emissions to fuel gas systems or back into a process as specified in subpart SS of this part. If you comply with this paragraph, then you must also comply with the requirements specified in paragraph (l) of this section.

* * * * *

(4) * * *

(ii) Transport vehicles must have a current certification in accordance with the United States Department of Transportation (U.S. DOT) qualification and maintenance requirements of 49 CFR part 180, subparts E (for cargo tanks) and F (for tank cars).

* * * * *

(iv) No pressure relief device on the storage tank, on the vapor return line, or on the cargo tank or tank car, shall open during loading or as a result of diurnal temperature changes (breathing losses).

(v) Pressure relief devices must be set to no less than 2.5 pounds per square inch gauge (psig) at all times to prevent breathing losses. Pressure relief devices may be set at values less than 2.5 psig if the owner or operator provides rationale in the notification of compliance status report explaining why the alternative value is sufficient to prevent breathing losses at all times. The owner or operator shall comply with paragraphs (a)(4)(v)(A) through (C) of this section for each relief valve.

(A) The relief valve shall be monitored quarterly using the method described in § 63.180(b).

* * * * *

(5) Beginning no later than the compliance dates specified in § 63.2342(e), the tank capacity criteria, liquid vapor pressure criteria, and emission limits specified for storage tanks at an existing affected source in Table 2 of this subpart, item 1 no longer apply. Instead, for each storage tank at an existing affected source storing organic liquids that meets the tank capacity and liquid vapor pressure criteria for control in Table 2b to this subpart, items 1 through 3, you must comply with paragraph (a)(1), (2), (3), or (4) and paragraph (a)(6) of this section.

(6) Beginning no later than the compliance dates specified in § 63.2342(e), tank emissions during storage tank shutdown operations (i.e., emptying and degassing of a storage tank) for each storage tank at an affected source storing organic liquids that meets the tank capacity and liquid vapor pressure criteria for control in items 3 through 6 of Table 2 to this subpart, or items 1 through 3 of Table 2b to this subpart, you must comply with paragraphs (a)(6)(i) through (iii) of this section during tank emptying and degassing until the vapor space concentration in the tank is less than 10 percent of the lower explosive limit (LEL). The owner or operator must determine the LEL using process instrumentation or portable measurement devices and follow procedures for calibration and maintenance according to manufacturer's specifications.

(i) Remove organic liquids from the storage tank as much as practicable;

(ii) Comply with either of the following:

(A) The requirements of Table 2 or 2b to this subpart, item 1.a.i. as applicable; OR,

(B) The requirements of Table 4 to this subpart, item 1.b.

(iii) Comply with the requirements in § 63.2350(d) for each storage tank shutdown event and maintain records necessary to demonstrate compliance with the requirements in § 63.2350(d) including, if appropriate, records of existing standard site procedures used to empty and degas (deinventory) equipment for safety purposes.

(b) * * *

(1) Meet the emission limits specified in Table 2 to this subpart and comply with paragraph (l) of this section and the applicable requirements for transfer racks specified in subpart SS of this part, for meeting emission limits.

(2) Route emissions to fuel gas systems or back into a process as specified in subpart SS of this part. If you comply with this paragraph, then you must also comply with the requirements specified in paragraph (l) of this section.

* * * * *

(c) Equipment leak components. For each pump, valve, and sampling connection that operates in organic liquids service for at least 300 hours per year, you must comply with paragraph (l) of this section and the applicable requirements under subpart TT of this part (control level 1), subpart UU of this part (control level 2), or subpart H of this part. Pumps, valves, and sampling connectors that are insulated to provide protection against persistent sub-freezing temperatures are subject to the “difficult to monitor” provisions in the applicable subpart selected by the owner or operator. This paragraph only applies if the affected source has at least one storage tank or transfer rack that meets the applicability criteria for control in Table 2 or 2b to this subpart.

(d) * * *

(2) Ensure that organic liquids are loaded only into transport vehicles that have a current certification in accordance with the U.S. DOT qualification and maintenance requirements in 49 CFR part 180, subpart E for cargo tanks and subpart F for tank cars.

(e) Operating limits. For each high throughput transfer rack, you must meet each operating limit in Table 3 to this subpart for each control device used to comply with the provisions of this subpart whenever emissions from the loading of organic liquids are routed to the control device. Except as specified in paragraph (k) of this section, for each storage tank and low throughput transfer rack, you must comply with paragraph (l) of this section and the requirements for monitored parameters as specified in subpart SS of this part, for storage vessels and, during the loading of organic liquids, for low throughput transfer racks, respectively. Alternatively, you may comply with the operating limits in Table 3 to this subpart.

(f) Surrogate for organic HAP. For noncombustion devices, if you elect to demonstrate compliance with a percent reduction requirement in Table 2 or 2b to this subpart using total organic compounds (TOC) rather than organic HAP, you must first demonstrate, subject to the approval of the Administrator, that TOC is an appropriate surrogate for organic HAP in your case; that is, for your storage tank(s) and/or transfer rack(s), the percent destruction of organic HAP is equal to or higher than the percent destruction of TOC. This demonstration must be conducted prior to or during the initial compliance test.

* * * * *

(i) Safety device. Opening of a safety device is allowed at any time that it is required to avoid unsafe operating conditions. Beginning no later than July 7, 2023, this paragraph no longer applies.

* * * * *

(k) Flares. Beginning no later than the compliance dates specified in § 63.2342(e), for each storage tank and low throughput transfer rack that is subject to control based on the criteria specified in Tables 2 or 2b to this subpart, if you vent emissions through a closed vent system to a flare then you must comply with the requirements specified in § 63.2380 instead of the requirements in § 63.987 and the provisions regarding flare compliance assessments at § 63.997(a), (b), and (c).

(l) Startup, shutdown, and malfunction. Beginning no later than the compliance dates specified in § 63.2342(e), the referenced provisions specified in paragraphs (l)(1) through (20) of this section do not apply when demonstrating compliance with subpart H of this part, subpart SS of this part, subpart TT of this part, and subpart UU of this part.

(1) The second sentence of § 63.181(d)(5)(i).

(2) The second sentence of § 63.983(a)(5).

(3) The phrase “except during periods of start-up, shutdown, and malfunction as specified in the referencing subpart” in § 63.984(a).

(4) The phrase “except during periods of start-up, shutdown and malfunction as specified in the referencing subpart” in § 63.985(a).

(5) The phrase “other than start-ups, shutdowns, or malfunctions” in § 63.994(c)(1)(ii)(D).

(6) § 63.996(c)(2)(ii).

(7) The last sentence of § 63.997(e)(1)(i).

(8) § 63.998(b)(2)(iii).

(9) The phrase “other than periods of start-ups, shutdowns or malfunctions” from § 63.998(b)(5)(i)(A).

(10) The phrase “other than a start-up, shutdown or malfunction” from § 63.998(b)(5)(i)(B)(3).

(11) The phrase “other than periods of start-ups, shutdowns or malfunctions” from § 63.998(b)(5)(i)(C).

(12) The phrase “other than a start-up, shutdown or malfunction” from § 63.998(b)(5)(ii)(C).

(13) The phrase “, except as provided in paragraphs (b)(6)(i)(A) and (B) of this section” from § 63.998(b)(6)(i).

(14) The second sentence of § 63.998(b)(6)(ii).

(15) § 63.998(c)(1)(ii)(D), (E), (F), and (G).

(16) § 63.998(d)(3).

(17) The phrase “may be included as part of the startup, shutdown, and malfunction plan, as required by the referencing subpart for the source, or” from § 63.1005(e)(4)(i).

(18) The phrase “may be included as part of the startup, shutdown, and malfunction plan, as required by the referencing subpart for the source, or” from § 63.1024(f)(4)(i).

(19) The phrase “(except periods of startup, shutdown, or malfunction)” from § 63.1007(e)(1)(ii)(A).

(20) The phrase “(except periods of startup, shutdown, or malfunction)” from § 63.1026(e)(1)(ii)(A).

7. Section 63.2350 is revised to read as follows:

§ 63.2350 What are my general requirements for complying with this subpart?

(a) You must be in compliance with the emission limitations, operating limits, and work practice standards in this subpart at all times when the equipment identified in § 63.2338(b)(1) through (5) is in OLD operation.

(b) Except as specified in paragraph (d) of this section, you must always operate and maintain your affected source, including air pollution control and monitoring equipment, according to the provisions in § 63.6(e)(1)(i).

(c) Except for emission sources not required to be controlled as specified in § 63.2343, you must develop a written startup, shutdown, and malfunction (SSM) plan according to the provisions in § 63.6(e)(3). Beginning no later than July 7, 2023, this paragraph no longer applies; however, for historical compliance purposes, a copy of the plan must be retained and available according to the requirements in § 63.2394(c) for five years after July 7, 2023.

(d) Beginning no later than the compliance dates specified in § 63.2342(e), paragraph (b) of this section no longer applies. Instead, at all times, you must operate and maintain any affected source, including associated air pollution control equipment and monitoring equipment, in a manner consistent with safety and good air pollution control practices for minimizing emissions. The general duty to minimize emissions does not require you to make any further efforts to reduce emissions if levels required by the applicable standard have been achieved. Determination of whether a source is operating in compliance with operation and maintenance requirements will be based on information available to the Administrator which may include, but is not limited to, monitoring results, review of operation and maintenance procedures, review of operation and maintenance records, and inspection of the source.

8. Section 63.2354 is amended by:

a. Revising paragraphs (a)(2) and (3) and (b)(1), (3), (4), and (5);

b. Adding paragraph (b)(6);

c. Revising paragraph (c); and

d. Adding paragraph (d).

The revisions and additions read as follows:

§ 63.2354 What performance tests, design evaluations, and performance evaluations must I conduct?

(a) * * *

(2) For each design evaluation you conduct, you must use the procedures specified in subpart SS of this part. You must also comply with the requirements specified in § 63.2346(l).

(3) For each performance evaluation of a continuous emission monitoring system (CEMS) you conduct, you must follow the requirements in § 63.8(e) and paragraph (d) of this section. For CEMS installed after the compliance date specified in § 63.2342(e), conduct a performance evaluation of each CEMS within 180 days of installation of the monitoring system.

(b)(1) Except as specified in paragraph (b)(6) of this section, for nonflare control devices, you must conduct each performance test according to the requirements in § 63.7(e)(1), and either § 63.988(b), § 63.990(b), or § 63.995(b), using the procedures specified in § 63.997(e).

* * * * *

(3)(i) In addition to Method 25 or 25A (40 CFR part 60, appendix A-7), to determine compliance with the TOC emission limit, you may use Method 18 (40 CFR part 60, appendix A-6) or Method 320 of appendix A to this part to determine compliance with the total organic HAP emission limit. You may not use Method 18 or Method 320 of appendix A to this part if the control device is a combustion device, and you must not use Method 320 of appendix A to this part if the gas stream contains entrained water droplets. All compounds quantified by Method 320 of appendix A to this part must be validated according to Section 13.0 of Method 320 of appendix A to this part. As an alternative to Method 18, for determining compliance with the total organic HAP emission limit, you may use ASTM D6420-18 (incorporated by reference, see § 63.14), under the conditions specified in paragraph (b)(3)(ii) of this section.

(A) If you use Method 18 (40 CFR 60, appendix A-6) or Method 320 of appendix A to this part to measure compliance with the percentage efficiency limit, you must first determine which organic HAP are present in the inlet gas stream (i.e., uncontrolled emissions) using knowledge of the organic liquids or the screening procedure described in Method 18. In conducting the performance test, you must analyze samples collected simultaneously at the inlet and outlet of the control device. Quantify the emissions for the same organic HAP identified as present in the inlet gas stream for both the inlet and outlet gas streams of the control device.

(B) If you use Method 18 (40 CFR part 60, appendix A-6) or Method 320 of appendix A to this part, to measure compliance with the emission concentration limit, you must first determine which organic HAP are present in the inlet gas stream using knowledge of the organic liquids or the screening procedure described in Method 18. In conducting the performance test, analyze samples collected as specified in Method 18 at the outlet of the control device. Quantify the control device outlet emission concentration for the same organic HAP identified as present in the inlet or uncontrolled gas stream.

(ii) You may use ASTM D6420-18 (incorporated by reference, see § 63.14), to determine compliance with the total organic HAP emission limit if the target concentration for each HAP is between 150 parts per billion by volume and 100 ppmv and either of the conditions specified in paragraph (b)(2)(ii)(A) or (B) of this section exists. For target compounds not listed in Section 1.1 of ASTM D6420-18 and not amenable to detection by mass spectrometry, you may not use ASTM D6420-18.

(A) The target compounds are those listed in Section 1.1 of ASTM D6420-18 (incorporated by reference, see § 63.14); or

(B) For target compounds not listed in Section 1.1 of ASTM D6420-18 (incorporated by reference, see § 63.14), but potentially detected by mass spectrometry, you must demonstrate recovery of the compound and the additional system continuing calibration check after each run, as detailed in ASTM D6420-18, Section 10.5.3, must be followed, met, documented, and submitted with the data report, even if there is no moisture condenser used or the compound is not considered water-soluble.

(iii) You may use ASTM D6348-12e1 (incorporated by reference, see § 63.14) instead of Method 320 of appendix A to this part under the conditions specified in footnote 4 of Table 5 to this subpart.

(4) If a principal component of the uncontrolled or inlet gas stream to the control device is formaldehyde, you must use Method 316 of appendix A to this part, Method 320 of appendix A to this part, or Method 323 of appendix A to this part for measuring the formaldehyde, except you must not use Method 320 or Method 323 of appendix A to this part if the gas stream contains entrained water droplets. If you use Method 320 of appendix A to this part, formaldehyde must be validated according to Section 13.0 of Method 320 of appendix A to this part. You must measure formaldehyde either at the inlet and outlet of the control device to determine control efficiency or at the outlet of a combustion device for determining compliance with the emission concentration limit. You may use ASTM D6348-12e1 (incorporated by reference, see § 63.14) instead of Method 320 of appendix A to this part under the conditions specified in footnote 4 of Table 5 to this subpart.

(5) Except as specified in paragraph (b)(6) of this section, you may not conduct performance tests during periods of SSM, as specified in § 63.7(e)(1).

(6) Beginning no later than the compliance dates specified in § 63.2342(e), paragraphs (b)(1) and (5) of this section no longer apply. Instead, you must conduct each performance test according to the requirements in paragraphs (b)(6)(i) and (ii) of this section.

(i) In lieu of the requirements specified in § 63.7(e)(1), you must conduct performance tests under such conditions as the Administrator specifies based on representative performance of the affected source for the period being tested. Representative conditions exclude periods of startup and shutdown. You may not conduct performance tests during periods of malfunction. You must record the process information that is necessary to document operating conditions during the test and include in such record an explanation to support that such conditions represent normal operation. Upon request, you must make available to the Administrator such records as may be necessary to determine the conditions of performance tests.

(ii) Pursuant to paragraph (b)(6)(i) of this section, you must conduct each performance test according to the requirements in either § 63.988(b), § 63.990(b), or § 63.995(b), using the procedures specified in § 63.997(e). You must also comply with the requirements specified in § 63.2346(l).

(c) To determine the HAP content of the organic liquid, you may use Method 311 of appendix A to this part, ASTM D6886-18 (incorporated by reference, see § 63.14), or other method approved by the Administrator. If you use ASTM D6886-18 to determine the HAP content, you must use either Method B or Method B in conjunction with Method C, as described in section 4.3 of ASTM D6886-18. In addition, you may use other means, such as voluntary consensus standards, safety data sheets (SDS), or certified product data sheets, to determine the HAP content of the organic liquid. If the method you select to determine the HAP content provides HAP content ranges, you must use the upper end of each HAP content range in determining the total HAP content of the organic liquid. The EPA may require you to test the HAP content of an organic liquid using Method 311 of appendix A to this part or other method approved by the Administrator. For liquids that contain any amount of formaldehyde or carbon tetrachloride, you may not use Method 311of appendix A to this part. If the results of the Method 311 of appendix A to this part (or any other approved method) are different from the HAP content determined by another means, the Method 311 of appendix A to this part (or approved method) results will govern. For liquids that contain any amount of formaldehyde or carbon tetrachloride, if the results of ASTM D6886-18 using method B or C in section 4.3 (or any other approved method) are different from the HAP content determined by another means, ASTM D6886-18 using method B or C in section 4 (or approved method) results will govern.

(d) Each VOC CEMS must be installed, operated, and maintained according to the requirements of one of the following performance specifications in appendix B to part 60 of this chapter: Performance Specification 8, Performance Specification 8A, Performance Specification 9, or Performance Specification 15. You must also comply with the requirements of procedure 1 of appendix F to part 60 of this chapter, for CEMS using Performance Specification 8 or 8A.

(1) For CEMS using Performance Specification 9 or 15 (40 CFR part 60, appendix B), determine the target analyte(s) for calibration using either process knowledge or the screening procedures of Method 18 (40 CFR part 60, appendix A-6).

(2) For CEMS using Performance Specification 8A (40 CFR part 60, appendix B), conduct the relative accuracy test audits required under Procedure 1 (40 CFR part 60, appendix F) in accordance with Sections 8 and 11 of Performance Specification 8 (40 CFR part 60, appendix B). The relative accuracy must meet the criteria of Section 13.2 of Performance Speciation 8 (40 CFR part 60, appendix B).

(3) For CEMS using Performance Specification 8 or 8A of 40 CFR part 60, appendix B, calibrate the instrument on methane and report the results as carbon (C1). Use Method 25A of 40 CFR part 60, appendix A-7 as the reference method for the relative accuracy tests.

(4) If you are required to monitor oxygen in order to conduct concentration corrections, you must use Performance Specification 3 (40 CFR part 60, appendix B), to certify your oxygen CEMS, and you must comply with procedure 1 (40 CFR part 60, appendix F). Use Method 3A (40 CFR part 60, appendix A-2), as the reference method when conducting a relative accuracy test audit.

9. Section 63.2358 is amended by adding paragraph (b)(3) to read as follows:

§ 63.2358 By what date must I conduct performance tests and other initial compliance demonstrations?

* * * * *

(b) * * *

(3) For storage tanks at existing affected sources that commenced construction or reconstruction on or before October 21, 2019, you must demonstrate initial compliance with the emission limitations listed in Table 2b to this subpart within 180 days of either the initial startup or July 7, 2023, whichever is later, except as provided in paragraphs (b)(3)(i) and (ii) of this section.

(i) For storage tanks with an existing internal or external floating roof, complying with item 1.a.ii. in Table 2b to this subpart and item 1.a. in Table 4 to this subpart, you must conduct your initial compliance demonstration the next time the storage tank is emptied and degassed, but not later than July 7, 2030.

(ii) For storage tanks complying with item 1.a.ii. in Table 2b to this subpart and item 1.b. or 1.c. in Table 4 to this subpart, you must comply within 180 days after July 7, 2023.

* * * * *

10. Section 63.2362 is amended by revising paragraph (b)(2) to read as follows:

§ 63.2362 When must I conduct subsequent performance tests?

* * * * *

(b) * * *

(2) For transport vehicles that you own that do not have vapor collection equipment, you must maintain current certification in accordance with the U.S. DOT qualification and maintenance requirements in 49 CFR part 180, subparts E (cargo tanks) and F (tank cars).

11. Section 63.2366 is revised to read as follows:

§ 63.2366 What are my monitoring installation, operation, and maintenance requirements?

(a) You must install, operate, and maintain a continuous monitoring system (CMS) on each control device required in order to comply with this subpart. If you use a continuous parameter monitoring system (CPMS) (as defined in § 63.981), you must comply with § 63.2346(l) and the applicable requirements for CPMS in subpart SS of this part and § 63.671, for the control device being used. If you use a CEMS, you must install, operate, and maintain the CEMS according to the requirements in § 63.8 and paragraph (d) of this section, except as specified in paragraph (c) of this section.

(b) For nonflare control devices controlling storage tanks and low throughput transfer racks, you must submit a monitoring plan according to the requirements in subpart SS of this part, for monitoring plans. You must also comply with the requirements specified in § 63.2346(l).

(c) Beginning no later than the compliance dates specified in § 63.2342(e), you must keep the written procedures required by § 63.8(d)(2) on record for the life of the affected source or until the affected source is no longer subject to the provisions of this part, to be made available for inspection, upon request, by the Administrator. If the performance evaluation plan is revised, you must keep previous (i.e., superseded) versions of the performance evaluation plan on record to be made available for inspection, upon request, by the Administrator, for a period of 5 years after each revision to the plan. The program of corrective action should be included in the plan required under § 63.8(d)(2). In addition to the information required in § 63.8(d)(2), your written procedures for CEMS must include the information in paragraphs (c)(1) through (6) of this section:

(1) Description of CEMS installation location.

(2) Description of the monitoring equipment, including the manufacturer and model number for all monitoring equipment components and the span of the analyzer.

(3) Routine quality control and assurance procedures.

(4) Conditions that would trigger a CEMS performance evaluation, which must include, at a minimum, a newly installed CEMS; a process change that is expected to affect the performance of the CEMS; and the Administrator's request for a performance evaluation under section 114 of the Clean Air Act.

(5) Ongoing operation and maintenance procedures in accordance with the general requirements of § 63.8(c)(1) and (3), (c)(4)(ii), and (c)(7) and (8);

(6) Ongoing recordkeeping and reporting procedures in accordance with the general requirements of § 63.10(c) and (e)(1).

(d) For each CEMS, you must locate the sampling probe or other interface at a measurement location such that you obtain representative measurements of emissions from the regulated source and comply with the applicable requirements specified in § 63.2354(d).

12. Section 63.2370 is amended by revising paragraphs (a) and (c) to read as follows:

§ 63.2370 How do I demonstrate initial compliance with the emission limitations, operating limits, and work practice standards?

(a) You must demonstrate initial compliance with each emission limitation and work practice standard that applies to you as specified in Tables 6 and 7 to this subpart.

* * * * *

(c) You must submit the results of the initial compliance determination in the Notification of Compliance Status according to the requirements in § 63.2382(d). If the initial compliance determination includes a performance test and the results are submitted electronically via the Compliance and Emissions Data Reporting Interface (CEDRI) in accordance with § 63.2386(g), the unit(s) tested, the pollutant(s) tested, and the date that such performance test was conducted may be submitted in the Notification of Compliance Status in lieu of the performance test results. The performance test results must be submitted to CEDRI by the date the Notification of Compliance Status is submitted.

13. Section 63.2374 is amended by revising paragraph (a) to read as follows:

§ 63.2374 When do I monitor and collect data to demonstrate continuous compliance and how do I use the collected data?

(a) You must monitor and collect data according to subpart SS of this part, and paragraphs (b) and (c) of this section. You must also comply with the requirements specified in § 63.2346(l).

* * * * *

14. Section 63.2378 is amended by revising paragraphs (a), (b) introductory text, (b)(2), (c), and (d), and adding paragraphs (e) and (f) to read as follows:

§ 63.2378 How do I demonstrate continuous compliance with the emission limitations, operating limits, and work practice standards?

(a) You must demonstrate continuous compliance with each emission limitation, operating limit, and work practice standard in Tables 2 through 4 to this subpart that applies to you according to the methods specified in subpart SS of this part, and in Tables 8 through 10 to this subpart, as applicable. You must also comply with the requirements specified in § 63.2346(l).

(b) Except as specified in paragraph (e) of this section, you must follow the requirements in § 63.6(e)(1) and (3) during periods of startup, shutdown, malfunction, or nonoperation of the affected source or any part thereof. In addition, the provisions of paragraphs (b)(1) through (3) of this section apply.

* * * * *

(2) The owner or operator must not shut down control devices or monitoring systems that are required or utilized for achieving compliance with this subpart during periods of SSM while emissions are being routed to such items of equipment if the shutdown would contravene requirements of this subpart applicable to such items of equipment. This paragraph (b)(2) does not apply if the item of equipment is malfunctioning. This paragraph (b)(2) also does not apply if the owner or operator shuts down the compliance equipment (other than monitoring systems) to avoid damage due to a contemporaneous SSM of the affected source or portion thereof. If the owner or operator has reason to believe that monitoring equipment would be damaged due to a contemporaneous SSM of the affected source of portion thereof, the owner or operator must provide documentation supporting such a claim in the next Compliance report required in Table 11 to this subpart, item 1. Once approved by the Administrator, the provision for ceasing to collect, during a SSM, monitoring data that would otherwise be required by the provisions of this subpart must be incorporated into the SSM plan.

* * * * *

(c) Except as specified in paragraph (e) of this section, periods of planned routine maintenance of a control device used to control storage tanks or transfer racks, during which the control device does not meet the emission limits in Table 2 to this subpart, must not exceed 240 hours per year.

(d) Except as specified in paragraph (e) of this section, if you elect to route emissions from storage tanks or transfer racks to a fuel gas system or to a process, as allowed by § 63.982(d), to comply with the emission limits in Table 2 to this subpart, the total aggregate amount of time during which the emissions bypass the fuel gas system or process during the calendar year without being routed to a control device, for all reasons (except SSM or product changeovers of flexible operation units and periods when a storage tank has been emptied and degassed), must not exceed 240 hours.

(e) Beginning no later than the compliance dates specified in § 63.2342(e), paragraphs (b) through (d) of this section no longer apply. Instead, you must be in compliance with each emission limitation, operating limit, and work practice standard specified in paragraph (a) of this section at all times, except during periods of nonoperation of the affected source (or specific portion thereof) resulting in cessation of the emissions to which this subpart applies and must comply with the requirements specified in paragraphs (e)(1) through (5) of this section, as applicable. Equipment subject to the work practice standards for equipment leak components in Table 4 to this subpart, item 4 are not subject to this paragraph (e).

(1) Except as specified in paragraphs (e)(3) through (5) of this section, the use of a bypass line at any time on a closed vent system to divert a vent stream to the atmosphere or to a control device not meeting the requirements specified in paragraph (a) of this section is an emissions standards deviation.

(2) If you are subject to the bypass monitoring requirements of § 63.983(a)(3), then you must continue to comply with the requirements in § 63.983(a)(3) and the recordkeeping and reporting requirements in §§ 63.998(d)(1)(ii) and 63.999(c)(2), in addition to § 63.2346(l), the recordkeeping requirements specified in § 63.2390(g), and the reporting requirements specified in § 63.2386(c)(12).

(3) Periods of planned routine maintenance of a control device used to control storage tank breathing loss emissions, during which the control device does not meet the emission limits in Table 2 or 2b to this subpart, must not exceed 240 hours per year. The level of material in the storage vessel shall not be increased during periods that the closed-vent system or control device is bypassed to perform routine maintenance.

(4) If you elect to route emissions from storage tanks to a fuel gas system or to a process, as allowed by § 63.982(d), to comply with the emission limits in Table 2 or 2b to this subpart, the total aggregate amount of time during which the breathing loss emissions bypass the fuel gas system or process during the calendar year without being routed to a control device, for all reasons (except product changeovers of flexible operation units and periods when a storage tank has been emptied and degassed), must not exceed 240 hours. The level of material in the storage vessel shall not be increased during periods that the fuel gas system or process is bypassed to perform routine maintenance.

(f) The CEMS data must be reduced to daily averages computed using valid data consistent with the data availability requirements specified in § 63.999(c)(6)(i)(B) through (D), except monitoring data also are sufficient to constitute a valid hour of data if measured values are available for at least two of the 15-minute periods during an hour when calibration, quality assurance, or maintenance activities are being performed. In computing daily averages to determine compliance with this subpart, you must exclude monitoring data recorded during CEMS breakdowns, out of control periods, repairs, maintenance periods, calibration checks, or other quality assurance activities.

15. Section 63.2380 is added before the undesignated center heading “Notifications, Reports, and Records” to read as follows:

§ 63.2380 What are my requirements for certain flares?

(a) Beginning no later than the compliance dates specified in § 63.2342(e), if you reduce organic HAP emissions by venting emissions through a closed vent system to a steam-assisted, air-assisted, or non-assisted flare to control emissions from a storage tank, low throughput transfer rack, or high throughput transfer rack that is subject to control based on the criteria specified in Tables 2 or 2b to this subpart, then the flare requirements specified in § 63.11(b); subpart SS of this part; the provisions specified in items 7.a through 7.d of Table 3 to this subpart; Table 8 to this subpart; and the provisions specified in items 1.a.iii and 2.a.iii, and items 7.a through 7.d.2 of Table 9 to this subpart no longer apply. Instead, you must meet the applicable requirements for flares as specified in §§ 63.670 and 63.671, including the provisions in Tables 12 and 13 to subpart CC of this part, except as specified in paragraphs (b) through (m) of this section. For purposes of compliance with this paragraph, the following terms are defined in § 63.641: Assist air, assist steam, center steam, combustion zone, combustion zone gas, flare, flare purge gas, flare supplemental gas, flare sweep gas, flare vent gas, lower steam, net heating value, perimeter assist air, pilot gas, premix assist air, total steam, and upper steam.

(b) The following phrases in § 63.670(c) do not apply:

(1) “Specify the smokeless design capacity of each flare and”; and

(2) “And the flare vent gas flow rate is less than the smokeless design capacity of the flare.”

(c) The phrase “and the flare vent gas flow rate is less than the smokeless design capacity of the flare” in § 63.670(d) does not apply.

(d) Section 63.670(j)(6)(ii) does not apply. Instead submit the information required by § 63.670(j)(6)(ii) with the Notification of Compliance Status according to § 63.2382(d)(2)(ix).

(e) Section 63.670(o) does not apply.

(f) Substitute “pilot flame or flare flame” or each occurrence of “pilot flame.”

(g) Substitute “affected source” for each occurrence of “petroleum refinery.”

(h) Each occurrence of “refinery” does not apply.

(i) You may elect to comply with the alternative means of emissions limitation requirements specified in § 63.670(r)in lieu of the requirements in § 63.670(d) through (f), as applicable. However, instead of complying with § 63.670(r)(3)(iii), you must also submit the alternative means of emissions limitation request to the following address: U.S. Environmental Protection Agency, Office of Air Quality Planning and Standards, Sector Policies and Programs Division, U.S. EPA Mailroom (E143-01), Attention: Organic Liquids Distribution Sector Lead, 109 T.W. Alexander Drive, Research Triangle Park, NC 27711. Electronic copies in lieu of hard copies may also be submitted to oldrtr@epa.gov.

(j) If you choose to determine compositional analysis for net heating value with a continuous process mass spectrometer, then you must comply with the requirements specified in paragraphs (j)(1) through (7) of this section.

(1) You must meet the requirements in § 63.671(e)(2). You may augment the minimum list of calibration gas components found in § 63.671(e)(2) with compounds found during a pre-survey or known to be in the gas through process knowledge.

(2) Calibration gas cylinders must be certified to an accuracy of 2 percent and traceable to National Institute of Standards and Technology (NIST) standards.

(3) For unknown gas components that have similar analytical mass fragments to calibration compounds, you may report the unknowns as an increase in the overlapped calibration gas compound. For unknown compounds that produce mass fragments that do not overlap calibration compounds, you may use the response factor for the nearest molecular weight hydrocarbon in the calibration mix to quantify the unknown component's NHVvg.

(4) You may use the response factor for n-pentane to quantify any unknown components detected with a higher molecular weight than n-pentane.

(5) You must perform an initial calibration to identify mass fragment overlap and response factors for the target compounds.

(6) You must meet applicable requirements in Performance Specification (PS) 9 (40 CFR part 60, appendix B) for continuous monitoring system acceptance including, but not limited to, performing an initial multi-point calibration check at three concentrations following the procedure in Section 10.1 of PS 9 and performing the periodic calibration requirements listed for gas chromatographs in Table 13 to subpart CC of this part, for the process mass spectrometer. You may use the alternative sampling line temperature allowed under Net Heating Value by Gas Chromatograph in Table 13 to subpart CC of this part.

(7) The average instrument calibration error (CE) for each calibration compound at any calibration concentration must not differ by more than 10 percent from the certified cylinder gas value. The CE for each component in the calibration blend must be calculated using the following equation:

Where:

Cm = Average instrument response (ppm)

Ca = Certified cylinder gas value (ppm)

(k) If you use a gas chromatograph or mass spectrometer for compositional analysis for net heating value, then you may choose to use the CE of NHV measured versus the cylinder tag value NHV as the measure of agreement for daily calibration and quarterly audits in lieu of determining the compound-specific CE. The CE for NHV at any calibration level must not differ by more than 10 percent from the certified cylinder gas value. The CE for must be calculated using the following equation:

Where:

NHVmeasured = Average instrument response (Btu/scf)

NHVa = Certified cylinder gas value (Btu/scf)

(l) Instead of complying with § 63.670(p), you must keep the flare monitoring records specified in § 63.2390(h).

(m) Instead of complying with § 63.670(q), you must comply with the reporting requirements specified in § 63.2382(d)(2)(ix) and § 63.2386(d)(5).

16. Section 63.2382 is amended by revising paragraphs (a), (d)(1), (d)(2) introductory text, (d)(2)(ii), (vi), and (vii), and adding paragraphs (d)(2)(ix) and (d)(3) to read as follows:

§ 63.2382 What notifications must I submit and when and what information should be submitted?

(a) You must submit each notification in subpart SS of this part, Table 12 to this subpart, and paragraphs (b) through (d) of this section that applies to you. You must submit these notifications according to the schedule in Table 12 to this subpart and as specified in paragraphs (b) through (d) of this section. You must also comply with the requirements specified in § 63.2346(l).

* * * * *

(d) * * *

(1) Notification of Compliance Status. If you are required to conduct a performance test, design evaluation, or other initial compliance demonstration as specified in Table 5, 6, or 7 to this subpart, you must submit a Notification of Compliance Status.

(2) Notification of Compliance Status requirements. The Notification of Compliance Status must include the information required in § 63.999(b) and in paragraphs (d)(2)(i) through (ix) of this section.

* * * * *

(ii) The results of emissions profiles, performance tests, engineering analyses, design evaluations, flare compliance assessments, inspections and repairs, and calculations used to demonstrate initial compliance according to Tables 6 and 7 to this subpart. For performance tests, results must include descriptions of sampling and analysis procedures and quality assurance procedures. If performance test results are submitted electronically via CEDRI in accordance with § 63.2386(g), the unit(s) tested, the pollutant(s) tested, and the date that such performance test was conducted may be submitted in the Notification of Compliance Status in lieu of the performance test results. The performance test results must be submitted to CEDRI by the date the Notification of Compliance Status is submitted.

* * * * *

(vi) The applicable information specified in § 63.1039(a)(1) through (3) for all pumps and valves subject to the work practice standards for equipment leak components in Table 4 to this subpart, item 4.

(vii) If you are complying with the vapor balancing work practice standard for transfer racks according to Table 4 to this subpart, item 3.a, include a statement to that effect and a statement that the pressure vent settings on the affected storage tanks are greater than or equal to 2.5 psig.

* * * * *

(ix) For flares subject to the requirements of § 63.2380, you must also submit the information in this paragraph in a supplement to the Notification of Compliance Status within 150 days after the first applicable compliance date for flare monitoring. In lieu of the information required in § 63.987(b), the Notification of Compliance Status must include flare design (e.g., steam-assisted, air-assisted, or non-assisted); all visible emission readings, heat content determinations (including information required by § 63.670(j)(6)(i), as applicable), flow rate measurements, and exit velocity determinations made during the initial visible emissions demonstration required by § 63.670(h), as applicable; and all periods during the compliance determination when the pilot flame or flare flame is absent.

(3) Submitting Notification of Compliance Status. Beginning no later than the compliance dates specified in § 63.2342(e), you must submit all subsequent Notification of Compliance Status reports to the EPA via CEDRI, which can be accessed through EPA's Central Data Exchange (CDX) (https://cdx.epa.gov/). If you claim some of the information required to be submitted via CEDRI is confidential business information (CBI), then submit a complete report, including information claimed to be CBI, to the EPA. Submit the file on a compact disc, flash drive, or other commonly used electronic storage medium and clearly mark the medium as CBI. Mail the electronic medium to U.S. Environmental Protection Agency, Office of Air Quality Planning and Standards, Sector Policies and Programs Division, U.S. EPA Mailroom (C404-02), Attention: Organic Liquids Distribution Sector Lead, 4930 Old Page Rd., Durham, NC 27703. The same file with the CBI omitted must be submitted to the EPA via EPA's CDX as described earlier in this paragraph. You may assert a claim of EPA system outage or force majeure for failure to timely comply with this reporting requirement provided you meet the requirements outlined in § 63.2386(i) or (j), as applicable.

17. Section 63.2386 is amended by:

a. Revising paragraphs (a), (b) introductory text, (c) introductory text, (c)(2), (3), (5), and (9);

b. Adding paragraphs (c)(11) and (12);

c. Revising paragraph (d) introductory text, (d)(1) introductory text, (d)(1)(i) through (d)(1)(vii), (ix), and (x);

d. Adding paragraphs (d)(1)(xiii) through (xv);

e. Revising paragraph (d)(2)(i);

f. Adding paragraph (d)(2)(iv);

g. Revising paragraph (d)(3);

h. Adding paragraph (d)(5);

i. Revising paragraph (e); and

j. Adding paragraphs (f) through (j).

The revisions and additions read as follows:

§ 63.2386 What reports must I submit and when and what information is to be submitted in each?

(a) You must submit each report in subpart SS of this part, Table 11 to this subpart, Table 12 to this subpart, and in paragraphs (c) through (j) of this section that applies to you. You must also comply with the requirements specified in § 63.2346(l).

(b) Unless the Administrator has approved a different schedule for submission of reports under § 63.10(a), you must submit each report according to Table 11 to this subpart and by the dates shown in paragraphs (b)(1) through (3) of this section, by the dates shown in subpart SS of this part, and by the dates shown in Table 12 to this subpart, whichever are applicable.

* * * * *

(c) First Compliance report. The first Compliance report must contain the information specified in paragraphs (c)(1) through (12) of this section, as well as the information specified in paragraph (d) of this section.

* * * * *

(2) Statement by a responsible official, including the official's name, title, and signature, certifying that, based on information and belief formed after reasonable inquiry, the statements and information in the report are true, accurate, and complete. If your report is submitted via CEDRI, the certifier's electronic signature during the submission process replaces this requirement.

(3) Date of report and beginning and ending dates of the reporting period. You are no longer required to provide the date of report when the report is submitted via CEDRI.

* * * * *

(5) Except as specified in paragraph (c)(11) of this section, if you had a SSM during the reporting period and you took actions consistent with your SSM plan, the Compliance report must include the information described in § 63.10(d)(5)(i).

* * * * *

(9) A listing of all transport vehicles into which organic liquids were loaded at transfer racks that are subject to control based on the criteria specified in Table 2 to this subpart, items 7 through 10, during the previous 6 months for which vapor tightness documentation as required in § 63.2390(c) was not on file at the facility.

* * * * *

(11) Beginning no later than the compliance dates specified in § 63.2342(e), paragraph (c)(5) of this section no longer applies.

(12) Beginning no later than the compliance dates specified in § 63.2342(e), for bypass lines subject to the requirements § 63.2378(e)(1) and (2), the compliance report must include the start date, start time, duration in hours, estimate of the volume of gas in standard cubic feet (scf), the concentration of organic HAP in the gas in ppmv and the resulting mass emissions of organic HAP in pounds that bypass a control device. For periods when the flow indicator is not operating, report the start date, start time, and duration in hours.

(d) Subsequent Compliance reports. Subsequent Compliance reports must contain the information in paragraphs (c)(1) through (9) and paragraph (c)(12) of this section and, where applicable, the information in paragraphs (d)(1) through (5) of this section.

(1) For each deviation from an emission limitation occurring at an affected source where you are using a CMS to comply with an emission limitation in this subpart, or for each CMS that was inoperative or out of control during the reporting period, you must include in the Compliance report the applicable information in paragraphs (d)(1)(i) through (xv) of this section. This includes periods of SSM.

(i) The date and time that each malfunction started and stopped, and the nature and cause of the malfunction (if known).

(ii) The start date, start time, and duration in hours for each period that each CMS was inoperative, except for zero (low-level) and high-level checks.

(iii) The start date, start time, and duration in hours for each period that the CMS that was out of control.

(iv) Except as specified in paragraph (d)(1)(xiii) of this section, the date and time that each deviation started and stopped, and whether each deviation occurred during a period of SSM, or during another period.

(v) The total duration in hours of all deviations for each CMS during the reporting period, and the total duration as a percentage of the total emission source operating time during that reporting period.

(vi) Except as specified in paragraph (d)(1)(xiii) of this section, a breakdown of the total duration of the deviations during the reporting period into those that are due to startup, shutdown, control equipment problems, process problems, other known causes, and other unknown causes.

(vii) The total duration in hours of CMS downtime for each CMS during the reporting period, and the total duration of CMS downtime as a percentage of the total emission source operating time during that reporting period.

* * * * *

(ix) A brief description of the emission source(s) at which the CMS deviation(s) occurred or at which the CMS was inoperative or out of control.

(x) The equipment manufacturer(s) and model number(s) of the CMS and the pollutant or parameter monitored.

* * * * *

(xiii) Beginning no later than the compliance dates specified in § 63.2342(e), paragraphs (d)(1)(iv) and (vi) of this section no longer apply. For each instance, report the start date, start time, and duration in hours of each failure. For each failure, the report must include a list of the affected sources or equipment, an estimate of the quantity in pounds of each regulated pollutant emitted over any emission limit, a description of the method used to estimate the emissions, and the cause of the deviation (including unknown cause, if applicable), as applicable, and the corrective action taken.

(xiv) Corrective actions taken for a CMS that was inoperative or out of control.

(xv) Total process operating time during the reporting period.

(2) * * *

(i) Except as specified in paragraph (d)(2)(iv) of this section, for each storage tank and transfer rack subject to control requirements, include periods of planned routine maintenance during which the control device did not comply with the applicable emission limits in Table 2 to this subpart.

* * * * *

(iv) Beginning no later than the compliance dates specified in § 63.2342(e), paragraph (d)(2)(i) of this section no longer applies. Instead for each storage tank subject to control requirements, include the start date, start time, end date and end time of any planned routine maintenance during which the control device used to control storage tank breathing losses did not comply with the applicable emission limits in Table 2 or 2b to this subpart.

(3)(i) Except as specified in paragraph (d)(3)(iii) of this section, a listing of any storage tank that became subject to controls based on the criteria for control specified in Table 2 to this subpart, items 1 through 6, since the filing of the last Compliance report.

(ii) A listing of any transfer rack that became subject to controls based on the criteria for control specified in Table 2 to this subpart, items 7 through 10, since the filing of the last Compliance report.

(iii) Beginning no later than the compliance dates specified in § 63.2342(e), the emission limits specified in Table 2 to this subpart for storage tanks at an existing affected source no longer apply as specified in § 63.2346(a)(5). Instead, beginning no later than the compliance dates specified in § 63.2342(e), you must include a listing of any storage tanks at an existing affected source that became subject to controls based on the criteria for control specified in Table 2b to this subpart, items 1 through 3, since the filing of the last Compliance report.

* * * * *

(5) Beginning no later than the compliance dates specified in § 63.2342(e), for each flare subject to the requirements in § 63.2380, the compliance report must include the items specified in paragraphs (d)(5)(i) through (iii) of this section in lieu of the information required in § 63.999(c)(3).

(i) Records as specified in § 63.2390(h)(1) for each 15-minute block during which there was at least one minute when regulated material is routed to a flare and no pilot flame or flare flame is present. Include the start and stop time and date of each 15-minute block.

(ii) Visible emission records as specified in § 63.2390(h)(2)(iv) for each period of 2 consecutive hours during which visible emissions exceeded a total of 5 minutes.

(iii) The periods specified in § 63.2390(h)(6). Indicate the date and start and end time for the period, and the net heating value operating parameter(s) determined following the methods in § 63.670(k) through (n) as applicable.

(e) Each affected source that has obtained a title V operating permit pursuant to 40 CFR part 70 or 40 CFR part 71 must report all deviations as defined in this subpart in the semiannual monitoring report required by 40 CFR 70.6(a)(3)(iii)(A) or 71.6(a)(3)(iii)(A). If an affected source submits a Compliance report pursuant to Table 11 to this subpart along with, or as part of, the semiannual monitoring report required by 40 CFR 70.6(a)(3)(iii)(A) or 71.6(a)(3)(iii)(A), and the Compliance report includes all required information concerning deviations from any emission limitation in this subpart, we will consider submission of the Compliance report as satisfying any obligation to report the same deviations in the semiannual monitoring report. However, submission of a Compliance report will not otherwise affect any obligation the affected source may have to report deviations from permit requirements to the applicable title V permitting authority.

(f) Beginning no later than the compliance dates specified in § 63.2342(e), you must submit all Compliance reports to the EPA via CEDRI, which can be accessed through EPA's CDX (https://cdx.epa.gov/). You must use the appropriate electronic report template on the CEDRI website (https://www.epa.gov/electronic-reporting-air-emissions/compliance-and-emissions-data-reporting-interface-cedri) for this subpart. The date report templates become available will be listed on the CEDRI website. Unless the Administrator or delegated state agency or other authority has approved a different schedule for submission of reports under §§ 63.9(i) and 63.10(a), the report must be submitted by the deadline specified in this subpart, regardless of the method in which the report is submitted. If you claim some of the information required to be submitted via CEDRI is CBI, submit a complete report, including information claimed to be CBI, to the EPA. The report must be generated using the appropriate form on the CEDRI website or an alternate electronic file consistent with the extensible markup language (XML) schema listed on the CEDRI website. Submit the file on a compact disc, flash drive, or other commonly used electronic storage medium and clearly mark the medium as CBI. Mail the electronic medium to U.S. Environmental Protection Agency, Office of Air Quality Planning and Standards, Sector Policies and Programs Division, U.S. EPA Mailroom (C404-02), Attention: Organic Liquids Distribution Sector Lead, 4930 Old Page Rd., Durham, NC 27703. The same file with the CBI omitted must be submitted to the EPA via EPA's CDX as described earlier in this paragraph. You may assert a claim of EPA system outage or force majeure for failure to timely comply with this reporting requirement provided you meet the requirements outlined in paragraph (i) or (j) of this section, as applicable.

(g) Beginning no later than the compliance dates specified in § 63.2342(e), you must start submitting performance test reports in accordance with this paragraph. Unless otherwise specified in this subpart, within 60 days after the date of completing each performance test required by this subpart, you must submit the results of the performance test following the procedures specified in paragraphs (g)(1) through (3) of this section.

(1) Data collected using test methods supported by the EPA's Electronic Reporting Tool (ERT) as listed on the EPA's ERT website (https://www.epa.gov/electronic-reporting-air-emissions/electronic-reporting-tool-ert) at the time of the test. Submit the results of the performance test to the EPA via CEDRI, which can be accessed through the EPA's CDX (https://cdx.epa.gov/). The data must be submitted in a file format generated through the use of the EPA's ERT. Alternatively, you may submit an electronic file consistent with the XML schema listed on the EPA's ERT website.

(2) Data collected using test methods that are not supported by the EPA's ERT as listed on the EPA's ERT website at the time of the test. The results of the performance test must be included as an attachment in the ERT or an alternate electronic file consistent with the XML schema listed on the EPA's ERT website. Submit the ERT generated package or alternative file to the EPA via CEDRI.

(3) CBI. If you claim some of the information submitted under paragraph (g)(1) or (2) of this section is CBI, then you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via EPA's CDX as described in paragraphs (g)(1) and (2) of this section.

(h) Beginning no later than the compliance dates specified in § 63.2342(e), you must start submitting performance evaluation reports in accordance with this paragraph. Unless otherwise specified in this subpart, within 60 days after the date of completing each CEMS performance evaluation (as defined in § 63.2), you must submit the results of the performance evaluation following the procedures specified in paragraphs (h)(1) through (3) of this section.

(1) Performance evaluations of CEMS measuring relative accuracy test audit (RATA) pollutants that are supported by the EPA's ERT as listed on the EPA's ERT website at the time of the evaluation. Submit the results of the performance evaluation to the EPA via CEDRI, which can be accessed through the EPA's CDX. The data must be submitted in a file format generated through the use of the EPA's ERT. Alternatively, you may submit an electronic file consistent with the XML schema listed on the EPA's ERT website.

(2) Performance evaluations of CEMS measuring RATA pollutants that are not supported by the EPA's ERT as listed on the EPA's ERT website at the time of the evaluation. The results of the performance evaluation must be included as an attachment in the ERT or an alternate electronic file consistent with the XML schema listed on the EPA's ERT website. Submit the ERT generated package or alternative file to the EPA via CEDRI.

(3) CBI. If you claim some of the information submitted under paragraph (h)(1) or (2) of this section is CBI, then you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in paragraphs (h)(1) and (2) of this section.

(i) If you are required to electronically submit a report through CEDRI in the EPA's CDX, you may assert a claim of EPA system outage for failure to timely comply with the reporting requirement. To assert a claim of EPA system outage, you must meet the requirements outlined in paragraphs (i)(1) through (7) of this section.

(1) You must have been or will be precluded from accessing CEDRI and submitting a required report within the time prescribed due to an outage of either the EPA's CEDRI or CDX systems.

(2) The outage must have occurred within the period of time beginning five business days prior to the date that the submission is due.

(3) The outage may be planned or unplanned.

(4) You must submit notification to the Administrator in writing as soon as possible following the date you first knew, or through due diligence should have known, that the event may cause or has caused a delay in reporting.

(5) You must provide to the Administrator a written description identifying:

(i) The date(s) and time(s) when CDX or CEDRI was accessed and the system was unavailable;

(ii) A rationale for attributing the delay in reporting beyond the regulatory deadline to EPA system outage;

(iii) Measures taken or to be taken to minimize the delay in reporting; and

(iv) The date by which you propose to report, or if you have already met the reporting requirement at the time of the notification, the date you reported.

(6) The decision to accept the claim of EPA system outage and allow an extension to the reporting deadline is solely within the discretion of the Administrator.

(7) In any circumstance, the report must be submitted electronically as soon as possible after the outage is resolved.

(j) If you are required to electronically submit a report through CEDRI in the EPA's CDX, you may assert a claim of force majeure for failure to timely comply with the reporting requirement. To assert a claim of force majeure, you must meet the requirements outlined in paragraphs (j)(1) through (5) of this section.

(1) You may submit a claim if a force majeure event is about to occur, occurs, or has occurred or there are lingering effects from such an event within the period of time beginning five business days prior to the date the submission is due. For the purposes of this paragraph, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) Measures taken or to be taken to minimize the delay in reporting; and

(iv) The date by which you propose to report, or if you have already met the reporting requirement at the time of the notification, the date you reported.

(4) The decision to accept the claim of force majeure and allow an extension to the reporting deadline is solely within the discretion of the Administrator.

(5) In any circumstance, the reporting must occur as soon as possible after the force majeure event occurs.

18. Section 63.2390 is amended by:

a. Revising paragraphs (b)(1) and (2);

b. Adding paragraph (b)(3);

c. Revising paragraphs (c) introductory text, (c)(2) and (3), and (d); and

d. Adding paragraphs (f) through (h).

The revisions and additions read as follows:

§ 63.2390 What records must I keep?

* * * * *

(b) * * *

(1) Except as specified in paragraph (h) of this section for flares, you must keep all records identified in subpart SS of this part and in Table 12 to this subpart that are applicable, including records related to notifications and reports, SSM, performance tests, CMS, and performance evaluation plans. You must also comply with the requirements specified in § 63.2346(l).

(2) Except as specified in paragraph (h) of this section for flares, you must keep the records required to show continuous compliance, as required in subpart SS of this part and in Tables 8 through 10 to this subpart, with each emission limitation, operating limit, and work practice standard that applies to you. You must also comply with the requirements specified in § 63.2346(l).

(3) In addition to the information required in § 63.998(c), the manufacturer's specifications or your written procedures must include a schedule for calibrations, preventative maintenance procedures, a schedule for preventative maintenance, and corrective actions to be taken if a calibration fails.

(c) For each transport vehicle into which organic liquids are loaded at a transfer rack that is subject to control based on the criteria specified in Table 2 to this subpart, items 7 through 10, you must keep the applicable records in paragraphs (c)(1) and (2) of this section or alternatively the verification records in paragraph (c)(3) of this section.

* * * * *

(2) For transport vehicles without vapor collection equipment, current certification in accordance with the U.S. DOT qualification and maintenance requirements in 49 CFR part 180, subpart E for cargo tanks and subpart F for tank cars.

(3) In lieu of keeping the records specified in paragraph (c)(1) or (2) of this section, as applicable, the owner or operator shall record that the verification of U.S. DOT tank certification or Method 27 of 40 CFR part 60, appendix A-8 testing, required in Table 5 to this subpart, item 2, has been performed. Various methods for the record of verification can be used, such as: A check-off on a log sheet, a list of U.S. DOT serial numbers or Method 27 data, or a position description for gate security showing that the security guard will not allow any trucks on site that do not have the appropriate documentation.

(d) You must keep records of the total actual annual facility-level organic liquid loading volume as defined in § 63.2406 through transfer racks to document the applicability, or lack thereof, of the emission limitations in Table 2 to this subpart, items 7 through 10.

* * * * *

(f) Beginning no later than the compliance dates specified in § 63.2342(e), for each deviation from an emission limitation, operating limit, and work practice standard specified in paragraph (a) of this section, you must keep a record of the information specified in paragraph (f)(1) through (3) of this section.

(1) In the event that an affected unit fails to meet an applicable standard, record the number of failures. For each failure record the date, time and duration of each failure.

(2) For each failure to meet an applicable standard, record and retain a list of the affected sources or equipment, an estimate of the quantity of each regulated pollutant emitted over any emission limit and a description of the method used to estimate the emissions.

(3) Record actions taken to minimize emissions in accordance with § 63.2350(d) and any corrective actions taken to return the affected unit to its normal or usual manner of operation.

(g) Beginning no later than the compliance dates specified in § 63.2342(e), for each flow event from a bypass line subject to the requirements in § 63.2378(e)(1) and (2), you must maintain records sufficient to determine whether or not the detected flow included flow requiring control. For each flow event from a bypass line requiring control that is released either directly to the atmosphere or to a control device not meeting the requirements specified in § 63.2378(a), you must include an estimate of the volume of gas, the concentration of organic HAP in the gas and the resulting emissions of organic HAP that bypassed the control device using process knowledge and engineering estimates.

(h) Beginning no later than the compliance dates specified in § 63.2342(e), for each flare subject to the requirements in § 63.2380, you must keep records specified in paragraphs (h)(1) through (10) of this section in lieu of the information required in § 63.998(a)(1).

(1) Retain records of the output of the monitoring device used to detect the presence of a pilot flame or flare flame as required in § 63.670(b) for a minimum of 2 years. Retain records of each 15-minute block during which there was at least one minute that no pilot flame or flare flame is present when regulated material is routed to a flare for a minimum of 5 years. You may reduce the collected minute-by-minute data to a 15-minute block basis with an indication of whether there was at least one minute where no pilot flame or flare flame was present.

(2) Retain records of daily visible emissions observations or video surveillance images required in § 63.670(h) as specified in paragraphs (h)(2)(i) through (iv) of this section, as applicable, for a minimum of 3 years.

(i) To determine when visible emissions observations are required, the record must identify all periods when regulated material is vented to the flare.

(ii) If visible emissions observations are performed using Method 22 of 40 CFR part 60, appendix A-7, then the record must identify whether the visible emissions observation was performed, the results of each observation, total duration of observed visible emissions, and whether it was a 5-minute or 2-hour observation. Record the date and start and end time of each visible emissions observation.

(iii) If a video surveillance camera is used, then the record must include all video surveillance images recorded, with time and date stamps.

(iv) For each 2-hour period for which visible emissions are observed for more than 5 minutes in 2 consecutive hours, then the record must include the date and start and end time of the 2-hour period and an estimate of the cumulative number of minutes in the 2-hour period for which emissions were visible.

(3) The 15-minute block average cumulative flows for flare vent gas and, if applicable, total steam, perimeter assist air, and premix assist air specified to be monitored under § 63.670(i), along with the date and time interval for the 15-minute block. If multiple monitoring locations are used to determine cumulative vent gas flow, total steam, perimeter assist air, and premix assist air, then retain records of the 15-minute block average flows for each monitoring location for a minimum of 2 years, and retain the 15-minute block average cumulative flows that are used in subsequent calculations for a minimum of 5 years. If pressure and temperature monitoring is used, then retain records of the 15-minute block average temperature, pressure, and molecular weight of the flare vent gas or assist gas stream for each measurement location used to determine the 15-minute block average cumulative flows for a minimum of 2 years, and retain the 15-minute block average cumulative flows that are used in subsequent calculations for a minimum of 5 years.

(4) The flare vent gas compositions specified to be monitored under § 63.670(j). Retain records of individual component concentrations from each compositional analysis for a minimum of 2 years. If an NHVvg analyzer is used, retain records of the 15-minute block average values for a minimum of 5 years.

(5) Each 15-minute block average operating parameter calculated following the methods specified in § 63.670(k) through (n), as applicable.

(6) All periods during which operating values are outside of the applicable operating limits specified in § 63.670(d) through (f) when regulated material is being routed to the flare.

(7) All periods during which you do not perform flare monitoring according to the procedures in § 63.670(g).

(8) Records of periods when there is flow of vent gas to the flare, but when there is no flow of regulated material to the flare, including the start and stop time and dates of periods of no regulated material flow.

(9) The monitoring plan required in § 63.671(b).

(10) Records described in § 63.10(b)(2)(vi).

19. Section 63.2396 is amended by:

a. Revising paragraph (a)(3);

b. Adding paragraph (a)(4);

c. Revising paragraph (c)(1) and (2);

d. Adding paragraph (d); and

e. Revising paragraph (e)(2).

The revisions and additions read as follows:

§ 63.2396 What compliance options do I have if part of my plant is subject to both this subpart and another subpart?

(a) * * *

(3) Except as specified in paragraph (a)(4) of this section, as an alternative to paragraphs (a)(1) and (2) of this section, if a storage tank assigned to the OLD affected source is subject to control under 40 CFR part 60, subpart Kb, or 40 CFR part 61, subpart Y, you may elect to comply only with the requirements of this subpart for storage tanks meeting the applicability criteria for control in Table 2 to this subpart.

(4) Beginning no later than the compliance dates specified in § 63.2342(e), the applicability criteria for control specified in Table 2 to this subpart for storage tanks at an existing affected source no longer apply as specified in § 63.2346(a)(5). Instead, beginning no later than the compliance dates specified in § 63.2342(e), as an alternative to paragraphs (a)(1) and (2) of this section, if a storage tank assigned to an existing OLD affected source is subject to control under 40 CFR part 60, subpart Kb, or 40 CFR part 61, subpart Y, you may elect to comply only with the requirements of this subpart for storage tanks at an existing affected source meeting the applicability criteria for control in Table 2b to this subpart.

* * * * *

(c) * * *

(1) After the compliance dates specified in § 63.2342, if you have pumps, valves, or sampling connections that are subject to a 40 CFR part 60 subpart, and those pumps, valves, and sampling connections are in OLD operation and in organic liquids service, as defined in this subpart, you must comply with the provisions of each subpart for those equipment leak components.

(2) After the compliance dates specified in § 63.2342, if you have pumps, valves, or sampling connections subject to subpart GGG of this part, and those pumps, valves, and sampling connections are in OLD operation and in organic liquids service, as defined in this subpart, you may elect to comply with the provisions of this subpart for all such equipment leak components. You must identify in the Notification of Compliance Status required by § 63.2382(b) the provisions with which you will comply.

(d) Overlap of subpart EEEE with other regulations for flares for the OLD source category. (1) Beginning no later than the compliance dates specified in § 63.2342(e), flares that are subject to § 60.18 of this chapter or § 63.11 and used as a control device for an emission point subject to the requirements in Tables 2 or 2b to of this subpart are required to comply only with § 63.2380. At any time before the compliance dates specified in § 63.2342(e), flares that are subject to § 60.18 or § 63.11 and elect to comply with § 63.2380 are required to comply only with § 63.2380.

(2) Beginning no later than the compliance dates specified in § 63.2342(e), flares that are subject to § 63.987 and used as a control device for an emission point subject to the requirements in Tables 2 or 2b to this subpart are required to comply only with § 63.2380. At any time before the compliance dates specified in § 63.2342(e), flares that are subject to §§ 63.987 and elect to comply with § 63.2380 are required to comply only with § 63.2380.

(3) Beginning no later than the compliance dates specified in § 63.2342(e), flares that are subject to the requirements of subpart CC of this part and used as a control device for an emission point subject to the requirements in Tables 2 or 2b to this subpart are required to comply only with the flare requirements in subpart CC of this part.

(e) * * *

(2) Equipment leak components. After the compliance dates specified in § 63.2342, if you are applying the applicable recordkeeping and reporting requirements of another subpart of this part to the valves, pumps, and sampling connection systems associated with a transfer rack subject to this subpart that only unloads organic liquids directly to or via pipeline to a non-tank process unit component or to a storage tank subject to the other subpart of this part, the owner or operator must be in compliance with the recordkeeping and reporting requirements of this subpart EEEE. If complying with the recordkeeping and reporting requirements of the other subpart satisfies the recordkeeping and reporting requirements of this subpart, the owner or operator may elect to continue to comply with the recordkeeping and reporting requirements of the other subpart. In such instances, the owner or operator will be deemed to be in compliance with the recordkeeping and reporting requirements of this subpart. The owner or operator must identify the other subpart being complied with in the Notification of Compliance Status required by § 63.2382(d).

20. Section 63.2402 is amended by revising paragraph (b) introductory text and adding paragraph (b)(5) to read as follows:

§ 63.2402 Who implements and enforces this subpart?

* * * * *

(b) In delegating implementation and enforcement authority for this subpart to a State, local, or eligible tribal agency under subpart E of this part, the authorities contained in paragraphs (b)(1) through (5) of this section are retained by the EPA Administrator and are not delegated to the State, local, or eligible tribal agency.

* * * * *

(5) Approval of an alternative to any electronic reporting to the EPA required by this subpart.

21. Section 63.2406 is amended by:

a. Revising the definition of “Annual average true vapor pressure”;

b. Adding in alphabetical order a definition for “Condensate”;

c. Revising the definitions of “Deviation” and “Equipment leak component”;

d. Adding in alphabetical order a definition for “Force majeure event”;

e. Revising the definition of “Organic liquid”;

f. Adding definitions in alphabetical order for “Pressure relief device” and “Relief valve”; and

g. Revising the definition of “Vapor-tight transport vehicle”.

The revisions and additions read as follows:

§ 63.2406 What definitions apply to this subpart?

* * * * *

Annual average true vapor pressure means the equilibrium partial pressure exerted by the total organic HAP in Table 1 to this subpart in the stored or transferred organic liquid. For the purpose of determining if a liquid meets the definition of an organic liquid, the vapor pressure is determined using conditions of 77 degrees Fahrenheit and 29.92 inches of mercury. For the purpose of determining whether an organic liquid meets the applicability criteria in Table 2 to this subpart, items 1 through 6, or Table 2b to this subpart, items 1 through 3, use the actual annual average temperature as defined in this subpart. The vapor pressure value in either of these cases is determined:

(1) Using standard reference texts;

(2) By ASTM D6378-18a (incorporated by reference, see § 63.14) using a vapor to liquid ratio of 4:1; or

(3) Using any other method that the EPA approves.

* * * * *

Condensate means hydrocarbon liquid separated from natural gas that condenses due to changes in the temperature or pressure, or both, and remains liquid at standard conditions as specified in § 63.2. Only those condensates downstream of the first point of custody transfer after the production field are considered condensates in this subpart.

* * * * *

Deviation means any instance in which an affected source subject to this subpart, or portion thereof, or an owner or operator of such a source:

(1) Fails to meet any requirement or obligation established by this subpart including, but not limited to, any emission limitation (including any operating limit) or work practice standard;

(2) Fails to meet any term or condition that is adopted to implement an applicable requirement in this subpart, and that is included in the operating permit for any affected source required to obtain such a permit; or

(3) Before July 7, 2023, fails to meet any emission limitation (including any operating limit) or work practice standard in this subpart during SSM. On and after July 7, 2023, this paragraph no longer applies.

* * * * *

Equipment leak component means each pump, valve, and sampling connection system used in organic liquids service at an OLD operation. Valve types include control, globe, gate, plug, and ball. Relief and check valves are excluded.

Force majeure event means a release of HAP, either directly to the atmosphere from a safety device or discharged via a flare, that is demonstrated to the satisfaction of the Administrator to result from an event beyond the owner or operator's control, such as natural disasters; acts of war or terrorism; loss of a utility external to the OLD operation (e.g., external power curtailment), excluding power curtailment due to an interruptible service agreement; and fire or explosion originating at a near or adjoining facility outside of the OLD operation that impacts the OLD operation's ability to operate.

* * * * *

Organic liquid means:

(1) Any non-crude oil liquid, non-condensate liquid, or liquid mixture that contains 5 percent by weight or greater of the organic HAP listed in Table 1 to this subpart, as determined using the procedures specified in § 63.2354(c).

(2) Any crude oils or condensates downstream of the first point of custody transfer.

(3) Organic liquids for purposes of this subpart do not include the following liquids:

(i) Gasoline (including aviation gasoline), kerosene (No. 1 distillate oil), diesel (No. 2 distillate oil), asphalt, and heavier distillate oils and fuel oils;

(ii) Any fuel consumed or dispensed on the plant site directly to users (such as fuels for fleet refueling or for refueling marine vessels that support the operation of the plant);

(iii) Hazardous waste;

(iv) Wastewater;

(v) Ballast water; or

(vi) Any non-crude oil or non-condensate liquid with an annual average true vapor pressure less than 0.7 kilopascals (0.1 psia).

* * * * *

Pressure relief device means a valve, rupture disk, or similar device used only to release an unplanned, nonroutine discharge of gas from process equipment in order to avoid safety hazards or equipment damage. A pressure relief device discharge can result from an operator error, a malfunction such as a power failure or equipment failure, or other unexpected cause. Such devices include conventional, spring-actuated relief valves, balanced bellows relief valves, pilot-operated relief valves, rupture disks, and breaking, buckling, or shearing pin devices.

Relief valve means a type of pressure relief device that is designed to re-close after the pressure relief.

* * * * *

Vapor-tight transport vehicle means a transport vehicle that has been demonstrated to be vapor-tight. To be considered vapor-tight, a transport vehicle equipped with vapor collection equipment must undergo a pressure change of no more than 250 pascals (1 inch of water) within 5 minutes after it is pressurized to 4,500 pascals (18 inches of water). This capability must be demonstrated annually using the procedures specified in Method 27 of 40 CFR part 60, appendix A-8. For all other transport vehicles, vapor tightness is demonstrated by performing the U.S. DOT pressure test procedures for tank cars and cargo tanks.

* * * * *

22. Table 2 to subpart EEEE of Part 63 is revised to read as follows:

Table 2 to Subpart EEEE of Part 63—Emission Limits

If you own or operate . . . | And if . . . | Then you must . . .¹
1. A storage tank at an existing affected source with a capacity ≥18.9 cubic meters (5,000 gallons) and <189.3 cubic meters (50,000 gallons) ² | a. The stored organic liquid is not crude oil or condensate and if the annual average true vapor pressure of the total Table 1 organic HAP in the stored organic liquid is ≥27.6 kilopascals (4.0 psia) and <76.6 kilopascals (11.1 psia) | i. Reduce emissions of total organic HAP (or, upon approval, TOC) by at least 95 weight-percent or, as an option, to an exhaust concentration less than or equal to 20 ppmv, on a dry basis corrected to 3-percent oxygen for combustion devices using supplemental combustion air, by venting emissions through a closed vent system to any combination of control devices meeting the applicable requirements of subpart SS of this part and § 63.2346(l); OR
|  | ii. Comply with the work practice standards specified in Table 4 to this subpart, items 1.a, 1.b, or 1.c for tanks storing liquids described in that table.
| b. The stored organic liquid is crude oil or condensate | i. See the requirement in item 1.a.i or 1.a.ii of this table.
2. A storage tank at an existing affected source with a capacity ≥189.3 cubic meters (50,000 gallons) | a. The stored organic liquid is not crude oil or condensate and if the annual average true vapor pressure of the total Table 1 organic HAP in the stored organic liquid is <76.6 kilopascals (11.1 psia) | i. See the requirement in item 1.a.i or 1.a.ii of this table.
| b. The stored organic liquid is crude oil or condensate | i. See the requirement in item 1.a.i or 1.a.ii of this table.
3. A storage tank at a reconstructed or new affected source with a capacity ≥18.9 cubic meters (5,000 gallons) and <37.9 cubic meters (10,000 gallons) | a. The stored organic liquid is not crude oil or condensate and if the annual average true vapor pressure of the total Table 1 organic HAP in the stored organic liquid is ≥27.6 kilopascals (4.0 psia) and <76.6 kilopascals (11.1 psia) | i. See the requirement in item 1.a.i or 1.a.ii of this table.
| b. The stored organic liquid is crude oil or condensate | i. See the requirement in item 1.a.i or 1.a.ii of this table.
4. A storage tank at a reconstructed or new affected source with a capacity ≥37.9 cubic meters (10,000 gallons) and <189.3 cubic meters (50,000 gallons) | a. The stored organic liquid is not crude oil or condensate and if the annual average true vapor pressure of the total Table 1 organic HAP in the stored organic liquid is ≥0.7 kilopascals (0.1 psia) and <76.6 kilopascals (11.1 psia) | i. See the requirement in item 1.a.i or 1.a.ii of this table.
| b. The stored organic liquid is crude oil or condensate | i. See the requirement in item 1.a.i or 1.a.ii of this table.
5. A storage tank at a reconstructed or new affected source with a capacity ≥189.3 cubic meters (50,000 gallons) | a. The stored organic liquid is not crude oil or condensate and if the annual average true vapor pressure of the total Table 1 organic HAP in the stored organic liquid is <76.6 kilopascals (11.1 psia) | i. See the requirement in item 1.a.i or 1.a.ii of this table.
| b. The stored organic liquid is crude oil or condensate | i. See the requirement in item 1.a.i or 1.a.ii of this table.
6. A storage tank at an existing, reconstructed, or new affected source meeting the capacity criteria specified in Table 2 to this subpart, items 1 through 5 | a. The stored organic liquid is not crude oil or condensate and if the annual average true vapor pressure of the total Table 1 organic HAP in the stored organic liquid is ≥76.6 kilopascals (11.1 psia) | i. Reduce emissions of total organic HAP (or, upon approval, TOC) by at least 95 weight-percent or, as an option, to an exhaust concentration less than or equal to 20 ppmv, on a dry basis corrected to 3-percent oxygen for combustion devices using supplemental combustion air, by venting emissions through a closed vent system to any combination of control devices meeting the applicable requirements of subpart SS of this part and § 63.2346(l); OR
|  | ii. Comply with the work practice standards specified in Table 4 to this subpart, item 2.a or 2.b, for tanks storing the liquids described in that table.
7. A transfer rack at an existing facility where the total actual annual facility-level organic liquid loading volume through transfer racks is equal to or greater than 800,000 gallons and less than 10 million gallons | a. The total Table 1 organic HAP content of the organic liquid being loaded through one or more of the transfer rack's arms is at least 98 percent by weight and is being loaded into a transport vehicle | i. For all such loading arms at the rack, reduce emissions of total organic HAP (or, upon approval, TOC) from the loading of organic liquids either by venting the emissions that occur during loading through a closed vent system to any combination of control devices meeting the applicable requirements of subpart SS of this part and § 63.2346(l), achieving at least 98 weight-percent HAP reduction, OR, as an option, to an exhaust concentration less than or equal to 20 ppmv, on a dry basis corrected to 3-percent oxygen for combustion devices using supplemental combustion air; OR
|  | ii. During the loading of organic liquids, comply with the work practice standards specified in item 3 of Table 4 to this subpart.
8. A transfer rack at an existing facility where the total actual annual facility-level organic liquid loading volume through transfer racks is ≥10 million gallons | a. One or more of the transfer rack's arms is loading an organic liquid into a transport vehicle | i. See the requirements in items 7.a.i and 7.a.ii of this table.
9. A transfer rack at a new facility where the total actual annual facility-level organic liquid loading volume through transfer racks is less than 800,000 gallons | a. The total Table 1 organic HAP content of the organic liquid being loaded through one or more of the transfer rack's arms is at least 25 percent by weight and is being loaded into a transport vehicle | i. See the requirements in items 7.a.i and 7.a.ii of this table.
| b. One or more of the transfer rack's arms is filling a container with a capacity equal to or greater than 55 gallons | i. For all such loading arms at the rack during the loading of organic liquids, comply with the provisions of §§ 63.924 through 63.927; OR ii. During the loading of organic liquids, comply with the work practice standards specified in item 3.a of Table 4 to this subpart.
10. A transfer rack at a new facility where the total actual annual facility-level organic liquid loading volume through transfer racks is equal to or greater than 800,000 gallons | a. One or more of the transfer rack's arms is loading an organic liquid into a transport vehicle | i. See the requirements in items 7.a.i and 7.a.ii of this table.
| b. One or more of the transfer rack's arms is filling a container with a capacity equal to or greater than 55 gallons | i. For all such loading arms at the rack during the loading of organic liquids, comply with the provisions of §§ 63.924 through 63.927; OR
|  | ii. During the loading of organic liquids, comply with the work practice standards specified in item 3.a of Table 4 to this subpart.
¹ Beginning no later than the compliance dates specified in § 63.2342(e), for each storage tank and low throughput transfer rack, if you vent emissions through a closed vent system to a flare then you must comply with the requirements specified in § 63.2346(k).
² Beginning no later than the compliance dates specified in § 63.2342(e), the tank capacity criteria, liquid vapor pressure criteria, and emission limits specified for storage tanks at an existing affected source in Table 2 to this subpart, item 1 no longer apply. Instead, you must comply with the requirements as specified in § 63.2346(a)(5) and Table 2b to this subpart.

23. Subpart EEEE of Part 63 is amended by adding Table 2b to read as follows:

Table 2b to Subpart EEEE of Part 63—Emission Limits For Storage Tanks At Certain Existing Affected Sources

As stated in § 63.2346(a)(5), beginning no later than the compliance dates specified in § 63.2342(e), the requirements in this Table 2b to this subpart apply to storage tanks at an existing affected source in lieu of the requirements in Table 2 to this subpart, item 1 for storage tanks at an existing affected source.

If you own or operate . . . | And if . . . | Then you must . . .
1. A storage tank at an existing affected source with a capacity ≥18.9 cubic meters (5,000 gallons) and <75.7 cubic meters (20,000 gallons) | a. The stored organic liquid is not crude oil or condensate and if the annual average true vapor pressure of the total Table 1 organic HAP in the stored organic liquid is ≥27.6 kilopascals (4.0 psia) | i. Reduce emissions of total organic HAP (or, upon approval, TOC) by at least 95 weight-percent or, as an option, to an exhaust concentration less than or equal to 20 ppmv, on a dry basis corrected to 3- percent oxygen for combustion devices using supplemental combustion air, by venting emissions through a closed vent system to a flare meeting the requirements of §§ 63.983 and 63.2380, or by venting emissions through a closed vent system to any combination of nonflare control devices meeting the applicable requirements of subpart SS of this part and § 63.2346(l); OR.
|  | ii. Comply with the work practice standards specified in Table 4 to this subpart, items 1.a, 1.b, or 1.c for tanks storing liquids described in that table.
| b. The stored organic liquid is crude oil or condensate | i. See the requirement in item 1.a.i or ii of this table.
2. A storage tank at an existing affected source with a capacity ≥75.7 cubic meters (20,000 gallons) and <151.4 cubic meters (40,000 gallons) | a. The stored organic liquid is not crude oil or condensate and if the annual average true vapor pressure of the total Table 1 organic HAP in the stored organic liquid is ≥13.1 kilopascals (1.9 psia) | i. See the requirement in item 1.a.i or ii of this table.
| b. The stored organic liquid is crude oil or condensate | i. See the requirement in item 1.a.i or ii of this table.
3. A storage tank at an existing affected source with a capacity ≥151.4 cubic meters (40,000 gallons) and <189.3 cubic meters (50,000 gallons) | a. The stored organic liquid is not crude oil or condensate and if the annual average true vapor pressure of the total Table 1 organic HAP in the stored organic liquid is ≥5.2 kilopascals (0.75 psia) | i. See the requirement in item 1.a.i or ii of this table.
| b. The stored organic liquid is crude oil or condensate | i. See the requirement in item 1.a.i or ii of this table.

24. Table 3 to subpart EEEE of Part 63 is revised to read as follows:

Table 3 to Subpart EEEE of Part 63—Operating Limits—High Throughput Transfer Racks

As stated in § 63.2346(e), you must comply with the operating limits for existing, reconstructed, or new affected sources as follows:

For each existing, each reconstructed, and each new affected source using . . . | You must . . .
1. A thermal oxidizer to comply with an emission limit in Table 2 to this subpart | Maintain the daily average fire box or combustion zone temperature greater than or equal to the reference temperature established during the design evaluation or performance test that demonstrated compliance with the emission limit.
2. A catalytic oxidizer to comply with an emission limit in Table 2 to this subpart | a. Replace the existing catalyst bed before the age of the bed exceeds the maximum allowable age established during the design evaluation or performance test that demonstrated compliance with the emission limit; AND
| b. Maintain the daily average temperature at the inlet of the catalyst bed greater than or equal to the reference temperature established during the design evaluation or performance test that demonstrated compliance with the emission limit; AND
| c. Maintain the daily average temperature difference across the catalyst bed greater than or equal to the minimum temperature difference established during the design evaluation or performance test that demonstrated compliance with the emission limit.
3. An absorber to comply with an emission limit in Table 2 to this subpart | a. Maintain the daily average concentration level of organic compounds in the absorber exhaust less than or equal to the reference concentration established during the design evaluation or performance test that demonstrated compliance with the emission limit; OR
| b. Maintain the daily average scrubbing liquid temperature less than or equal to the reference temperature established during the design evaluation or performance test that demonstrated compliance with the emission limit; AND
| Maintain the difference between the specific gravities of the saturated and fresh scrubbing fluids greater than or equal to the difference established during the design evaluation or performance test that demonstrated compliance with the emission limit.
4. A condenser to comply with an emission limit in Table 2 to this subpart | a. Maintain the daily average concentration level of organic compounds at the condenser exit less than or equal to the reference concentration established during the design evaluation or performance test that demonstrated compliance with the emission limit; OR
| b. Maintain the daily average condenser exit temperature less than or equal to the reference temperature established during the design evaluation or performance test that demonstrated compliance with the emission limit.
5. An adsorption system with adsorbent regeneration to comply with an emission limit in Table 2 to this subpart | a. Maintain the daily average concentration level of organic compounds in the adsorber exhaust less than or equal to the reference concentration established during the design evaluation or performance test that demonstrated compliance with the emission limit; OR
| b. Maintain the total regeneration stream mass flow during the adsorption bed regeneration cycle greater than or equal to the reference stream mass flow established during the design evaluation or performance test that demonstrated compliance with the emission limit; AND
| Before the adsorption cycle commences, achieve and maintain the temperature of the adsorption bed after regeneration less than or equal to the reference temperature established during the design evaluation or performance test that demonstrated compliance with the emission limit; AND
| Achieve a pressure reduction during each adsorption bed regeneration cycle greater than or equal to the pressure reduction established during the design evaluation or performance test that demonstrated compliance with the emission limit.
6. An adsorption system without adsorbent regeneration to comply with an emission limit in Table 2 to this subpart | a. Maintain the daily average concentration level of organic compounds in the adsorber exhaust less than or equal to the reference concentration established during the design evaluation or performance test that demonstrated compliance with the emission limit; OR
| b. Replace the existing adsorbent in each segment of the bed with an adsorbent that meets the replacement specifications established during the design evaluation or performance test before the age of the adsorbent exceeds the maximum allowable age established during the design evaluation or performance test that demonstrated compliance with the emission limit; AND
| Maintain the temperature of the adsorption bed less than or equal to the reference temperature established during the design evaluation or performance test that demonstrated compliance with the emission limit.
7. A flare to comply with an emission limit in Table 2 to this subpart | a. Except as specified in item 7.d of this table, comply with the equipment and operating requirements in § 63.987(a); AND b. Except as specified in item 7.d of this table, conduct an initial flare compliance assessment in accordance with § 63.987(b); AND
| c. Except as specified in item 7.d of this table, install and operate monitoring equipment as specified in § 63.987(c).
| d. Beginning no later than the compliance dates specified in § 63.2342(e), comply with the requirements in § 63.2380 instead of the requirements in § 63.987 and the provisions regarding flare compliance assessments at § 63.997(a), (b), and (c).
8. Another type of control device to comply with an emission limit in Table 2 to this subpart | Submit a monitoring plan as specified in §§ 63.995(c) and 63.2366(b), and monitor the control device in accordance with that plan.

25. Table 4 to subpart EEEE of Part 63 is revised to read as follows:

Table 4 to Subpart EEEE of Part 63—Work Practice Standards

As stated in § 63.2346, you may elect to comply with one of the work practice standards for existing, reconstructed, or new affected sources in the following table. If you elect to do so, . . .

For each . . . | You must . . .
1. Storage tank at an existing, reconstructed, or new affected source meeting any set of tank capacity and organic HAP vapor pressure criteria specified in Table 2 to this subpart, items 1 through 5 or Table 2b to this subpart, items 1 through 3 | a. Comply with the requirements of 40 CFR part 63, subpart WW (control level 2), if you elect to meet 40 CFR part 63, subpart WW (control level 2) requirements as an alternative to the emission limit in Table 2 to this subpart, items 1 through 5 or the emission limit in Table 2b to this subpart, items 1 through 3; OR.
| b. Comply with the requirements in §§ 63.2346(l) and 63.984 for routing emissions to a fuel gas system or back to a process; OR.
| c. Comply with the requirements of § 63.2346(a)(4) for vapor balancing emissions to the transport vehicle from which the storage tank is filled.
2. Storage tank at an existing, reconstructed, or new affected source meeting any set of tank capacity and organic HAP vapor pressure criteria specified in Table 2 to this subpart, item 6 | a. Comply with the requirements in §§ 63.2346(l) and 63.984 for routing emissions to a fuel gas system or back to a process; OR b. Comply with the requirements of § 63.2346(a)(4) for vapor balancing emissions to the transport vehicle from which the storage tank is filled.
3. Transfer rack subject to control based on the criteria specified in Table 2 to this subpart, items 7 through 10, at an existing, reconstructed, or new affected source | a. If the option of a vapor balancing system is selected, install and, during the loading of organic liquids, operate a system that meets the requirements in Table 7 to this subpart, item 3.b.i and item 3.b.ii, as applicable; OR
| b. Comply with the requirements in §§ 63.2346(l) and 63.984 during the loading of organic liquids, for routing emissions to a fuel gas system or back to a process.
4. Pump, valve, and sampling connection that operates in organic liquids service at least 300 hours per year at an existing, reconstructed, or new affected source | Comply with § 63.2346(l) and the requirements for pumps, valves, and sampling connections in 40 CFR part 63, subpart TT (control level 1), subpart UU (control level 2), or subpart H.
5. Transport vehicles equipped with vapor collection equipment that are loaded at transfer racks that are subject to control based on the criteria specified in Table 2 to this subpart, items 7 through 10 | Follow the steps in 40 CFR 60.502(e) to ensure that organic liquids are loaded only into vapor-tight transport vehicles, and comply with the provisions in 40 CFR 60.502(f), (g), (h), and (i), except substitute the term transport vehicle at each occurrence of tank truck or gasoline tank truck in those paragraphs.
6. Transport vehicles equipped without vapor collection equipment that are loaded at transfer racks that are subject to control based on the criteria specified in Table 2 to this subpart, items 7 through 10 | Ensure that organic liquids are loaded only into transport vehicles that have a current certification in accordance with the U.S. DOT qualification and maintenance requirements in 49 CFR part 180, subpart E for cargo tanks and subpart F for tank cars.

26. Table 5 to subpart EEEE of Part 63 is revised to read as follows:

Table 5 to Subpart EEEE of Part 63—Requirements for Performance Tests and Design Evaluations

As stated in §§ 63.2354(a) and 63.2362, you must comply with the requirements for performance tests and design evaluations for existing, reconstructed, or new affected sources as follows:

For . . . | You must conduct . . . | According to . . . | Using . . . | To determine . . . | According to the following requirements . . .
1. Each existing, each reconstructed, and each new affected source using a nonflare control device to comply with an emission limit in Table 2 to this subpart, items 1 through 10, and each existing affected source using a nonflare control device to comply with an emission limit in Table 2b to this subpart, items 1 through 3 | a. A performance test to determine the organic HAP (or, upon a pproval, TOC) control efficiency of each nonflare control device, OR the exhaust concentration of each combustion device; OR | i. § 63.985(b)(1)(ii), § 63.988(b), § 63.990(b), or § 63.995(b) | (1) Method 1 or 1A in appendix A-1 of 40 CFR part 60, as appropriate | (A) Sampling port locations and the required number of traverse points | (i) Sampling sites must be located at the inlet and outlet of each control device if complying with the control efficiency requirement or at the outlet of the control device if complying with the exhaust concentration requirement; AND (ii) the outlet sampling site must be located at each control device prior to any releases to the atmosphere.
|  |  | (2) Method 2, 2A, 2C, 2D, or 2F in appendix A-1 of 40 CFR part 60, or Method 2G in appendix A-2 of 40 CFR part 60, as appropriate | (A) Stack gas velocity and volumetric flow rate | See the requirements in items 1.a.i.(1)(A)(i) and (ii) of this table.
|  |  | (3) Method 3A or 3B in appendix A-2 of 40 CFR part 60, as appropriate ¹ | (A) Concentration of CO2 and O2 and dry molecular weight of the stack gas | See the requirements in items 1.a.i.(1)(A)(i) and (ii) of this table.
|  |  | (4) Method 4 in appendix A-3 of 40 CFR part 60 | (A) Moisture content of the stack gas | See the requirements in items 1.a.i.(1)(A)(i) and (ii) of this table.
|  |  | (5) Method 25 or 25A in appendix A-7 of 40 CFR part 60, as appropriate. Method 316, Method 320 ⁴, or Method 323 in appendix A of this part if you must measure formaldehyde. You may not use Methods 320 2 4 or 323 for formaldehyde if the gas stream contains entrained water droplets | (A) TOC and formaldehyde emissions, from any control device | (i) The organic HAP used for the calibration gas for Method 25A in appendix A-7 of 40 CFR part 60 must be the single organic HAP representing the largest percent by volume of emissions; AND (ii) During the performance test, you must establish the operating parameter limits within which TOC emissions are reduced by the required weight-percent or, as an option for nonflare combustion devices, to 20-ppmv exhaust concentration.
|  |  | (6) Method 18 ³ in appendix A-6 of 40 CFR part 60 or Method 320 2 4 of appendix A to this part, as appropriate. Method 316, Method 320 2 4, or Method 323 in appendix A of this part for measuring formaldehyde. You may not use Methods 320 or 323 if the gas stream contains entrained water droplets | (A) Total organic HAP and formaldehyde emissions, from non-combustion control devices | (i) During the performance test, you must establish the operating parameter limits within which total organic HAP emissions are reduced by the required weight-percent.
| b. A design evaluation (for nonflare control devices) to determine the organic HAP (or, upon approval, TOC) control efficiency of each nonflare control device, or the exhaust concentration of each combustion control device | § 63.985(b)(1)(i) |  |  | During a design evaluation, you must establish the operating parameter limits within which total organic HAP, (or, upon approval, TOC) emissions are reduced by at least 95 weight-percent for storage tanks or 98 weight-percent for transfer racks, or, as an option for nonflare combustion devices, to 20-ppmv exhaust concentration.
2. Each transport vehicle that you own that is equipped with vapor collection equipment and is loaded with organic liquids at a transfer rack that is subject to control based on the criteria specified in Table 2 to this subpart, items 7 through 10, at an existing, reconstructed, or new affected source | A performance test to determine the vapor tightness of the tank and then repair as needed until it passes the test |  | Method 27 of appendix A of 40 CFR part 60 | Vapor tightness | The pressure change in the tank must be no more than 250 pascals (1 inch of water) in 5 minutes after it is pressurized to 4,500 pascals (18 inches of water).
¹ The manual method in American Society of Mechanical Engineers (ASME) PTC 19.10-1981-Part 10 (2010) (incorporated by reference, see § 63.14) may be used instead of Method 3B in appendix A-2 of 40 CFR part 60 to determine oxygen concentration.
² All compounds quantified by Method 320 of appendix A to this part must be validated according to Section 13.0 of Method 320.
³ ASTM D6420-18 (incorporated by reference, see § 63.14) may be used instead of Method 18 of 40 CFR part 60, appendix A-6 to determine total HAP emissions, but if you use ASTM D6420-18, you must use it under the conditions specified in § 63.2354(b)(3)(ii).
⁴ ASTM D6348-12e1 (incorporated by reference, see § 63.14) may be used instead of Method 320 of appendix A to this part under the following conditions: the test plan preparation and implementation in the Annexes to ASTM D6348-12e1, Sections A1 through A8 are mandatory; the percent (%) R must be determined for each target analyte (Equation A5.5); %R must be 70% ≥ R ≤ 130%; if the %R value does not meet this criterion for a target compound, then the test data is not acceptable for that compound and the test must be repeated for that analyte (i.e., the sampling and/or analytical procedure should be adjusted before a retest); and the %R value for each compound must be reported in the test report and all field measurements must be corrected with the calculated %R value for that compound by using the following equation: Reported Results = ((Measured Concentration in Stack))/(%R) × 100.

27. Table 6 to subpart EEEE of Part 63 is amended by revising the rows for items 1 and 2 to read as follows:

Table 6 to Subpart EEEE of Part 63—Initial Compliance With Emission Limits

As stated in §§ 63.2370(a) and 63.2382(b), you must show initial compliance with the emission limits for existing, reconstructed, or new affected sources as follows:

For each . . . | For the following emission limit . . . | You have demonstrated initial compliance if . . .
1. Storage tank at an existing, reconstructed, or new affected source meeting any set of tank capacity and liquid organic HAP vapor pressure criteria specified in Table 2 to this subpart, items 1 through 6, or Table 2b to this subpart, items 1 through 3 | Reduce total organic HAP (or, upon approval, TOC) emissions by at least 95 weight-percent, or as an option for nonflare combustion devices to an exhaust concentration of ≤20 ppmv | Total organic HAP (or, upon approval, TOC) emissions, based on the results of the performance testing or design evaluation specified in Table 5 to this subpart, item 1.a or 1.b, respectively, are reduced by at least 95 weight-percent or as an option for nonflare combustion devices to an exhaust concentration ≤20 ppmv.
2. Transfer rack that is subject to control based on the criteria specified in Table 2 to this subpart, items 7 through 10, at an existing, reconstructed, or new affected source | Reduce total organic HAP (or, upon approval, TOC) emissions from the loading of organic liquids by at least 98 weight-percent, or as an option for nonflare combustion devices to an exhaust concentration of ≤20 ppmv | Total organic HAP (or, upon approval, TOC) emissions from the loading of organic liquids, based on the results of the performance testing or design evaluation specified in Table 5 to this subpart, item 1.a or 1.b, respectively, are reduced by at least 98 weight-percent or as an option for nonflare combustion devices to an exhaust concentration of ≤20 ppmv.

28. Table 7 to subpart EEEE of Part 63 is amended by revising the rows for items 1, 3, and 4 to read as follows:

Table 7 to Subpart EEEE of Part 63—Initial Compliance With Work Practice Standards
For each . . . | If you . . . | You have demonstrated initial compliance if . . .
1. Storage tank at an existing affected source meeting either set of tank capacity and liquid organic HAP vapor pressure criteria specified in Table 2 to this subpart, items 1 or 2, or Table 2b to this subpart, items 1 through 3 | a. Install a floating roof or equivalent control that meets the requirements in Table 4 to this subpart, item 1.a | i. After emptying and degassing, you visually inspect each internal floating roof before the refilling of the storage tank and perform seal gap inspections of the primary and secondary rim seals of each external floating roof within 90 days after the refilling of the storage tank.
| b. Route emissions to a fuel gas system or back to a process | i. You meet the requirements in § 63.984(b) and submit the statement of connection required by § 63.984(c).
| c. Install and, during the filling of the storage tank with organic liquids, operate a vapor balancing system | i. You meet the requirements in § 63.2346(a)(4).
2. Storage tank at a reconstructed or new affected source meeting any set of tank capacity and liquid organic HAP vapor pressure criteria specified in Table 2 to this subpart, items 3 through 5 | a. Install a floating roof or equivalent control that meets the requirements in Table 4 to this subpart, item 1.a | i. You visually inspect each internal floating roof before the initial filling of the storage tank and perform seal gap inspections of the primary and secondary rim seals of each external floating roof within 90 days after the initial filling of the storage tank.
| b. Route emissions to a fuel gas system or back to a process | i. See item 1.b.i of this table.
| c. Install and, during the filling of the storage tank with organic liquids, operate a vapor balancing system | i. See item 1.c.i of this table.
3. Transfer rack that is subject to control based on the criteria specified in Table 2 to this subpart, items 7 through 10, at an existing, reconstructed, or new affected source | a. Load organic liquids only into transport vehicles having current vapor tightness certification as described in Table 4 to this subpart, item 5 and item 6 | i. You comply with the provisions specified in Table 4 to this subpart, item 5 or item 6, as applicable.
| b. Install and, during the loading of organic liquids, operate a vapor balancing system | i. You design and operate the vapor balancing system to route organic HAP vapors displaced from loading of organic liquids into transport vehicles to the storage tank from which the liquid being loaded originated or to another storage tank connected to a common header. ii. You design and operate the vapor balancing system to route organic HAP vapors displaced from loading of organic liquids into containers directly (e.g., no intervening tank or containment area such as a room) to the storage tank from which the liquid being loaded originated or to another storage tank connected to a common header.
| c. Route emissions to a fuel gas system or back to a process | i. See item 1.b.i of this table.
4. Equipment leak component, as defined in § 63.2406, that operates in organic liquids service ≥300 hours per year at an existing, reconstructed, or new affected source | a. Carry out a leak detection and repair program or equivalent control according to one of the subparts listed in Table 4 to this subpart, item 4 | i. You specify which one of the control programs listed in Table 4 to this subpart you have selected, OR ii. Provide written specifications for your equivalent control approach.

29. Table 8 to subpart EEEE of Part 63 is revised to read as follows:

Table 8 to Subpart EEEE of Part 63—Continuous Compliance With Emission Limits

As stated in §§ 63.2378(a) and (b) and 63.2390(b), you must show continuous compliance with the emission limits for existing, reconstructed, or new affected sources according to the following table:

For each . . . | For the following emission limit . . . | You must demonstrate continuous compliance by . . .
1. Storage tank at an existing, reconstructed, or new affected source meeting any set of tank capacity and liquid organic HAP vapor pressure criteria specified in Table 2 to this subpart, items 1 through 6 or Table 2b to this subpart, items 1 through 3 | a. Reduce total organic HAP (or, upon approval, TOC) emissions from the closed vent system and control device by 95 weight-percent or greater, or as an option to 20 ppmv or less of total organic HAP (or, upon approval, TOC) in the exhaust of combustion devices | i. Performing CMS monitoring and collecting data according to §§ 63.2366, 63.2374, and 63.2378, except as specified in item 1.a.iii of this table; AND ii. Maintaining the operating limits established during the design evaluation or performance test that demonstrated compliance with the emission limit. iii. Beginning no later than the compliance dates specified in § 63.2342(e), if you use a flare, you must demonstrate continuous compliance by performing CMS monitoring and collecting data according to requirements in § 63.2380.
2. Transfer rack that is subject to control based on the criteria specified in Table 2 to this subpart, items 7 through 10, at an existing, reconstructed, or new affected source | a. Reduce total organic HAP (or, upon approval, TOC) emissions during the loading of organic liquids from the closed vent system and control device by 98 weight-percent or greater, or as an option to 20 ppmv or less of total organic HAP (or, upon approval, TOC) in the exhaust of combustion devices | i. Performing CMS monitoring and collecting data according to §§ 63.2366, 63.2374, and 63.2378 during the loading of organic liquids, except as specified in item 2.a.iii of this table; AND ii. Maintaining the operating limits established during the design evaluation or performance test that demonstrated compliance with the emission limit during the loading of organic liquids. iii. Beginning no later than the compliance dates specified in § 63.2342(e), if you use a flare, you must demonstrate continuous compliance by performing CMS monitoring and collecting data according to requirements in § 63.2380.

30. Table 9 to subpart EEEE of Part 63 is revised to read as follows:

Table 9 to Subpart EEEE of Part 63—Continuous Compliance With Operating Limits—High Throughput Transfer Racks

As stated in §§ 63.2378(a) and (b) and 63.2390(b), you must show continuous compliance with the operating limits for existing, reconstructed, or new affected sources according to the following table:

For each existing, reconstructed, and each new affected source using . . . | For the following operating limit . . . | You must demonstrate continuous compliance by . . .
1. A thermal oxidizer to comply with an emission limit in Table 2 to this subpart | a. Maintain the daily average fire box or combustion zone, as applicable, temperature greater than or equal to the reference temperature established during the design evaluation or performance test that demonstrated compliance with the emission limit | i. Continuously monitoring and recording fire box or combustion zone, as applicable, temperature every 15 minutes and maintaining the daily average fire box temperature greater than or equal to the reference temperature established during the design evaluation or performance test that demonstrated compliance with the emission limit; AND ii. Keeping the applicable records required in § 63.998.¹
2. A catalytic oxidizer to comply with an emission limit in Table 2 to this subpart | a. Replace the existing catalyst bed before the age of the bed exceeds the maximum allowable age established during the design evaluation or performance test that demonstrated compliance with the emission limit; AND | i. Replacing the existing catalyst bed before the age of the bed exceeds the maximum allowable age established during the design evaluation or performance test that demonstrated compliance with the emission limit; AND ii. Keeping the applicable records required in § 63.998.¹
| b. Maintain the daily average temperature at the inlet of the catalyst bed greater than or equal to the reference temperature established during the design evaluation or performance test that demonstrated compliance with the emission limit; AND | i. Continuously monitoring and recording the temperature at the inlet of the catalyst bed at least every 15 minutes and maintaining the daily average temperature at the inlet of the catalyst bed greater than or equal to the reference temperature established during the design evaluation or performance test that demonstrated compliance with the emission limit; AND ii. Keeping the applicable records required in § 63.998.¹
| c. Maintain the daily average temperature difference across the catalyst bed greater than or equal to the minimum temperature difference established during the design evaluation or performance test that demonstrated compliance with the emission limit | i. Continuously monitoring and recording the temperature at the outlet of the catalyst bed every 15 minutes and maintaining the daily average temperature difference across the catalyst bed greater than or equal to the minimum temperature difference established during the design evaluation or performance test that demonstrated compliance with the emission limit; AND ii. Keeping the applicable records required in § 63.998.¹
3. An absorber to comply with an emission limit in Table 2 to this subpart | a. Maintain the daily average concentration level of organic compounds in the absorber exhaust less than or equal to the reference concentration established during the design evaluation or performance test that demonstrated compliance with the emission limit; OR | i. Continuously monitoring the organic concentration in the absorber exhaust and maintaining the daily average concentration less than or equal to the reference concentration established during the design evaluation or performance test that demonstrated compliance with the emission limit; AND ii. Keeping the applicable records required in § 63.998.¹
| b. Maintain the daily average scrubbing liquid temperature less than or equal to the reference temperature established during the design evaluation or performance test that demonstrated compliance with the emission limit; AND Maintain the difference between the specific gravities of the saturated and fresh scrubbing fluids greater than or equal to the difference established during the design evaluation or performance test that demonstrated compliance with the emission limit | i. Continuously monitoring the scrubbing liquid temperature and maintaining the daily average temperature less than or equal to the reference temperature established during the design evaluation or performance test that demonstrated compliance with the emission limit; AND ii. Maintaining the difference between the specific gravities greater than or equal to the difference established during the design evaluation or performance test that demonstrated compliance with the emission limit; AND iii. Keeping the applicable records required in § 63.998.¹
4. A condenser to comply with an emission limit in Table 2 to this subpart | a. Maintain the daily average concentration level of organic compounds at the exit of the condenser less than or equal to the reference concentration established during the design evaluation or performance test that demonstrated compliance with the emission limit; OR | i. Continuously monitoring the organic concentration at the condenser exit and maintaining the daily average concentration less than or equal to the reference concentration established during the design evaluation or performance test that demonstrated compliance with the emission limit; AND ii. Keeping the applicable records required in § 63.998.¹
| b. Maintain the daily average condenser exit temperature less than or equal to the reference temperature established during the design evaluation or performance test that demonstrated compliance with the emission limit | i. Continuously monitoring and recording the temperature at the exit of the condenser at least every 15 minutes and maintaining the daily average temperature less than or equal to the reference temperature established during the design evaluation or performance test that demonstrated compliance with the emission limit; AND ii. Keeping the applicable records required in § 63.998.¹
5. An adsorption system with adsorbent regeneration to comply with an emission limit in Table 2 to this subpart | a. Maintain the daily average concentration level of organic compounds in the adsorber exhaust less than or equal to the reference concentration established during the design evaluation or performance test that demonstrated compliance with the emission limit; OR | i. Continuously monitoring the daily average organic concentration in the adsorber exhaust and maintaining the concentration less than or equal to the reference concentration established during the design evaluation or performance test that demonstrated compliance with the emission limit; AND ii. Keeping the applicable records required in § 63.998.¹
| b. Maintain the total regeneration stream mass flow during the adsorption bed regeneration cycle greater than or equal to the reference stream mass flow established during the design evaluation or performance test that demonstrated compliance with the emission limit; AND Before the adsorption cycle commences, achieve and maintain the temperature of the adsorption bed after regeneration less than or equal to the reference temperature established during the design evaluation or performance test; AND Achieve greater than or equal to the pressure reduction during the adsorption bed regeneration cycle established during the design evaluation or performance test that demonstrated compliance with the emission limit | i. Maintaining the total regeneration stream mass flow during the adsorption bed regeneration cycle greater than or equal to the reference stream mass flow established during the design evaluation or performance test that demonstrated compliance with the emission limit; AND ii. Maintaining the temperature of the adsorption bed after regeneration less than or equal to the reference temperature established during the design evaluation or performance test that demonstrated compliance with the emission limit; AND iii. Achieving greater than or equal to the pressure reduction during the regeneration cycle established during the design evaluation or performance test that demonstrated compliance with the emission limit; AND iv. Keeping the applicable records required in § 63.998.¹
6. An adsorption system without adsorbent regeneration to comply with an emission limit in Table 2 to this subpart | a. Maintain the daily average concentration level of organic compounds in the adsorber exhaust less than or equal to the reference concentration established during the design evaluation or performance test that demonstrated compliance with the emission limit; OR | i. Continuously monitoring the organic concentration in the adsorber exhaust and maintaining the concentration less than or equal to the reference concentration established during the design evaluation or performance test that demonstrated compliance with the emission limit; AND ii. Keeping the applicable records required in § 63.998.¹
| b. Replace the existing adsorbent in each segment of the bed before the age of the adsorbent exceeds the maximum allowable age established during the design evaluation or performance test that demonstrated compliance with the emission limit; AND Maintain the temperature of the adsorption bed less than or equal to the reference temperature established during the design evaluation or performance test that demonstrated compliance with the emission limit | i. Replacing the existing adsorbent in each segment of the bed with an adsorbent that meets the replacement specifications established during the design evaluation or performance test before the age of the adsorbent exceeds the maximum allowable age established during the design evaluation or performance test that demonstrated compliance with the emission limit; AND ii. Maintaining the temperature of the adsorption bed less than or equal to the reference temperature established during the design evaluation or performance test that demonstrated compliance with the emission limit; AND iii. Keeping the applicable records required in § 63.998.¹
7. A flare to comply with an emission limit in Table 2 to this subpart | a. Except as specified in item 7.e of this table, maintain a pilot flame or flare flame in the flare at all times that vapors may be vented to the flare (§ 63.11(b)(5)); AND | i. Continuously operating a device that detects the presence of the pilot flame or flare flame; AND ii. Keeping the applicable records required in § 63.998.¹
| b. Except as specified in item 7.e of this table, maintain a flare flame at all times that vapors are being vented to the flare (§ 63.11(b)(5)); AND | i. Maintaining a flare flame at all times that vapors are being vented to the flare; AND ii. Keeping the applicable records required in § 63.998.¹
| c. Except as specified in item 7.e of this table, operate the flare with no visible emissions, except for up to 5 minutes in any 2 consecutive hours (§ 63.11(b)(4)); AND EITHER | i. Operating the flare with no visible emissions exceeding the amount allowed; AND ii. Keeping the applicable records required in § 63.998.¹
| d.1. Except as specified in item 7.e of this table, operate the flare with an exit velocity that is within the applicable limits in § 63.11(b)(7) and (8) and with a net heating value of the gas being combusted greater than the applicable minimum value in § 63.11(b)(6)(ii); OR | i. Operating the flare within the applicable exit velocity limits; AND ii. Operating the flare with the gas heating value greater than the applicable minimum value; AND iii. Keeping the applicable records required in § 63.998.¹
| d.2. Except as specified in item 7.e of this table, adhere to the requirements in § 63.11(b)(6)(i) | i. Operating the flare within the applicable limits in 63.11(b)(6)(i); AND ii. Keeping the applicable records required in § 63.998.¹
| e. Beginning no later than the compliance dates specified in § 63.2342(e), comply with the requirements in § 63.2380 instead of the requirements in § 63.11(b) | i. Operating the flare with the applicable limits in § 63.2380; AND ii. Keeping the applicable records required in § 63.2390(h).
8. Another type of control device to comply with an emission limit in Table 2 to this subpart | Submit a monitoring plan as specified in §§ 63.995(c) and 63.2366(b) and monitor the control device in accordance with that plan | Submitting a monitoring plan and monitoring the control device according to that plan.
¹ Beginning no later than the compliance dates specified in § 63.2342(e), the referenced provisions specified in § 63.2346(l) do not apply.

31. Table 10 to subpart EEEE of Part 63 is revised to read as follows:

Table 10 to Subpart EEEE of Part 63—Continuous Compliance With Work Practice Standards

As stated in §§ 63.2378(a) and (b) and 63.2386(c)(6), you must show continuous compliance with the work practice standards for existing, reconstructed, or new affected sources according to the following table:

For each . . . | For the following standard . . . | You must demonstrate continuous compliance by . . .
1. Internal floating roof (IFR) storage tank at an existing, reconstructed, or new affected source meeting any set of tank capacity, and vapor pressure criteria specified in Table 2 to this subpart, items 1 through 5, or Table 2b to this subpart, items 1 through 3 | a. Install a floating roof designed and operated according to the applicable specifications in § 63.1063(a) and (b) | i. Visually inspecting the floating roof deck, deck fittings, and rim seals of each IFR once per year (§ 63.1063(d)(2)); AND ii. Visually inspecting the floating roof deck, deck fittings, and rim seals of each IFR either each time the storage tank is completely emptied and degassed or every 10 years, whichever occurs first (§ 63.1063(c)(1), (d)(1), and (e)); AND iii. Keeping the tank records required in § 63.1065.
2. External floating roof (EFR) storage tank at an existing, reconstructed, or new affected source meeting any set of tank capacity and vapor pressure criteria specified in Table 2 to this subpart, items 1 through 5, or Table 2b to this subpart, items 1 through 3 | a. Install a floating roof designed and operated according to the applicable specifications in § 63.1063(a) and (b) | i. Visually inspecting the floating roof deck, deck fittings, and rim seals of each EFR either each time the storage tank is completely emptied and degassed or every 10 years, whichever occurs first (§ 63.1063(c)(2), (d), and (e)); AND ii. Performing seal gap measurements on the secondary seal of each EFR at least once every year, and on the primary seal of each EFR at least every 5 years (§ 63.1063(c)(2), (d), and (e)); AND iii. Keeping the tank records required in § 63.1065.
3. IFR or EFR tank at an existing, reconstructed, or new affected source meeting any set of tank capacity and vapor pressure criteria specified in Table 2 to this subpart, items 1 through 5, or Table 2b to this subpart, items 1 through 3 | a. Repair the conditions causing storage tank inspection failures (§ 63.1063(e)) | i. Repairing conditions causing inspection failures: Before refilling the storage tank with organic liquid, or within 45 days (or up to 105 days with extensions) for a tank containing organic liquid; AND ii. Keeping the tank records required in § 63.1065(b).
4. Transfer rack that is subject to control based on the criteria specified in Table 2 to this subpart, items 7 through 10, at an existing, reconstructed, or new affected source | a. Ensure that organic liquids are loaded into transport vehicles in accordance with the requirements in Table 4 to this subpart, items 5 or 6, as applicable | i. Ensuring that organic liquids are loaded into transport vehicles in accordance with the requirements in Table 4 to this subpart, items 5 or 6, as applicable.
| b. Install and, during the loading of organic liquids, operate a vapor balancing system | i. Monitoring each potential source of vapor leakage in the system quarterly during the loading of a transport vehicle or the filling of a container using the methods and procedures described in the rule requirements selected for the work practice standard for equipment leak components as specified in Table 4 to this subpart, item 4. An instrument reading of 500 ppmv defines a leak. Repair of leaks is performed according to the repair requirements specified in your selected equipment leak standards
| c. Route emissions to a fuel gas system or back to a process | i. Continuing to meet the requirements specified in § 63.984(b)
5. Equipment leak component, as defined in § 63.2406, that operates in organic liquids service at least 300 hours per year | a. Comply with § 63.2346(l) and the requirements of 40 CFR part 63, subpart TT, UU, or H | i. Carrying out a leak detection and repair program in accordance with the subpart selected from the list in item 5.a of this table
6. Storage tank at an existing, reconstructed, or new affected source meeting any of the tank capacity and vapor pressure criteria specified in Table 2 to this subpart, items 1 through 6, or Table 2b to this subpart, items 1 through 3 | a. Route emissions to a fuel gas system or back to the process | i. Continuing to meet the requirements specified in § 63.984(b)
| b. Install and, during the filling of the storage tank with organic liquids, operate a vapor balancing system | i. Except for pressure relief devices, monitoring each potential source of vapor leakage in the system, including, but not limited to pumps, valves, and sampling connections, quarterly during the loading of a storage tank using the methods and procedures described in the rule requirements selected for the work practice standard for equipment leak components as specified in Table 4 to this subpart, item 4. An instrument reading of 500 ppmv defines a leak. Repair of leaks is performed according to the repair requirements specified in your selected equipment leak standards. For pressure relief devices, comply with § 63.2346(a)(4)(v). If no loading of a storage tank occurs during a quarter, then monitoring of the vapor balancing system is not required

32. Table 11 to subpart EEEE of Part 63 is revised to read as follows:

Table 11 to Subpart EEEE of Part 63—Requirements for Reports

As stated in § 63.2386(a), (b), and (f), you must submit compliance reports and startup, shutdown, and malfunction reports according to the following table:

You must submit a(n) . . . | The report must contain . . . | You must submit the report . . .
1. Compliance report or Periodic Report | a. The information specified in § 63.2386(c), (d), (e). If you had a SSM during the reporting period and you took actions consistent with your SSM plan, the report must also include the information in § 63.10(d)(5)(i) except as specified in item 1.e of this table; AND | Semiannually, and it must be postmarked or electronically submitted by January 31 or July 31, in accordance with § 63.2386(b).
| b. The information required by 40 CFR part 63, subpart TT, UU, or H, as applicable, for pumps, valves, and sampling connections; AND | See the submission requirement in item 1.a of this table.
| c. The information required by § 63.999(c); AND | See the submission requirement in item 1.a of this table.
| d. The information specified in § 63.1066(b) including: Notification of inspection, inspection results, requests for alternate devices, and requests for extensions, as applicable | See the submission requirement in item 1.a of this table.
| e. Beginning no later than the compliance dates specified in § 63.2342(e), the requirement to include the information in § 63.10(d)(5)(i) no longer applies.
2. Immediate SSM report if you had a SSM that resulted in an applicable emission standard in the relevant standard being exceeded, and you took an action that was not consistent with your SSM plan | a. The information required in § 63.10(d)(5)(ii) | i. Except as specified in item 2.a.ii of this table, by letter within 7 working days after the end of the event unless you have made alternative arrangements with the permitting authority (§ 63.10(d)(5)(ii)). ii. Beginning no later than the compliance dates specified in § 63.2342(e), item 2.a.i of this table no longer applies.

33. Table 12 to subpart EEEE of Part 63 is revised to read as follows:

Table 12 to Subpart EEEE of Part 63—Applicability of General Provisions to Subpart EEEE

As stated in §§ 63.2382 and 63.2398, you must comply with the applicable General Provisions requirements as follows:

Citation | Subject | Brief description | Applies to subpart EEEE
§ 63.1 | Applicability | Initial applicability determination; Applicability after standard established; Permit requirements; Extensions, Notifications | Yes.
§ 63.2 | Definitions | Definitions for part 63 standards | Yes.
§ 63.3 | Units and Abbreviations | Units and abbreviations for part 63 standards | Yes.
§ 63.4 | Prohibited Activities and Circumvention | Prohibited activities; Circumvention, Severability | Yes.
§ 63.5 | Construction/Reconstruction | Applicability; Applications; Approvals | Yes.
§ 63.6(a) | Compliance with Standards/O&M Applicability | GP apply unless compliance extension; GP apply to area sources that become major | Yes.
§ 63.6(b)(1)-(4) | Compliance Dates for New and Reconstructed Sources | Standards apply at effective date; 3 years after effective date; upon startup; 10 years after construction or reconstruction commences for CAA section 112(f) | Yes.
§ 63.6(b)(5) | Notification | Must notify if commenced construction or reconstruction after proposal | Yes.
§ 63.6(b)(6) | [Reserved]
§ 63.6(b)(7) | Compliance Dates for New and Reconstructed Area Sources That Become Major | Area sources that become major must comply with major source standards immediately upon becoming major, regardless of whether required to comply when they were an area source | Yes.
§ 63.6(c)(1)-(2) | Compliance Dates for Existing Sources | Comply according to date in this subpart, which must be no later than 3 years after effective date; for section 112(f) standards, comply within 90 days of effective date unless compliance extension | Yes.
§ 63.6(c)(3)-(4) | [Reserved]
§ 63.6(c)(5) | Compliance Dates for Existing Area Sources That Become Major | Area sources that become major must comply with major source standards by date indicated in this subpart or by equivalent time period (e.g., 3 years) | Yes.
§ 63.6(d) | [Reserved]
§ 63.6(e)(1)(i) | Operation and Maintenance | Operate to minimize emissions at all times | Yes, before July 7, 2023. No, beginning on and after July 7, 2023. See § 63.2350(d) for general duty requirement.
§ 63.6(e)(1)(ii) | Operation and Maintenance | Correct malfunctions as soon as practicable | Yes, before July 7, 2023. No, beginning on and after July 7, 2023.
§ 63.6(e)(1)(iii) | Operation and Maintenance | Operation and maintenance requirements independently enforceable; information Administrator will use to determine if operation and maintenance requirements were met | Yes.
§ 63.6(e)(2) | [Reserved]
§ 63.6(e)(3) | SSM Plan | Requirement for SSM plan; content of SSM plan; actions during SSM | Yes, before July 7, 2023; however, (1) the 2-day reporting requirement in paragraph § 63.6(e)(3)(iv) does not apply and (2) § 63.6(e)(3) does not apply to emissions sources not requiring control. No, beginning on and after July 7, 2023.
§ 63.6(f)(1) | Compliance Except During SSM | You must comply with emission standards at all times except during SSM | Yes, before July 7, 2023. No, beginning on and after July 7, 2023.
§ 63.6(f)(2)-(3) | Methods for Determining Compliance | Compliance based on performance test, operation and maintenance plans, records, inspection | Yes.
§ 63.6(g)(1)-(3) | Alternative Standard | Procedures for getting an alternative standard | Yes.
§ 63.6(h)(1) | Opacity/Visible Emission Standards | You must comply with opacity and visible emission standards at all times except during SSM | Yes, before July 7, 2023. No, beginning on and after July 7, 2023.
§ 63.6(h)(2)-(9) | Opacity/Visible Emission Standards | Requirements for compliance with opacity and visible emission standards | No; except as it applies to flares for which Method 22 observations are required as part of a flare compliance assessment.
§ 63.6(i)(1)-(14) | Compliance Extension | Procedures and criteria for Administrator to grant compliance extension | Yes.
§ 63.6(j) | Presidential Compliance Exemption | President may exempt any source from requirement to comply with this subpart | Yes.
§ 63.7(a)(2) | Performance Test Dates | Dates for conducting initial performance testing; must conduct 180 days after compliance date | Yes.
§ 63.7(a)(3) | Section 114 Authority | Administrator may require a performance test under CAA section 114 at any time | Yes.
§ 63.7(b)(1) | Notification of Performance Test | Must notify Administrator 60 days before the test | Yes.
§ 63.7(b)(2) | Notification of Rescheduling | If you have to reschedule performance test, must notify Administrator of rescheduled date as soon as practicable and without delay | Yes.
§ 63.7(c) | Quality Assurance (QA)/Test Plan | Requirement to submit site-specific test plan 60 days before the test or on date Administrator agrees with; test plan approval procedures; performance audit requirements; internal and external QA procedures for testing | Yes.
§ 63.7(d) | Testing Facilities | Requirements for testing facilities | Yes.
§ 63.7(e)(1) | Conditions for Conducting Performance Tests | Performance tests must be conducted under representative conditions; cannot conduct performance tests during SSM | Yes, before July 7, 2023. No, beginning on and after July 7, 2023. See § 63.2354(b)(6).
§ 63.7(e)(2) | Conditions for Conducting Performance Tests | Must conduct according to this subpart and EPA test methods unless Administrator approves alternative | Yes.
§ 63.7(e)(3) | Test Run Duration | Must have three test runs of at least 1 hour each; compliance is based on arithmetic mean of three runs; conditions when data from an additional test run can be used | Yes; however, for transfer racks per §§ 63.987(b)(3)(i)(A)-(B) and 63.997(e)(1)(v)(A)-(B) provide exceptions to the requirement for test runs to be at least 1 hour each.
§ 63.7(e)(4) | Authority to Require Testing | Administrator has authority to require testing under CAA section 114 regardless of § 63.7 (e)(1)-(3) | Yes.
§ 63.7(f) | Alternative Test Method | Procedures by which Administrator can grant approval to use an intermediate or major change, or alternative to a test method | Yes.
§ 63.7(g) | Performance Test Data Analysis | Must include raw data in performance test report; must submit performance test data 60 days after end of test with the Notification of Compliance Status; keep data for 5 years | Yes, except this subpart specifies how and when the performance test and performance evaluation results are reported.
§ 63.7(h) | Waiver of Tests | Procedures for Administrator to waive performance test | Yes.
§ 63.8(a)(1) | Applicability of Monitoring Requirements | Subject to all monitoring requirements in standard | Yes.
§ 63.8(a)(2) | Performance Specifications | Performance Specifications in appendix B of 40 CFR part 60 apply | Yes.
§ 63.8(a)(3) | [Reserved]
§ 63.8(a)(4) | Monitoring of Flares | Monitoring requirements for flares in § 63.11 | Yes, before July 7, 2023; however, flare monitoring requirements in § 63.987(c) also apply before July 7, 2023. No, beginning on and after July 7, 2023. See § 63.2380.
§ 63.8(b)(1) | Monitoring | Must conduct monitoring according to standard unless Administrator approves alternative | Yes.
§ 63.8(b)(2)-(3) | Multiple Effluents and Multiple Monitoring Systems | Specific requirements for installing monitoring systems; must install on each affected source or after combined with another affected source before it is released to the atmosphere provided the monitoring is sufficient to demonstrate compliance with the standard; if more than one monitoring system on an emission point, must report all monitoring system results, unless one monitoring system is a backup | Yes.
§ 63.8(c)(1) | Monitoring System Operation and Maintenance | Maintain monitoring system in a manner consistent with good air pollution control practices | Yes.
§ 63.8(c)(1)(i) | Routine and Predictable SSM | Keep parts for routine repairs readily available; reporting requirements for SSM when action is described in SSM plan | Yes, before July 7, 2023. No, beginning on and after July 7, 2023.
§ 63.8(c)(1)(ii) | CMS malfunction not in SSM plan | Keep the necessary parts for routine repairs if CMS malfunctions | Yes.
§ 63.8(c)(1)(iii) | Compliance with Operation and Maintenance Requirements | Develop a written SSM plan for CMS | Yes, before July 7, 2023. No, beginning on and after July 7, 2023.
§ 63.8(c)(2)-(3) | Monitoring System Installation | Must install to get representative emission or parameter measurements; must verify operational status before or at performance test | Yes.
§ 63.8(c)(4) | CMS Requirements | CMS must be operating except during breakdown, out-of-control, repair, maintenance, and high-level calibration drifts; COMS must have a minimum of one cycle of sampling and analysis for each successive 10-second period and one cycle of data recording for each successive 6-minute period; CEMS must have a minimum of one cycle of operation for each successive 15-minute period | Yes; however, COMS are not applicable.
§ 63.8(c)(5) | COMS Minimum Procedures | COMS minimum procedures | No.
§ 63.8(c)(6)-(8) | CMS Requirements | Zero and high level calibration check requirements. Out-of-control periods | Yes, but only applies for CEMS. Subpart SS of this part provides requirements for CPMS.
§ 63.8(d)(1)-(2) | CMS Quality Control | Requirements for CMS quality control | Yes, but only applies for CEMS. Subpart SS of this part provides requirements for CPMS.
§ 63.8(d)(3) | CMS Quality Control | Must keep quality control plan on record for 5 years; keep old versions | Yes, before July 7, 2023, but only applies for CEMS. Subpart SS of this part provides requirements for CPMS. No, beginning on and after July 7, 2023. See § 63.2366(c).
§ 63.8(e) | CMS Performance Evaluation | Notification, performance evaluation test plan, reports | Yes, but only applies for CEMS, except this subpart specifies how and when the performance evaluation results are reported.
§ 63.8(f)(1)-(5) | Alternative Monitoring Method | Procedures for Administrator to approve alternative monitoring | Yes, but subpart SS of this part also provides procedures for approval of CPMS.
§ 63.8(f)(6) | Alternative to Relative Accuracy Test | Procedures for Administrator to approve alternative relative accuracy tests for CEMS | Yes.
§ 63.8(g) | Data Reduction | COMS 6-minute averages calculated over at least 36 evenly spaced data points; CEMS 1 hour averages computed over at least four equally spaced data points; data that cannot be used in average | Yes; however, COMS are not applicable.
§ 63.9(a) | Notification Requirements | Applicability and State delegation | Yes.
§ 63.9(b)(1)-(2), (4)-(5) | Initial Notifications | Submit notification within 120 days after effective date; notification of intent to construct/reconstruct, notification of commencement of construction/reconstruction, notification of startup; contents of each | Yes.
§ 63.9(c) | Request for Compliance Extension | Can request if cannot comply by date or if installed best available control technology or lowest achievable emission rate (BACT/LAER) | Yes.
§ 63.9(d) | Notification of Special Compliance Requirements for New Sources | For sources that commence construction between proposal and promulgation and want to comply 3 years after effective date | Yes.
§ 63.9(e) | Notification of Performance Test | Notify Administrator 60 days prior | Yes.
§ 63.9(f) | Notification of VE/Opacity Test | Notify Administrator 30 days prior | No.
§ 63.9(g) | Additional Notifications When Using CMS | Notification of performance evaluation; notification about use of COMS data; notification that exceeded criterion for relative accuracy alternative | Yes; however, there are no opacity standards.
§ 63.9(h)(1)-(6) | Notification of Compliance Status | Contents due 60 days after end of performance test or other compliance demonstration, except for opacity/visible emissions, which are due 30 days after; when to submit to federal vs. state authority | Yes; however, (1) there are no opacity standards and (2) all initial Notification of Compliance Status, including all performance test data, are to be submitted at the same time, either within 240 days after the compliance date or within 60 days after the last performance test demonstrating compliance has been completed, whichever occurs first.
§ 63.9(i) | Adjustment of Submittal Deadlines | Procedures for Administrator to approve change in when notifications must be submitted | Yes.
§ 63.9(j) | Change in Previous Information | Must submit within 15 days after the change | No. These changes will be reported in the first and subsequent compliance reports.
§ 63.10(a) | Recordkeeping/Reporting | Applies to all, unless compliance extension; when to submit to federal vs. state authority; procedures for owners of more than one source | Yes.
§ 63.10(b)(1) | Recordkeeping/Reporting | General requirements; keep all records readily available; keep for 5 years | Yes.
§ 63.10(b)(2)(i) | Records Related to Startup and Shutdown | Occurrence of each for operations (process equipment) | Yes, July 7, 2023. No, beginning on and after July 7, 2023.
§ 63.10(b)(2)(ii) | Recordkeeping Relevant to Malfunction Periods and CMS | Occurrence of each malfunction of air pollution equipment | Yes, before July 7, 2023. No, beginning on and after July 7, 2023. See § 63.2390(f).
§ 63.10(b)(2)(iii) | Recordkeeping Relevant to Maintenance of Air Pollution Control and Monitoring Equipment | Maintenance on air pollution control equipment | Yes.
§ 63.10(b)(2)(iv) | Recordkeeping Relevant to SSM Periods and CMS | Actions during SSM | Yes, before July 7, 2023. No, beginning on and after July 7, 2023.
§ 63.10(b)(2)(v) | Recordkeeping Relevant to SSM Periods and CMS | Actions during SSM | No.
§ 63.10(b)(2)(vi)-(xi) | CMS Records | Malfunctions, inoperative, out-of-control periods | Yes.
§ 63.10(b)(2)(xii) | Records | Records when under waiver | Yes.
§ 63.10(b)(2)(xiii) | Records | Records when using alternative to relative accuracy test | Yes.
§ 63.10(b)(2)(xiv) | Records | All documentation supporting initial notification and notification of compliance status | Yes.
§ 63.10(b)(3) | Records | Applicability determinations | Yes.
§ 63.10(c)(1)-(14) | Records | Additional records for CMS | Yes.
§ 63.10(c)(15) | Records | Additional records for CMS | Yes, before July 7, 2023. No, beginning on and after July 7, 2023.
§ 63.10(d)(1) | General Reporting Requirements | Requirement to report | Yes.
§ 63.10(d)(2) | Report of Performance Test Results | When to submit to federal or state authority | No. This subpart specifies how and when the performance test results are reported.
§ 63.10(d)(3) | Reporting Opacity or Visible Emissions Observations | What to report and when | Yes.
§ 63.10(d)(4) | Progress Reports | Must submit progress reports on schedule if under compliance extension | Yes.
§ 63.10(d)(5) | SSM Reports | Contents and submission | Yes, before July 7, 2023. No, beginning on and after July 7, 2023. See § 63.2386(d)(1)(xiii).
§ 63.10(e)(1)-(2) | Additional CMS Reports | Must report results for each CEMS on a unit; written copy of CMS performance evaluation; two-three copies of COMS performance evaluation | Yes, except this subpart specifies how and when the performance evaluation results are reported; however, COMS are not applicable.
§ 63.10(e)(3)(i)-(iii) | Reports | Schedule for reporting excess emissions and parameter monitor exceedance (now defined as deviations) | Yes; however, note that the title of the report is the compliance report; deviations include excess emissions and parameter exceedances.
§ 63.10(e)(3)(iv)-(v) | Excess Emissions Reports | Requirement to revert to quarterly submission if there is an excess emissions or parameter monitoring exceedance (now defined as deviations); provision to request semiannual reporting after compliance for 1 year; submit report by 30th day following end of quarter or calendar half; if there has not been an exceedance or excess emissions (now defined as deviations), report contents in a statement that there have been no deviations; must submit report containing all of the information in §§ 63.8(c)(7)-(8) and 63.10(c)(5)-(13) | Yes.
§ 63.10(e)(3)(vi)-(viii) | Excess Emissions Report and Summary Report | Requirements for reporting excess emissions for CMS (now called deviations); requires all of the information in §§ 63.10(c)(5)-(13) and 63.8(c)(7)-(8) | No. This subpart specifies the reported information for deviations within the compliance reports.
§ 63.10(e)(4) | Reporting COMS Data | Must submit COMS data with performance test data | No.
§ 63.10(f) | Waiver for Recordkeeping/Reporting | Procedures for Administrator to waive | Yes.
§ 63.11(b) | Flares | Requirements for flares | Yes, before July 7, 2023; § 63.987 requirements apply, and the section references § 63.11(b). No, beginning on and after July 7, 2023. See § 63.2380.
§ 63.11(c), (d), and (e) | Control and work practice requirements | Alternative work practice for equipment leaks | Yes.
§ 63.12 | Delegation | State authority to enforce standards | Yes.
§ 63.13 | Addresses | Addresses where reports, notifications, and requests are sent | Yes.
§ 63.14 | Incorporation by Reference | Test methods incorporated by reference | Yes.
§ 63.15 | Availability of Information | Public and confidential information | Yes.

[FR Doc. 2020-05900 Filed 7-6-20; 8:45 am]

BILLING CODE 6560-50-P